DEPARTMENT OF AGRICULTURE

Forest Service

36 CFR Part 242

DEPARTMENT OF THE INTERIOR

Fish and Wildlife Service

50 CFR Part 100

[Docket No. FWS-R7-SM-2020-0077; FXFR13350700640 FF07J00000 223]

RIN 1018-BF10

Subsistence Management Regulations for Public Lands in Alaska—2022-23 and 2023-24 Subsistence Taking of Wildlife Regulations

AGENCY: Forest Service, Agriculture; Fish and Wildlife Service, Interior.

ACTION: Final rule.

SUMMARY: This final rule establishes regulations for seasons, harvest limits, and methods and means related to the taking of wildlife for subsistence uses in Alaska for the 2022-2023 and 2023-24 regulatory years. The Federal Subsistence Board (Board) completes the biennial process of revising subsistence hunting and trapping regulations in even-numbered years and subsistence fishing and shellfish regulations in odd-numbered years; public proposal and review processes take place during the preceding year. The Board also addresses customary and traditional use determinations during the applicable biennial cycle. This rule also revises the customary and traditional use determinations for wildlife, the general regulations, and a deferred proposal from the last fish cycle.

DATES: This rule is effective July 26, 2022.

ADDRESSES: The comments received on the proposed rule as well as the Board meeting transcripts are available at https://www.regulations.gov in Docket No. FWS-R7-SM-2020-0077. Board meeting transcripts are also available for review at the Office of Subsistence Management, 1011 East Tudor Road, Mail Stop 121, Anchorage, AK 99503, or on the Office of Subsistence Management website (https://www.doi.gov/subsistence).

FOR FURTHER INFORMATION CONTACT: Chair, Federal Subsistence Board, c/o U.S. Fish and Wildlife Service, Attention: Sue Detwiler, Assistant Regional Director, Office of Subsistence Management; (907) 786-3888 or subsistence@fws.gov. For questions specific to National Forest System lands, contact Gregory Risdahl, Regional Subsistence Program Leader, USDA, Forest Service, Alaska Region; (907) 302-7354 or gregory.risdahl@usda.gov.

SUPPLEMENTARY INFORMATION:

Background

Under Title VIII of the Alaska National Interest Lands Conservation Act (ANILCA) (16 U.S.C. 3111-3126), the Secretary of the Interior and the Secretary of Agriculture (Secretaries) jointly implement the Federal Subsistence Management Program. This program provides a preference for take of fish and wildlife resources for subsistence uses on Federal public lands and waters in Alaska. The Secretaries published temporary regulations to carry out this program in the Federal Register on June 29, 1990 (55 FR 27114) and published final regulations in the Federal Register on May 29, 1992 (57 FR 22940). The Program has subsequently amended these regulations a number of times. Because this program is a joint effort between Interior and Agriculture, these regulations are located in two titles of the Code of Federal Regulations (CFR): title 36, “Parks, Forests, and Public Property,” and title 50, “Wildlife and Fisheries,” at 36 CFR 242.1-242.28 and 50 CFR 100.1-100.28, respectively. The regulations contain subparts as follows: Subpart A, General Provisions; Subpart B, Program Structure; Subpart C, Board Determinations; and Subpart D, Subsistence Taking of Fish and Wildlife.

Consistent with subpart B of these regulations, the Secretaries established a Federal Subsistence Board (FSB or Board) to administer the Federal Subsistence Management Program. The Board comprises:

• A Chair appointed by the Secretary of the Interior with concurrence of the Secretary of Agriculture;

• The Alaska Regional Director, U.S. Fish and Wildlife Service;

• The Alaska Regional Director, National Park Service;

• The Alaska State Director, Bureau of Land Management;

• The Alaska Regional Director, Bureau of Indian Affairs;

• The Alaska Regional Forester, USDA Forest Service (USFS); and

• Two public members appointed by the Secretary of the Interior with concurrence of the Secretary of Agriculture.

Through the Board, these agencies participate in the development of regulations for subparts C and D, which, among other things, set forth program eligibility and specific harvest seasons and limits.

In administering the program, the Secretaries divided Alaska into 10 subsistence resource regions, each of which is represented by a Regional Advisory Council (Council or RAC). The RACs provide a forum for rural residents with personal knowledge of local conditions and resource requirements to have a meaningful role in the subsistence management of fish and wildlife on Federal public lands in Alaska. The Council members represent varied geographical, cultural, and user interests within each region.

The Board addresses customary and traditional (C&T) use determinations during the applicable biennial cycle. Section __.24 (customary and traditional use determinations) was originally published in the Federal Register on May 29, 1992 (57 FR 22940). The regulations at 36 CFR 242.4 and 50 CFR 100.4 define “customary and traditional use” as “a long-established, consistent pattern of use, incorporating beliefs and customs which have been transmitted from generation to generation . . . .” Since 1992, the Board has made a number of customary and traditional use determinations at the request of affected subsistence users. Those modifications, along with some administrative corrections, were published in the Federal Register as follows:

Modifications to §__.24
Federal Register citation | Date of publication | Rule made changes to the following provisions of __.24
59 FR 27462 | May 27, 1994 | Wildlife and Fish/Shellfish.
59 FR 51855 | October 13, 1994 | Wildlife and Fish/Shellfish.
60 FR 10317 | February 24, 1995 | Wildlife and Fish/Shellfish.
61 FR 39698 | July 30, 1996 | Wildlife and Fish/Shellfish.
62 FR 29016 | May 29, 1997 | Wildlife and Fish/Shellfish.
63 FR 35332 | June 29, 1998 | Wildlife and Fish/Shellfish.
63 FR 46148 | August 28, 1998 | Wildlife and Fish/Shellfish.
64 FR 1276 | January 8, 1999 | Fish/Shellfish.
64 FR 35776 | July 1, 1999 | Wildlife.
65 FR 40730 | June 30, 2000 | Wildlife.
66 FR 10142 | February 13, 2001 | Fish/Shellfish.
66 FR 33744 | June 25, 2001 | Wildlife.
67 FR 5890 | February 7, 2002 | Fish/Shellfish.
67 FR 43710 | June 28, 2002 | Wildlife.
68 FR 7276 | February 12, 2003 | Fish/Shellfish.
69 FR 5018 | February 3, 2004 | Fish/Shellfish.
69 FR 40174 | July 1, 2004 | Wildlife.
70 FR 13377 | March 21, 2005 | Fish/Shellfish.
70 FR 36268 | June 22, 2005 | Wildlife.
71 FR 15569 | March 29, 2006 | Fish/Shellfish.
71 FR 37642 | June 30, 2006 | Wildlife.
72 FR 12676 | March 16, 2007 | Fish/Shellfish.
72 FR 73426 | December 27, 2007 | Wildlife/Fish.
73 FR 35726 | June 26, 2008 | Wildlife.
74 FR 14049 | March 30, 2009 | Fish/Shellfish.
75 FR 37918 | June 30, 2010 | Wildlife.
76 FR 12564 | March 8, 2011 | Fish/Shellfish.
77 FR 35482 | June 13, 2012 | Wildlife.
79 FR 35232 | June 19, 2014 | Wildlife.
81 FR 52528 | August 8, 2016 | Wildlife.
83 FR 3079 | January 23, 2018 | Fish.
83 FR 50758 | October 9, 2018 | Wildlife.
84 FR 39744 | August 12, 2019 | Fish.
85 FR 74796 | November 23, 2020 | Wildlife.

Current Rule

The Departments published a proposed rule on February 23, 2021 (86 FR 10899), to amend the wildlife sections of subparts C and D of 36 CFR part 242 and 50 CFR part 100. The proposed rule opened a comment period, which closed on May 24, 2021. The Departments advertised the proposed rule by mail, email, web page, social media, radio, and newspaper. During that period, the RACs met and, in addition to other Council business, generated proposals and received suggestions for proposals from the public. The Board received 58 proposals for changes to subparts C and D and reviewed 15 wildlife closure reviews. In addition to the proposals listed below, 4 comments on the proposed rule were received from the public. Three were in support of the proposed rule based on conservation concerns and providing a subsistence lifestyle for rural Alaskans. The one comment in opposition, stated that wildlife should be “left alone and not disturbed”. Title VIII of ANILCA reguires the Secretaries to promulgate regulations and provide for a preference on the take of fish and wildlife resources for nonwasteful subsistence uses.

After the comment period closed, the Board prepared a booklet describing the proposals and distributed it to the public. The proposals were also available online. The public then had an additional 45 days in which to comment on the proposals for changes to the regulations.

The 10 RACs met again, received public comments, and formulated their recommendations to the Board on proposals for their respective regions. The Councils had a substantial role in reviewing the proposed rule and making recommendations for the final rule. Moreover, a Council Chair, or a designated representative, presented each Council's recommendations at the Board meeting that was held April 12-15, 2022. These final regulations reflect Board review and consideration of RAC recommendations, Tribal and Alaska Native corporation consultations, public comments, and the Alaska Department of Fish and Game (ADF&G) recommendations. The public received extensive opportunity to review and comment on all changes.

Of the 58 proposals, one was withdrawn by the proponent, one was a deferred proposal from the previous rulemaking cycle pertaining to fish regulations, 25 were on the Board's non-consensus agenda, and 31 were on the consensus agenda. The consensus agenda is made up of proposals for which there is agreement among the affected Councils, a majority of the Interagency Staff Committee, and the ADF&G concerning a proposed regulatory action. Anyone may request that the Board remove a proposal from the consensus agenda and place it on the non-consensus agenda. The Board votes en masse on the consensus agenda after deliberation and action on the non-consensus agenda.

Board actions on each proposal and closure review are listed below. When making decisions, the Board may use, but is not limited to, the following guidelines for consideration of whether a proposal: provides a subsistence priority on public lands, is supported by substantial scientific and traditional ecological knowledge (TEK) evidence, recognizes principles of fish and wildlife conservation, provides opportunity, and would not be detrimental or place undue burden on rural Alaskan subsistence users.

Analysis and justification for the action taken on each proposal are available for review at the Office of Subsistence Management, 1011 East Tudor Road, Mail Stop 121, Anchorage, Alaska 99503, or on the Federal Subsistence Management Programs website (http://www.doi.gov/subsistence/index.cfm) or at https://www.regulations.gov in Docket No. FWS-R7-SM-2020-0077.

Proposal No. | Species or issue | Unit(s) | General description | Federal Subsistence Board action
WP22-01 | General regulations | Statewide | Define who is/is not a participant in a community harvest program | Adopt.
WP22-02 | Various | 6, 9, 10, 22, 23, 26 | Rescind restrictions for designated hunters in areas with community harvest systems in place | Adopt.
WP22-xx | Moose | 3 | Require the use of locking tags | Withdrawn.
WP22-03 | Wolves | 2 | Establish precise requirements for information taking for the harvest of wolves | Adopt with Office of Subsistence Management (OSM) and Southcentral RAC (SCRAC) modification to remove the 7-day reporting requirement.
WP22-04 | Elk | 1-4 | Establish a hunt with a year-round season | Adopt.
WP22-05 | Elk | 3 | Establish a hunt under a draw permit system | Reject.
WP22-06 | Moose | 3 | Establish a quota and place restrictions on harvest limit | Reject.
WP22-07 | Deer | 4 | Closure to non-federally qualified users, Admiralty Island | Defer until 2023 FSB winter meeting to gather more data and address options to prevent user conflict.
WP22-08 | Deer | 4 | Place a harvest restriction on non-federally qualified users | Defer until 2023 FSB winter meeting to gather more data and address options to prevent user conflict.
WP22-09 | Deer | 4 | Closure to non-federally qualified users, Lisianki Strait | Reject.
WP22-10 | Deer | 4 | Reduce bag limit to non-federally qualified subsistence hunters | Defer until 2023 FSB winter meeting to gather more data and address options to prevent user conflict.
WP22-11 | Goat | 5A | Rescind the harvest quota | Adopt with OSM modification to remove the language describing an announcement of the quota from unit-specific regulations and maintain in the delegation of authority letter only.
WCR22-01 | Deer | 2 | Prince of Wales Island closed Aug. 1-15, except for use by federally qualified subsistence users; non-federally qualified users may harvest only two bucks | Maintain status quo.
WCR22-02 | Moose | 5 | Unit 5A, except Nunatak Bench—seasonal closures to non-federally qualified users | Maintain status quo.
WP22-12 | Deer | 6D | Revise hunt areas and season dates | Adopt with SCRAC modification to restrict the January season harvest limit to one deer in all of Unit 6.
WP22-13 | Deer | 6 | Add deer to designated hunter list | Reject.
WP22-14 | Black bear | 6 | Increase harvest limit | Reject.
WP22-15 | General trapping | 7 | Adjust language to restrict trapping in a portion of USFS lands in Unit 7 | Reject.
WP22-16 | Moose | 15A, 15B | C&T use determination (Moose Pass) | Adopt.
WP22-17 | Moose | 7 | C&T use determination (Moose Pass) | Adopt.
WP22-18 | Moose | 15A, 15B | C&T use determination (Moose Pass) | Adopt.
WP22-19 | Moose | 15C | C&T use determination (Moose Pass) | Reject.
WP22-20 | Moose | 15C | C&T use determination (Cooper Landing) | Reject.
WP22-21 | Caribou | 7 | C&T use determination (Moose Pass) | Adopt.
WP22-22 | Caribou | 15B, 15C | C&T use determination (Moose Pass) | Adopt as modified by SCRAC to remove Unit 15C.
WP22-23 | Goat | 7 | C&T use determination (Moose Pass) | Adopt.
WP22-24 | Goat | 15 | C&T use determination (Moose Pass) | Adopt as modified by SCRAC to remove Unit 15C.
WP22-25a | Sheep | 7 | C&T use determination (Cooper Landing) | Adopt.
WP22-25b | Sheep | 7 | Establish hunt | Adopt with OSM modification to establish a Federal drawing permit hunt for sheep in Unit 7 with a harvest limit of one ram with full curl horn or larger, and delegate authority to the Seward District Ranger of the Chugach National Forest to close the season and set the harvest quota, the number of permits to be issued, and any needed permit conditions via delegation of authority letter only.
WP22-26a | Sheep | 7 | C&T use determination (Moose Pass) | Adopt.
WP22-26b | Sheep | 7 | Establish hunt | Take no action.
WP22-27 | Sheep | 15 | C&T use determination (Cooper Landing and Ninilchik) | Adopt with SCRAC modification to recognize C&T determination of sheep for Cooper Landing only in Units 15A and 15B (remove 15C).
WP22-28 | Moose | 7 | Extend hunting season by 5 days from Sep. 25 | Adopt with SCRAC modification to shift the season to Aug. 20-Sep. 25.
WP22-29 | Moose | 7 | Extend hunting season | Take no action.
WP22-30 | Moose | 15 | Extend hunting season | Adopt with SCRAC modification to shift the season to Aug. 20-Sep. 25.
WP22-31 | Moose | 15 | Extend hunting season | Take no action.
WP22-32 | Bear, Caribou, Sheep, Moose | 15 | C&T use determination (North Fork Rural Community) | Reject.
WP22-33 | Black bear | 11, 12 | Rescind sealing requirement | Adopt.
WP22-34 | Sheep | 11, 12 | Change salvage requirements for sheep; meat-on-bone salvage requirement | Reject.
WP22-35 | Caribou | 11 | Establish a may-be-announced season | Adopt with OSM modification to delegate authority to the WRST superintendent to announce season dates, harvest quotas, and the number of permits to be issued; to define harvest areas; and to open and close the season via a delegation of authority letter only.
WP22-36 | Moose, Caribou | 11, 12, 13 | Incorporate WSA 20-02 temporary regulations into permanent regulations | Adopt with the OSM modification and a Board amendment to define the hunt area for the Ahtna Intertribal Resource Commission community harvest system in Unit 12.
WP22-37 | Ptarmigan | 9D | C&T use determination (Cold Bay, King Cove, Sand Point, Belkofski, Sanak, Pauloff Harbor, Unga, Nelson Lagoon) | Adopt with OSM modification; all residents of Unit 9D.
WP22-38a | Caribou | 10 | Add Cold Bay and Nelson Lagoon to existing C&T determination | Adopt.
WP22-38b | Caribou | 10 | Allow federally qualified subsistence users access to Federal public lands for the taking of caribou | Adopt with OSM and Kodiak/Aleutians RAC modification; to remove the closure from the unit-specific regulations and delegate authority to the Izembek National Wildlife Refuge (NWR) Refuge Manager to open and close Federal public lands to non-federally qualified users annually based on the current population status of the Unimak caribou herd in consultation with ADF&G staff via delegation of authority letter.
WP22-39 | Hare | 9, 17 | Establish specific harvest regulations for Alaska hare | Adopt with OSM modification revising the definition of hare and with Bristol Bay RAC to change the season closing date to March 31.
WP22-40 | Wolves, Wolverine | 9B, 9C 17B, 17C | Allow the use of snowmachines to position wolves and wolverines | Defer to Jan 2023 FSB meeting to allow additional time to revise text.
WP22-41 | Caribou | 9A, 9C | Delegate authority to the Togiak NWR manager to open/close seasons, announce harvest limits, and set sex restrictions via delegation of authority letter | Adopt.
WCR22-05 | Moose | 9 | 9C, Naknek River—Dec. closure to non-federally qualified users | Maintain status quo.
WCR22-07 | Caribou | 17 | Nushagak Peninsula—closed to non-federally qualified users unless pop. >900 caribou | Maintain status quo.
WP22-42 | Moose | 18 Remainder | Increase the harvest limit | Adopt.
WP22-43 | Moose | 18 | Revise the delegation of authority for the Refuge Manager to adjust harvest limits based on water levels | Reject.
WP22-44 | Moose | 18 | Change season dates and establish a may-be-announced season | Adopt with OSM modification to revise the regulatory language and to delegate authority to the Yukon Delta NWR manager to announce the winter season and set harvest quotas via delegation of authority letter only.
WP22-45 | Hare | 18, 22, 23 | Establish specific harvest regulations for Alaska hare | Adopt with OSM modification to shorten the season to Aug. 1-May 31 and to modify the definition of hare.
WP22-46 | Brown bear | 24B | Increase harvest limit | Adopt.
WP22-47 | Caribou | 22 | Allow the harvest of calves | Reject.
WP22-48 | Moose | 22A | Revise hunt area boundaries | Adopt.
WP22-49 | Moose | 22A | Remove federally qualified restriction; change to match hunting season established for residents and nonresidents by Alaska Board of Game | Adopt.
WCR22-09b | Moose | 22 | Unit 22A Unalakleet drainage—closed except to Unalakleet residents | Modify the closure; only open to federally qualified subsistence users.
WCR22-09c | Moose | 22 | Unit 22A remainder—seasonal closure to non-federally qualified users | Maintain status quo.
WCR22-11/12 | Moose | 22 | WCR22-11: Unit 22B, W. Darby Mtns-Fall—closed to non-federally qualified users. WCR22-12: Unit 22B, W Darby Mtns-Winter—closed except by White Mtn. and Golovin | Maintain status quo.
WCR22-13 | Moose | 22 | Unit 22D, Kougarok, Kuzitrin, Pilgrim drainages—closed except by Unit 22C and 22D residents | Maintain status quo.
WCR22-14 | Moose | 22 | Unit 22D, W Tisuk and Canyon drainage—closed except by Unit 22C and 22D residents | Maintain status quo.
WCR22-16 | Moose | 22 | Unit 22E—closed to non-federally qualified users | Maintain status quo.
WP22-50 | Beaver | 23 | Trapping: Increase harvest limit to “no limit” | Adopt with OSM modification to combine Unit 23 trapping areas.
WCR22-18 | Sheep | 23 | Unit 23-Baird Mtns—closed to non-federally qualified users | Maintain status quo.
WCR22-27 | Musk ox | 23 | Unit 23, Cape Krusenstern National Monument—closed to residents of Point Hope | Eliminate closure as recommended by OSM.
WCR22-45 | Caribou | 23 | Unit 23-Noatak—closed to non-federally qualified users | Maintain status quo.
WP22-51 | Moose | 20B | Remove Minto Flats registration hunt | Adopt.
WP22-52 | Moose | 25A | Lengthen season | Adopt with Eastern Interior RAC and ADF&G modification to extend the season in the Coleen, Firth, and Old Crow River drainages only.
WP22-53 | Arctic fox | 25 | Establish season/harvest limits | Adopt.
WCR22-22 | Moose | 25 | Unit 25D west—closed except by 25D west residents | Maintain status quo.
WP22-54 | Moose | 26A | Revise the hunt area | Adopt with OSM modification to revise the hunt area descriptor.
WP22-55 | Musk ox | 26A | Establish a hunt | Adopt with OSM modification to revise the hunt area descriptor, require drawing permits, and delegate authority to manage the hunt to the BLM Arctic District Office Manager.
WP22-56 | Brown bear | 26A | Harvest limit | Adopt.
WCR22-25 | Musk ox | 26 | Unit 26C—closed except by Kaktovik residents | Maintain status quo.
FP21-10 | Salmon | Lower Copper River Harvest Area | Implement salmon subsistence fishery; harvest limit | Adopt with OSM modification and Board amendment to allow fishing by dip net and rod and reel only, delay the start of the fishery to June 1, and prohibit dip-netting by boats.

These final regulations reflect Board review and consideration of Regional Advisory Council recommendations, Tribal and Alaska Native corporation consultations, public and ADF&G comments. The proposals indicated above as “adopted” are reflected in the rule portion of this document as revisions to the subsistence management regulations. Because this rule concerns public lands managed by an agency or agencies in both the Departments of Agriculture and the Interior, identical text will be incorporated into 36 CFR part 242 and 50 CFR part 100.

Conformance With Statutory and Regulatory Authorities

Administrative Procedure Act Compliance

The Board has provided extensive opportunity for public input and involvement in compliance with Administrative Procedure Act requirements, including publishing a proposed rule in the Federal Register, participation in multiple Regional Council meetings, additional public review and comment on all proposals for regulatory change, and opportunity for additional public comment during the Board meeting prior to deliberation. Additionally, an administrative mechanism exists (and has been used by the public) to request reconsideration of the Board's decision on any particular proposal for regulatory change (36 CFR 242.20 and 50 CFR 100.20). Therefore, the Board believes that sufficient public notice and opportunity for involvement have been given to affected persons regarding Board decisions.

In the more than 30 years that the Program has been operating, no benefit to the public has been demonstrated by delaying the effective date of the subsistence regulations. A lapse in regulatory control could affect the continued viability of fish or wildlife populations and future subsistence opportunities for rural Alaskans, and would generally fail to serve the overall public interest. Therefore, the Board finds good cause pursuant to 5 U.S.C. 553(d)(3) to make this rule effective upon the date set forth in DATES to ensure continued operation of the subsistence program.

National Environmental Policy Act Compliance

A Draft Environmental Impact Statement that described four alternatives for developing a Federal Subsistence Management Program was distributed for public comment on October 7, 1991. The Final Environmental Impact Statement (FEIS) was published on February 28, 1992. The Record of Decision (ROD) on Subsistence Management for Federal Public Lands in Alaska was signed April 6, 1992. The selected alternative in the FEIS (Alternative IV) defined the administrative framework of an annual regulatory cycle for subsistence regulations.

A 1997 environmental assessment dealt with the expansion of Federal jurisdiction over fisheries and is available at the office listed under FOR FURTHER INFORMATION CONTACT. The Secretary of the Interior, with concurrence of the Secretary of Agriculture, determined that expansion of Federal jurisdiction does not constitute a major Federal action significantly affecting the human environment and, therefore, signed a Finding of No Significant Impact.

Section 810 of ANILCA

An ANILCA section 810 analysis was completed as part of the FEIS process on the Federal Subsistence Management Program. The intent of all Federal subsistence regulations is to accord subsistence uses of fish and wildlife on public lands a priority over the taking of fish and wildlife on such lands for other purposes, unless restriction is necessary to conserve healthy fish and wildlife populations. The final section 810 analysis determination appeared in the April 6, 1992, ROD and concluded that the Program, under Alternative IV with an annual process for setting subsistence regulations, may have some local impacts on subsistence uses, but will not likely restrict subsistence uses significantly.

During the subsequent environmental assessment process for extending fisheries jurisdiction, an evaluation of the effects of this rule was conducted in accordance with section 810. That evaluation also supported the Secretaries' determination that the rule will not reach the “may significantly restrict” threshold that would require notice and hearings under ANILCA section 810(a).

Paperwork Reduction Act of 1995 (PRA)

This final rule does not contain any new collections of information that require Office of Management and Budget (OMB) approval under the PRA (44 U.S.C. 3501 et seq.). OMB has reviewed and approved the collections of information associated with the subsistence regulations at 36 CFR part 242 and 50 CFR part 100, and assigned OMB Control Number 1018-0075, with an expiration date of January 31, 2024. We may not conduct or sponsor and you are not required to respond to a collection of information unless it displays a currently valid OMB control number.

Regulatory Planning and Review (Executive Orders 12866 and 13563)

Executive Order 12866 provides that the Office of Information and Regulatory Affairs (OIRA) in the Office of Management and Budget will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

The Regulatory Flexibility Act of 1980 (5 U.S.C. 601 et seq.) requires preparation of flexibility analyses for rules that will have a significant effect on a substantial number of small entities, which include small businesses, organizations, or governmental jurisdictions. In general, the resources to be harvested under this rule are already being harvested and consumed by the local harvester and do not result in an additional dollar benefit to the economy. However, we estimate that two million pounds of meat are harvested by subsistence users annually and, if given an estimated dollar value of $3.00 per pound, this amount would equate to about $6 million in food value Statewide. Based upon the amounts and values cited above, the Departments certify that this rulemaking will not have a significant economic effect on a substantial number of small entities within the meaning of the Regulatory Flexibility Act.

Small Business Regulatory Enforcement Fairness Act

Under the Small Business Regulatory Enforcement Fairness Act (5 U.S.C. 801 et seq.), this rule is not a major rule. It does not have an effect on the economy of $100 million or more, will not cause a major increase in costs or prices for consumers, and does not have significant adverse effects on competition, employment, investment, productivity, innovation, or the ability of U.S.-based enterprises to compete with foreign-based enterprises.

Executive Order 12630

Title VIII of ANILCA requires the Secretaries to administer a subsistence priority on public lands. The scope of this Program is limited by definition to certain public lands. Likewise, these regulations have no potential takings of private property implications as defined by Executive Order 12630.

Unfunded Mandates Reform Act

The Secretaries have determined and certify pursuant to the Unfunded Mandates Reform Act, 2 U.S.C. 1502 et seq., that this rulemaking will not impose a cost of $100 million or more in any given year on local or State governments or private entities. The implementation of this rule is by Federal agencies, and there is no cost imposed on any State or local entities or tribal governments.

Executive Order 12988

The Secretaries have determined that these regulations meet the applicable standards provided in sections 3(a) and 3(b)(2) of Executive Order 12988, regarding civil justice reform.

Executive Order 13132

In accordance with Executive Order 13132, the rule does not have sufficient federalism implications to warrant the preparation of a federalism summary impact statement. Title VIII of ANILCA precludes the State from exercising subsistence management authority over fish and wildlife resources on Federal lands unless it meets certain requirements.

Executive Order 13175

The Alaska National Interest Lands Conservation Act, Title VIII, does not provide specific rights to tribes for the subsistence taking of wildlife, fish, and shellfish. However, the Board provided federally recognized Tribes and Alaska Native corporations opportunities to consult on this rule. Consultation with Alaska Native corporations are based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The Secretaries, through the Board, provided a variety of opportunities for consultation: commenting on proposed changes to the existing rule; engaging in dialogue at the Regional Council meetings; engaging in dialogue at the Board's meetings; and providing input in person, by mail, email, or phone at any time during the rulemaking process.

On April 12, 2022, the Board provided federally recognized Tribes and Alaska Native Corporations a specific opportunity to consult on this rule prior to the start of its public regulatory meeting. Federally recognized Tribes and Alaska Native Corporations were notified by mail and telephone and were given the opportunity to attend via teleconference.

Executive Order 13211

This Executive Order requires agencies to prepare statements of energy effects when undertaking certain actions. However, this rule is not a significant regulatory action under E.O. 13211, affecting energy supply, distribution, or use, and no statement of energy effects is required.

Drafting Information

Theo Matuskowitz drafted these regulations under the guidance of Sue Detwiler of the Office of Subsistence Management, Alaska Regional Office, U.S. Fish and Wildlife Service, Anchorage, Alaska. Additional assistance was provided by

• Chris McKee, Alaska State Office, Bureau of Land Management;

• Kim Jochum, Alaska Regional Office, National Park Service;

• Dr. Glenn Chen, Alaska Regional Office, Bureau of Indian Affairs;

• Jill Klein, Alaska Regional Office, U.S. Fish and Wildlife Service; and

• Gregory Risdahl, Alaska Regional Office, USDA Forest Service.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

Regulation Promulgation

For the reasons set out in the preamble, the Federal Subsistence Board amends title 36, part 242, and title 50, part 100, of the Code of Federal Regulations, as set forth below.

PART __—SUBSISTENCE MANAGEMENT REGULATIONS FOR PUBLIC LANDS IN ALASKA

1. The authority citation for 36 CFR part 242 and 50 CFR part 100 continues to read as follows:

Authority: 16 U.S.C. 3, 472, 551, 668dd, 3101-3126; 18 U.S.C. 3551-3586; 43 U.S.C. 1733.

Subpart C—Board Determinations

2. Amend § __.24 by revising table 1 to paragraph (a)(1) to read as follows:

§ __.24 Customary and traditional use determinations.

(a) * * *

(1) * * *

Table 1 to Paragraph (a)(1)
Area | Species | Determination
Unit 1 | Black Bear | Residents of Units 1-5.
Unit 1 | Brown Bear | Residents of Units 1-5.
Unit 1 | Deer | Residents of Units 1-5.
Unit 1 | Goat | Residents of Units 1-5.
Unit 1 | Moose | Residents of Units 1-5.
Unit 2 | Black Bear | Residents of Units 1-5.
Unit 2 | Deer | Residents of Units 1-5.
Unit 3 | Black Bear | Residents of Units 1-5.
Unit 3 | Brown Bear | Residents of Units 1-5.
Unit 3 | Deer | Residents of Units 1-5.
Unit 3 | Elk | Residents of Units 1-5.
Unit 3 | Moose | Residents of Units 1-5.
Unit 4 | Brown Bear | Residents of Units 1-5.
Unit 4 | Deer | Residents of Units 1-5.
Unit 4 | Goat | Residents of Units 1-5.
Unit 5 | Black Bear | Residents of Units 1-5.
Unit 5 | Brown Bear | Residents of Units 1-5.
Unit 5 | Deer | Residents of Units 1-5.
Unit 5 | Goat | Residents of Units 1-5.
Unit 5 | Moose | Residents of Unit 5A.
Unit 5 | Wolf | Residents of Unit 5A.
Unit 6A | Black Bear | Residents of Yakutat and Units 6C and 6D, excluding residents of Whittier.
Unit 6, remainder | Black Bear | Residents of Units 6C and 6D, excluding residents of Whittier.
Unit 6 | Brown Bear | No Federal subsistence priority.
Unit 6A | Goat | Residents of Units 5A, 6C, Chenega Bay, and Tatitlek.
Unit 6C and Unit 6D | Goat | Residents of Units 6C and 6D.
Unit 6A | Moose | Residents of Units 5A, 6A, 6B, and 6C.
Unit 6B and Unit 6C | Moose | Residents of Units 6A, 6B, and 6C.
Unit 6D | Moose | Residents of Unit 6D.
Unit 6A | Wolf | Residents of Units 5A, 6, 9, 10 (Unimak Island only), 11-13, Chickaloon, and 16-26.
Unit 6, remainder | Wolf | Residents of Units 6, 9, 10 (Unimak Island only), 11-13, Chickaloon, and 16-26.
Unit 7 | Brown Bear | No Federal subsistence priority.
Unit 7 | Caribou | Residents of Cooper Landing, Hope, and Moose Pass.
Unit 7, Brown Mountain hunt area | Goat | Residents of Port Graham and Nanwalek.
Unit 7, remainder | Goat | Residents of Chenega Bay, Cooper Landing, Hope, Moose Pass, Nanwalek, Ninilchik, Port Graham, Seldovia, and Tatilek.
Unit 7 | Moose | Residents of Chenega Bay, Cooper Landing, Hope, Moose Pass, and Tatitlek.
Unit 7 | Sheep | Residents of Cooper Landing and Moose Pass.
Unit 7 | Ruffed Grouse | No Federal subsistence priority.
Unit 8 | Brown Bear | Residents of Old Harbor, Akhiok, Larsen Bay, Karluk, Ouzinkie, and Port Lions.
Unit 8 | Deer | Residents of Unit 8.
Unit 8 | Elk | Residents of Unit 8.
Unit 8 | Goat | No Federal subsistence priority.
Unit 9D | Bison | No Federal subsistence priority.
Unit 9A and Unit 9B | Black Bear | Residents of Units 9A, 9B, 17A, 17B, and 17C.
Unit 9A | Brown Bear | Residents of Pedro Bay.
Unit 9B | Brown Bear | Residents of Unit 9B.
Unit 9C | Brown Bear | Residents of Unit 9C, Igiugig, Kakhonak, and Levelock.
Unit 9D | Brown Bear | Residents of Units 9D and 10 (Unimak Island).
Unit 9E | Brown Bear | Residents of Chignik, Chignik Lagoon, Chignik Lake, Egegik, Ivanof Bay, Perryville, Pilot Point, Ugashik, and Port Heiden/Meshik.
Unit 9A and Unit 9B | Caribou | Residents of Units 9B, 9C, and 17.
Unit 9C | Caribou | Residents of Units 9B, 9C, 17, and Egegik.
Unit 9D | Caribou | Residents of Unit 9D, Akutan, and False Pass.
Unit 9E | Caribou | Residents of Units 9B, 9C, 9E, 17, Nelson Lagoon, and Sand Point.
Unit 9A, Unit 9B, Unit 9C, and Unit 9E | Moose | Residents of Units 9A, 9B, 9C, and 9E.
Unit 9D | Moose | Residents of Cold Bay, False Pass, King Cove, Nelson Lagoon, and Sand Point.
Unit 9D | Ptarmigan | Residents of Unit 9D.
Unit 9B | Sheep | Residents of Iliamna, Newhalen, Nondalton, Pedro Bay, Port Alsworth, and Lake Clark National Park and Preserve within Unit 9B.
Unit 9 | Wolf | Residents of Units 6, 9, 10 (Unimak Island only), 11-13, Chickaloon, and 16-26.
Unit 9A, Unit 9B, Unit 9C, and Unit 9E | Beaver | Residents of Units 9A, 9B, 9C, 9E, and 17.
Unit 10 Unimak Island | Brown Bear | Residents of Units 9D and 10 (Unimak Island).
Unit 10 Unimak Island | Caribou | Residents of Akutan, Cold Bay, False Pass, King Cove, Nelson Lagoon, and Sand Point.
Unit 10, remainder | Caribou | No Federal subsistence priority.
Unit 10 | Wolf | Residents of Units 6, 9, 10 (Unimak Island only), 11-13, Chickaloon, and 16-26.
Unit 11 | Bison | No Federal subsistence priority.
Unit 11, north of the Sanford River | Black Bear | Residents of Chistochina, Chitina, Copper Center, Gakona, Glennallen, Gulkana, Kenny Lake, Mentasta Lake, Slana, Tazlina, Tonsina, and Units 11 and 12.
Unit 11, remainder | Black Bear | Residents of Chistochina, Chitina, Copper Center, Gakona, Glennallen, Gulkana, Kenny Lake, Mentasta Lake, Nabesna Road (mileposts 25-46), Slana, Tazlina, Tok Cutoff Road (mileposts 79-110), Tonsina, and Unit 11.
Unit 11, north of the Sanford River | Brown Bear | Residents of Chistochina, Chitina, Copper Center, Gakona, Glennallen, Gulkana, Kenny Lake, Mentasta Lake, Slana, Tazlina, Tonsina, and Units 11 and 12.
Unit 11, remainder | Brown Bear | Residents of Chistochina, Chitina, Copper Center, Gakona, Glennallen, Gulkana, Kenny Lake, Mentasta Lake, Nabesna Road (mileposts 25-46), Slana, Tazlina, Tok Cutoff Road (mileposts 79-110), Tonsina, and Unit 11.
Unit 11, north of the Sanford River | Caribou | Residents of Units 11, 12, 13A-D, Chickaloon, Healy Lake, and Dot Lake.
Unit 11, remainder | Caribou | Residents of Units 11, 13A-D, and Chickaloon.
Unit 11 | Goat | Residents of Unit 11, Chitina, Chistochina, Copper Center, Gakona, Glennallen, Gulkana, Kenny Lake, Mentasta Lake, Slana, Tazlina, Tonsina, and Dot Lake, Tok Cutoff Road (mileposts 79-110 Mentasta Pass), and Nabesna Road (mileposts 25-46).
Unit 11, north of the Sanford River | Moose | Residents of Units 11, 12, 13A-D, Chickaloon, Healy Lake, and Dot Lake.
Unit 11, remainder | Moose | Residents of Units 11, 13A-D, and Chickaloon.
Unit 11, north of the Sanford River | Sheep | Residents of Unit 12, Chistochina, Chitina, Copper Center, Dot Lake, Gakona, Glennallen, Gulkana, Healy Lake, Kenny Lake, Mentasta Lake, Slana, McCarthy/South Wrangell/South Park, Tazlina, Tonsina, residents along the Nabesna Road—Mileposts 0-46 (Nabesna Road), and residents along the McCarthy Road—Mileposts 0-62 (McCarthy Road).
Unit 11, remainder | Sheep | Residents of Chisana, Chistochina, Chitina, Copper Center, Gakona, Glennallen, Gulkana, Kenny Lake, Mentasta Lake, Slana, McCarthy/South Wrangell/South Park, Tazlina, Tonsina, residents along the Tok Cutoff—Milepost 79-110 (Mentasta Pass), residents along the Nabesna Road—Mileposts 0-46 (Nabesna Road), and residents along the McCarthy Road—Mileposts 0-62 (McCarthy Road).
Unit 11 | Wolf | Residents of Units 6, 9, 10 (Unimak Island only), 11-13, Chickaloon, and 16-26.
Unit 11 | Grouse (Spruce, Blue, Ruffed and Sharp-tailed) | Residents of Units 11, 12, 13, and Chickaloon, 15, 16, 20D, 22, and 23.
Unit 11 | Ptarmigan (Rock, Willow and White-tailed) | Residents of Units 11, 12, 13, Chickaloon, 15, 16, 20D, 22, and 23.
Unit 12 | Brown Bear | Residents of Unit 12, Dot Lake, Chistochina, Gakona, Mentasta Lake, and Slana.
Unit 12 | Caribou | Residents of Unit 12, Chistochina, Dot Lake, Healy Lake, and Mentasta Lake.
Unit 12, that portion within the Tetlin National Wildlife Refuge and those lands within the Wrangell-St. Elias National Preserve north and east of a line formed by the Pickerel Lake Winter Trail from the Canadian border to Pickerel Lake | Moose | Residents of Units 12 and 13C, Dot Lake, and Healy Lake.
Unit 12, that portion east of the Nabesna River and Nabesna Glacier, and south of the Winter Trail running southeast from Pickerel Lake to the Canadian border | Moose | Residents of Units 12 and 13C and Healy Lake.
Unit 12, remainder | Moose | Residents of Unit 11 north of 62nd parallel, Units 12 and 13A-D, Chickaloon, Dot Lake, and Healy Lake.
Unit 12 | Sheep | Residents of Unit 12, Chistochina, Dot Lake, Healy Lake, Mentasta Lake, and Slana.
Unit 12 | Wolf | Residents of Units 6, 9, 10 (Unimak Island only), 11-13, Chickaloon, and 16-26.
Unit 13 | Brown Bear | Residents of Unit 13 and Slana.
Unit 13B | Caribou | Residents of Units 11, 12 (along the Nabesna Road and Tok Cutoff Road, mileposts 79-110), 13, 20D (excluding residents of Fort Greely), and Chickaloon.
Unit 13C | Caribou | Residents of Units 11, 12 (along the Nabesna Road and Tok Cutoff Road, mileposts 79-110), 13, Chickaloon, Dot Lake, and Healy Lake.
Unit 13A and Unit 13D | Caribou | Residents of Units 11, 12 (along the Nabesna Road), 13, and Chickaloon.
Unit 13E | Caribou | Residents of Units 11, 12 (along the Nabesna Road), 13, Chickaloon, McKinley Village, and the area along the Parks Highway between mileposts 216 and 239 (excluding residents of Denali National Park headquarters).
Unit 13D | Goat | No Federal subsistence priority.
Unit 13A and Unit 13D | Moose | Residents of Unit 13, Chickaloon, and Slana.
Unit 13B | Moose | Residents of Units 13 and 20D (excluding residents of Fort Greely) and Chickaloon and Slana.
Unit 13C | Moose | Residents of Units 12 and 13, Chickaloon, Healy Lake, Dot Lake, and Slana.
Unit 13E | Moose | Residents of Unit 13, Chickaloon, McKinley Village, Slana, and the area along the Parks Highway between mileposts 216 and 239 (excluding residents of Denali National Park headquarters).
Unit 13D | Sheep | No Federal subsistence priority.
Unit 13 | Wolf | Residents of Units 6, 9, 10 (Unimak Island only), 11-13, Chickaloon, and 16-26.
Unit 13 | Grouse (Spruce, Blue, Ruffed Sharp-tailed) | Residents of Units 11, 13, Chickaloon, 15, 16, 20D, 22 and 23.
Unit 13 | Ptarmigan (Rock, Willow and White-tailed) | Residents of Units 11, 13, Chickaloon, 15, 16, 20D, 22 and 23.
Unit 14C | Brown Bear | No Federal subsistence priority.
Unit 14 | Goat | No Federal subsistence priority.
Unit 14 | Moose | No Federal subsistence priority.
Unit 14A and Unit 14C | Sheep | No Federal subsistence priority.
Unit 15A and Unit 15B | Black Bear | Residents of Ninilchik.
Unit 15C | Black Bear | Residents of Ninilchik, Port Graham, and Nanwalek.
Unit 15 | Brown Bear | Residents of Ninilchik.
Unit 15B | Caribou | Residents of Cooper Landing, Hope, Nanwalek, Ninilchik, Moose Pass, Port Graham, and Seldovia.
Unit 15C | Caribou | Residents of Cooper Landing, Hope, Nanwalek, Ninilchik, Port Graham, and Seldovia.
Unit 15A and Unit 15B | Goat | Residents of Cooper Landing, Hope, Moose Pass, Nanwalek, Ninilchik, Port Graham, and Seldovia.
Unit 15C | Goat | Residents of Cooper Landing, Hope, Nanwalek, Ninilchik, Port Graham, and Seldovia.
Unit 15A and Unit 15B | Moose | Residents of Cooper Landing, Ninilchik, Moose Pass, Nanwalek, Port Graham, and Seldovia.
Unit 15C | Moose | Residents of Ninilchik, Nanwalek, Port Graham, and Seldovia.
Unit 15A and Unit 15B | Sheep | Residents of Cooper Landing and Ninilchik.
Unit 15C | Sheep | Residents of Ninilchik.
Unit 15 | Ptarmigan (Rock, Willow, and White-tailed) | Residents of Unit 15.
Unit 15 | Grouse (Spruce) | Residents of Unit 15.
Unit 15 | Grouse (Ruffed) | No Federal subsistence priority.
Unit 16B | Black Bear | Residents of Unit 16B.
Unit 16 | Brown Bear | No Federal subsistence priority.
Unit 16A | Moose | No Federal subsistence priority.
Unit 16B | Moose | Residents of Unit 16B.
Unit 16 | Sheep | No Federal subsistence priority.
Unit 16 | Wolf | Residents of Units 6, 9, 10 (Unimak Island only), 11-13, Chickaloon, and 16-26.
Unit 16 | Grouse (Spruce and Ruffed) | Residents of Units 11, 13, Chickaloon, 15, 16, 20D, 22 and 23.
Unit 16 | Ptarmigan (Rock, Willow and White-tailed) | Residents of Units 11, 13, Chickaloon, 15, 16, 20D, 22 and 23.
Unit 17 | Beaver | Residents of Units 9A, 9B, 9C, 9E, and 17.
Unit 17A and that portion of 17B draining into Nuyakuk Lake and Tikchik Lake | Black Bear | Residents of Units 9A and B, 17, Akiak, and Akiachak.
Unit 17, remainder | Black Bear | Residents of Units 9A and B, and 17.
Unit 17A, those portions north and west of a line beginning from the Unit 18 boundary at the northwestern end of Nenevok Lake, to the southern point of upper Togiak Lake, and northeast towards the northern point of Nuyakuk Lake to the Unit 17A boundary | Brown Bear | Residents of Unit 17, Akiak, Akiachak, Goodnews Bay, Kwethluk, and Platinum.
Unit 17B, beginning at the Unit 17B boundary, those portions north and west of a line running from the southern point of upper Togiak Lake, northeast to the northern point of Nuyakuk Lake, and northeast to the point where the Unit 17 boundary intersects the Shotgun Hills | Brown Bear | Residents of Unit 17 and Kwethluk.
Unit 17A, remainder | Brown Bear | Residents of Unit 17, Akiak, Akiachak, Goodnews Bay, and Platinum.
Unit 17B, that portion draining into Nuyakuk Lake and Tikchik Lake | Brown Bear | Residents of Unit 17, Akiak and Akiachak.
Unit 17B, remainder, and Unit 17C | Brown Bear | Residents of Unit 17.
Unit 17A, that portion west of the Izavieknik River, Upper Togiak Lake, Togiak Lake, and the main course of the Togiak River | Caribou | Residents of Units 9B, 17, Eek, Goodnews Bay, Lime Village, Napakiak, Platinum, Quinhagak, Stony River, and Tuntutuliak.
Unit 17A, that portion north of Togiak Lake that includes Izavieknik River drainages | Caribou | Residents of Units 9B, 17, Akiak, Akiachak, Lime Village, Stony River, and Tuluksak.
Units 17A and 17B, those portions north and west of a line beginning from the Unit 18 boundary at the northwestern end of Nenevok Lake, to the southern point of upper Togiak Lake, and northeast to the northern point of Nuyakuk Lake, northeast to the point where the Unit 17 boundary intersects the Shotgun Hills | Caribou | Residents of Units 9B, 17, Kwethluk, Lime Village, and Stony River.
Unit 17B, that portion of Togiak National Wildlife Refuge within Unit 17B | Caribou | Residents of Units 9B, 17, Akiachak, Akiak, Bethel, Eek, Goodnews Bay, Lime Village, Napakiak, Platinum, Quinhagak, Stony River, Tuluksak, and Tuntutuliak.
Unit 17, remainder | Caribou | Residents of Units 9B, 9C, 9E, 17, Lime Village, and Stony River.
Unit 17A, those portions north and west of a line beginning from the Unit 18 boundary at the northwestern end of Nenevok Lake, to the southern point of upper Togiak Lake, and to the Unit 17A boundary to the northeast towards the northern point of Nuyakuk Lake and northeast towards the northern point of Nuyakuk Lake to the Unit 17A boundary | Moose | Residents of Unit 17, Goodnews Bay, Kwethluk, and Platinum.
Unit 17A, that portion north of Togiak Lake that includes Izavieknik River drainages | Moose | Residents of Unit 17, Akiak, Akiachak, Goodnews Bay, and Platinum.
Unit 17A, remainder | Moose | Residents of Unit 17, Goodnews Bay and Platinum.
Units 17B, beginning at the Unit 17B boundary, those portions north and west of a line running from the southern point of upper Togiak Lake, northeast to the northern point of Nuyakuk Lake, and northeast to the point where the Unit 17 boundary intersects the Shotgun Hills | Moose | Residents of Unit 17, Akiak, Akiachak, Goodnews Bay, Levelock, Nondalton, and Platinum.
Unit 17B, that portion within the Togiak National Wildlife Refuge | Moose | Residents of Unit 17, Akiak, Akiachak, Goodnews Baym, Levelock, Nondalton, and Platinum.
Unit 17B, remainder and Unit 17C | Moose | Residents of Unit 17, Nondalton, Levelock, Goodnews Bay, and Platinum.
Unit 17 | Wolf | Residents of Units 6, 9, 10 (Unimak Island only), 11-13, Chickaloon, and 16-26.
Unit 18 | Black Bear | Residents of Unit 18, Unit 19A living downstream of the Holokuk River, Holy Cross, Stebbins, St. Michael, Twin Hills, and Togiak.
Unit 18 | Brown Bear | Residents of Akiachak, Akiak, Eek, Goodnews Bay, Kwethluk, Mountain Village, Napaskiak, Platinum, Quinhagak, St. Marys, and Tuluksak.
Unit 18 | Caribou | Residents of Unit 18, Lower Kalskag, Manokotak, Stebbins, St. Michael, Togiak, Twin Hills, and Upper Kalskag.
Unit 18, that portion of the Yukon River drainage upstream of Russian Mission and that portion of the Kuskokwim River drainage upstream of, but not including, the Tuluksak River drainage | Moose | Residents of Unit 18, Upper Kalskag, Lower Kalskag, Aniak, and Chuathbaluk.
Unit 18, that portion north of a line from Cape Romanzof to Kusilvak Mountain to Mountain Village, and all drainages north of the Yukon River downstream from Marshall | Moose | Residents of Unit 18, Lower Kalskag, St. Michael, Stebbins, and Upper Kalskag.
Unit 18, remainder | Moose | Residents of Unit 18, Lower Kalskag, and Upper Kalskag.
Unit 18 | Musk Ox | No Federal subsistence priority.
Unit 18 | Wolf | Residents of Units 6, 9, 10 (Unimak Island only), 11-13, Chickaloon, and 16-26.
Unit 19C and Unit 19D | Bison | No Federal subsistence priority.
Unit 19A and Unit 19B | Brown Bear | Residents of Units 18 and 19 within the Kuskokwim River drainage upstream from, and including, the Johnson River.
Unit 19C | Brown Bear | No Federal subsistence priority.
Unit 19D | Brown Bear | Residents of Units 19A and D, Tuluksak, and Lower Kalskag.
Unit 19A and Unit 19B | Caribou | Residents of Units 19A and 19B, Unit 18 within the Kuskokwim River drainage upstream from, and including, the Johnson River, and residents of St. Marys, Marshall, Pilot Station, and Russian Mission.
Unit 19C | Caribou | Residents of Unit 19C, Lime Village, McGrath, Nikolai, and Telida.
Unit 19D | Caribou | Residents of Unit 19D, Lime Village, Sleetmute, and Stony River.
Unit 19A and Unit 9B | Moose | Residents of Unit 18 within Kuskokwim River drainage upstream from and including the Johnson River, and residents of Unit 19.
Unit 19B, west of the Kogrukluk River | Moose | Residents of Eek and Quinhagak.
Unit 19C | Moose | Residents of Unit 19.
Unit 19D | Moose | Residents of Unit 19 and Lake Minchumina.
Unit 19 | Wolf | Residents of Units 6, 9, 10 (Unimak Island only), 11-13, Chickaloon, and 16-26.
Unit 20D | Bison | No Federal subsistence priority.
Unit 20F | Black Bear | Residents of Unit 20F, Stevens Village, and Manley Hot Springs.
Unit 20E | Brown Bear | Residents of Unit 12 and Dot Lake.
Unit 20F | Brown Bear | Residents of Unit 20F, Stevens Village, and Manley Hot Springs.
Unit 20A | Caribou | Residents of Cantwell, Nenana, and those domiciled between mileposts 216 and 239 of the Parks Highway, excluding residents of households of the Denali National Park Headquarters.
Unit 20B | Caribou | Residents of Unit 20B, Nenana, and Tanana.
Unit 20C | Caribou | Residents of Unit 20C living east of the Teklanika River, residents of Cantwell, Lake Minchumina, Manley Hot Springs, Minto, Nenana, Nikolai, Tanana, Telida, and those domiciled between mileposts 216 and 239 of the Parks Highway and between mileposts 300 and 309, excluding residents of households of the Denali National Park Headquarters.
Unit 20D and Unit 20E | Caribou | Residents of Units 20D, 20E, 20F, 25, 12 (north of the Wrangell-St. Elias National Park and Preserve), Eureka, Livengood, Manley, and Minto.
Unit 20F | Caribou | Residents of Units 20F and 25D and Manley Hot Springs.
Unit 20A | Moose | Residents of Cantwell, Minto, Nenana, McKinley Village, and the area along the Parks Highway between mileposts 216 and 239, excluding residents of households of the Denali National Park Headquarters.
Unit 20B, Minto Flats Management Area | Moose | Residents of Minto and Nenana.
Unit 20B, remainder | Moose | Residents of Unit 20B, Nenana, and Tanana.
Unit 20C | Moose | Residents of Unit 20C (except that portion within Denali National Park and Preserve and that portion east of the Teklanika River), Cantwell, Manley Hot Springs, Minto, Nenana, those domiciled between mileposts 300 and 309 of the Parks Highway, Nikolai, Tanana, Telida, McKinley Village, and the area along the Parks Highway between mileposts 216 and 239, excluding residents of households of the Denali National Park Headquarters.
Unit 20D | Moose | Residents of Unit 20D and Tanacross.
Unit 20E | Moose | Residents of Unit 20E, Unit 12 north of the Wrangell-St. Elias National Preserve, Circle, Central, Dot Lake, Healy Lake, and Mentasta Lake.
Unit 20F | Moose | Residents of Unit 20F, Manley Hot Springs, Minto, and Stevens Village.
Unit 20E | Sheep | Residents of Units 20E, 25B, 25C, 25D, and Dot Lake, Healy Lake, Northway, Tanacross, Tetlin, and Tok.
Unit 20F | Wolf | Residents of Unit 20F, Stevens Village, and Manley Hot Springs.
Unit 20, remainder | Wolf | Residents of Units 6, 9, 10 (Unimak Island only), 11-13, Chickaloon, and 16-26.
Unit 20D | Grouse, (Spruce, Ruffed and Sharp-tailed) | Residents of Units 11, 13, Chickaloon, 15, 16, 20D, 22, and 23.
Unit 20D | Ptarmigan (Rock and Willow) | Residents of Units 11, 13, Chickaloon, 15, 16, 20D, 22, and 23.
Unit 21 | Brown Bear | Residents of Units 21 and 23.
Unit 21A | Caribou | Residents of Units 21A, 21D, 21E, Aniak, Chuathbaluk, Crooked Creek, McGrath, and Takotna.
Unit 21B and Unit 21C | Caribou | Residents of Units 21B, 21C, 21D, and Tanana.
Unit 21D | Caribou | Residents of Units 21B, 21C, 21D, and Huslia.
Unit 21E | Caribou | Residents of Units 21A, 21E, Aniak, Chuathbaluk, Crooked Creek, McGrath, and Takotna.
Unit 21A | Moose | Residents of Units 21A, 21E, Takotna, McGrath, Aniak, and Crooked Creek.
Unit 21B and Unit 21C | Moose | Residents of Units 21B, 21C, Tanana, Ruby, and Galena.
Unit 21D | Moose | Residents of Units 21D, Huslia, and Ruby.
Unit 21E, south of a line beginning at the western boundary of Unit 21E near the mouth of Paimiut Slough, extending easterly along the south bank of Paimiut Slough to Upper High Bank, and southeasterly in the direction of Molybdenum Mountain to the juncture of Units 19A, 21A, and 21E | Moose | Residents of Unit 21E, Aniak, Chuathbaluk, Kalskag, Lower Kalskag, and Russian Mission.
Unit 21E remainder | Moose | Residents of Unit 21E and Russian Mission.
Unit 21 | Wolf | Residents of Units 6, 9, 10 (Unimak Island only), 11-13, Chickaloon, and 16-26.
Unit 22A | Black Bear | Residents of Unit 22A and Koyuk.
Unit 22B | Black Bear | Residents of Unit 22B.
Unit 22C, Unit 22D, and Unit 22E | Black Bear | No Federal subsistence priority.
Unit 22 | Brown Bear | Residents of Unit 22.
Unit 22A | Caribou | Residents of Units 21D west of the Koyukuk and Yukon Rivers, 22 (except residents of St. Lawrence Island), 23, 24, Kotlik, Emmonak, Hooper Bay, Scammon Bay, Chevak, Marshall, Mountain Village, Pilot Station, Pitka's Point, Russian Mission, St. Marys, Nunam Iqua, and Alakanuk.
Unit 22, remainder | Caribou | Residents of Units 21D west of the Koyukuk and Yukon Rivers, 22 (excluding residents of St. Lawrence Island), 23, and 24.
Unit 22 | Moose | Residents of Unit 22.
Unit 22A | Musk Ox | All rural residents.
Unit 22B, west of the Darby Mountains | Musk Ox | Residents of Units 22B and 22C.
Unit 22B, remainder | Musk Ox | Residents of Unit 22B.
Unit 22C | Musk Ox | Residents of Unit 22C.
Unit 22D | Musk Ox | Residents of Units 22B, 22C, 22D, and 22E (excluding St. Lawrence Island).
Unit 22E | Musk Ox | Residents of Unit 22E (excluding Little Diomede Island).
Unit 22 | Wolf | Residents of Units 23, 22, 21D north and west of the Yukon River, and Kotlik.
Unit 22 | Grouse (Spruce) | Residents of Units 11, 13, Chickaloon, 15, 16, 20D, 22, and 23.
Unit 22 | Ptarmigan (Rock and Willow) | Residents of Units 11, 13, Chickaloon, 15, 16, 20D, 22, and 23.
Unit 23 | Black Bear | Residents of Unit 23, Alatna, Allakaket, Bettles, Evansville, Galena, Hughes, Huslia, and Koyukuk.
Unit 23 | Brown Bear | Residents of Units 21 and 23.
Unit 23 | Caribou | Residents of Units 21D west of the Koyukuk and Yukon Rivers, Galena, 22, 23, 24 including residents of Wiseman but not including other residents of the Dalton Highway Corridor Management Area, and 26A.
Unit 23 | Moose | Residents of Unit 23.
Unit 23, south of Kotzebue Sound and west of and including the Buckland River drainage | Musk Ox | Residents of Unit 23 south of Kotzebue Sound and west of and including the Buckland River drainage.
Unit 23, remainder | Musk Ox | Residents of Unit 23 east and north of the Buckland River drainage.
Unit 23 | Sheep | Residents of Point Lay and Unit 23 north of the Arctic Circle.
Unit 23 | Wolf | Residents of Units 6, 9, 10 (Unimak Island only), 11-13, Chickaloon, and 16-26.
Unit 23 | Grouse (Spruce and Ruffed) | Residents of Units 11, 13, Chickaloon, 15, 16, 20D, 22, and 23.
Unit 23 | Ptarmigan (Rock, Willow and White-tailed) | Residents of Units 11, 13, Chickaloon, 15, 16, 20D, 22, and 23.
Unit 24, that portion south of Caribou Mountain, and within the public lands composing or immediately adjacent to the Dalton Highway Corridor Management Area | Black Bear | Residents of Stevens Village, Unit 24, and Wiseman, but not including any other residents of the Dalton Highway Corridor Management Area.
Unit 24, remainder | Black Bear | Residents of Unit 24 and Wiseman, but not including any other residents of the Dalton Highway Corridor Management Area.
Unit 24, that portion south of Caribou Mountain, and within the public lands composing or immediately adjacent to the Dalton Highway Corridor Management Area | Brown Bear | Residents of Stevens Village and Unit 24.
Unit 24, remainder | Brown Bear | Residents of Unit 24.
Unit 24 | Caribou | Residents of Unit 24, Galena, Kobuk, Koyukuk, Stevens Village, and Tanana.
Unit 24 | Moose | Residents of Unit 24, Koyukuk, and Galena.
Unit 24 | Sheep | Residents of Unit 24 residing north of the Arctic Circle, Allakaket, Alatna, Hughes, and Huslia.
Unit 24 | Wolf | Residents of Units 6, 9, 10 (Unimak Island only), 11-13, Chickaloon, and 1626.
Unit 25D | Black Bear | Residents of Unit 25D.
Unit 25D | Brown Bear | Residents of Unit 25D.
Unit 25, remainder | Brown Bear | Residents of Unit 25 and Eagle.
Unit 25A | Caribou | Residents of Units 24A and 25.
Unit 25B and Unit 25C | Caribou | Residents of Units 12 (north of Wrangell-St. Elias National Preserve), 20D, 20E, 20F, and 25, and Eureka, Livengood, Manley, and Minto.
Unit 25D | Caribou | Residents of Units 20F and 25D and Manley Hot Springs.
Unit 25A | Moose | Residents of Units 25A and 25D.
Unit 25B and Unit 25C | Moose | Residents of Units 20D, 20E, 25B, 25C, 25D, Tok and Livengood.
Unit 25D, west | Moose | Residents of Unit 25D West.
Unit 25D, remainder | Moose | Residents of remainder of Unit 25.
Unit 25A | Sheep | Residents of Arctic Village, Chalkyitsik, Fort Yukon, Kaktovik, and Venetie.
Unit 25B and Unit 25C | Sheep | Residents of Units 20E, 25B, 25C, and 25D.
Unit 25D | Wolf | Residents of Unit 25D.
Unit 25, remainder | Wolf | Residents of Units 6, 9, 10 (Unimak Island only), 11-13, Chickaloon, and 16-26.
Unit 26 | Brown Bear | Residents of Unit 26 (excluding the Prudhoe Bay-Deadhorse Industrial Complex), Anaktuvuk Pass, and Point Hope.
Unit 26A and C | Caribou | Residents of Unit 26, Anaktuvuk Pass, and Point Hope.
Unit 26B | Caribou | Residents of Unit 26, Anaktuvuk Pass, Point Hope, and Unit 24 within the Dalton Highway Corridor Management Area.
Unit 26 | Moose | Residents of Unit 26 (excluding the Prudhoe Bay-Deadhorse Industrial Complex), Point Hope, and Anaktuvuk Pass.
Unit 26A | Musk Ox | Residents of Anaktuvuk Pass, Atqasuk, Barrow, Nuiqsut, Point Hope, Point Lay, and Wainwright.
Unit 26B | Musk Ox | Residents of Anaktuvuk Pass, Nuiqsut, and Kaktovik.
Unit 26C | Musk Ox | Residents of Kaktovik.
Unit 26A | Sheep | Residents of Unit 26, Anaktuvuk Pass, and Point Hope.
Unit 26B | Sheep | Residents of Unit 26, Anaktuvuk Pass, Point Hope, and Wiseman.
Unit 26C | Sheep | Residents of Unit 26, Anaktuvuk Pass, Arctic Village, Chalkyitsik, Fort Yukon, Point Hope, and Venetie.
Unit 26 | Wolf | Residents of Units 6, 9, 10 (Unimak Island only), 11-13, Chickaloon, and 16-26.

* * * * *

Subpart D—Subsistence Taking of Fish and Wildlife

3. Amend § __.25 by:

a. In paragraph (a), revising the definition of “Hare or hares”;

b. Adding paragraph (c)(5); and

c. Revising paragraph (e).

The revisions and addition read as follows:

§ __.25 Subsistence taking of fish, wildlife, and shellfish: general regulations.

(a) * * *

Hare or hares collectively refers to all species of hares (commonly called rabbits) in Alaska and includes snowshoe hare and tundra or Alaska hare.

* * * * *

(c) * * *

(5) Fish, wildlife, or shellfish taken by a participant in a community harvest system counts toward both the community harvest limit or quota for that species as well as individual harvest limits, Federal or State, for each participant in that community harvest system; however, the take does not count toward individual harvest limits, Federal or State, of any non-participant.

(i) Fish, wildlife, or shellfish taken by someone who is not a participant in a community harvest system does not count toward any community harvest limit or quota.

(ii) For the purposes of this provision, all residents of the community are deemed participants in the community harvest unless the Board-approved framework requires registration as a prerequisite to harvesting or receiving any fish, wildlife, or shellfish pursuant to that community harvest, in which case only those who register are deemed participants in that community harvest.

* * * * *

(e) Hunting by designated harvest permit. If you are a federally qualified subsistence user (recipient), you may designate another federally qualified subsistence user to take deer, moose, and caribou, and in Units 1-5, goats, on your behalf unless unit-specific regulations in § __.26 preclude or modify the use of the designated hunter system or allow the harvest of additional species by a designated hunter. The designated hunter must obtain a designated hunter permit and must return a completed harvest report. The designated hunter may hunt for any number of recipients but may have no more than two harvest limits in his/her possession at any one time except for goats, where designated hunters may have no more than one harvest limit in possession at any one time, and unless otherwise specified in unit-specific regulations in § __.26.

* * * * *

4. Amend § __.26 by revising paragraphs (e), (j)(1), and (n) to read as follows:

§ 100.26 Subsistence taking of wildlife.

* * * * *

(e) Possession and transportation of wildlife. Except as specified in paragraph (f)(1) of this section, or as otherwise provided, you may not take a species of wildlife in any Unit, or portion of a Unit, if your total take of that species already obtained anywhere in the State under Federal and State regulations equals or exceeds the harvest limit in that Unit.

* * * * *

(j) * * * (1) Sealing requirements for brown bear taken apply in all Units, except as specified in this paragraph (j). Sealing requirements for black bears of all color phases taken apply in Units 1-7, 13-17, and 20.

* * * * *

(n) Unit regulations. You may take for subsistence unclassified wildlife, all squirrel species and marmots in all Units, without harvest limits, for the period of July 1 June 30. Unit-specific restrictions or allowances for subsistence taking of wildlife are identified at paragraphs (n)(1) through (26) of this section.

(1) Unit 1. Unit 1 consists of all mainland drainages from Dixon Entrance to Cape Fairweather, and those islands east of the center line of Clarence Strait from Dixon Entrance to Caamano Point, and all islands in Stephens Passage and Lynn Canal north of Taku Inlet:

(i) Unit 1A consists of all drainages south of the latitude of Lemesurier Point including all drainages into Behm Canal, excluding all drainages of Ernest Sound.

(ii) Unit 1B consists of all drainages between the latitude of Lemesurier Point and the latitude of Cape Fanshaw including all drainages of Ernest Sound and Farragut Bay, and including the islands east of the center lines of Frederick Sound, Dry Strait (between Sergief and Kadin Islands), Eastern Passage, Blake Channel (excluding Blake Island), Ernest Sound, and Seward Passage.

(iii) Unit 1C consists of that portion of Unit 1 draining into Stephens Passage and Lynn Canal north of Cape Fanshaw and south of the latitude of Eldred Rock including Berners Bay, Sullivan Island, and all mainland portions north of Chichagof Island and south of the latitude of Eldred Rock, excluding drainages into Farragut Bay.

(iv) Unit 1D consists of that portion of Unit 1 north of the latitude of Eldred Rock, excluding Sullivan Island and the drainages of Berners Bay.

(v) In the following areas, the taking of wildlife for subsistence uses is prohibited or restricted on public lands:

(A) Public lands within Glacier Bay National Park are closed to all taking of wildlife for subsistence uses;

(B) Unit 1A—in the Hyder area, the Salmon River drainage downstream from the Riverside Mine, excluding the Thumb Creek drainage, is closed to the taking of bear;

(C) Unit 1B—the Anan Creek drainage within 1 mile of Anan Creek downstream from the mouth of Anan Lake, including the area within a 1-mile radius from the mouth of Anan Creek Lagoon, is closed to the taking of bear; and

(D) Unit 1C:

(1) You may not hunt within one-fourth mile of Mendenhall Lake, the U.S. Forest Service Mendenhall Glacier Visitor's Center, and the Center's parking area; and

(2) You may not take mountain goat in the area of Mt. Bullard bounded by the Mendenhall Glacier, Nugget Creek from its mouth to its confluence with Goat Creek, and a line from the mouth of Goat Creek north to the Mendenhall Glacier.

(vi) You may not trap furbearers for subsistence uses in Unit 1C, Juneau area, on the following public lands:

(A) A strip within one-quarter mile of the mainland coast between the end of Thane Road and the end of Glacier Highway at Echo Cove;

(B) That area of the Mendenhall Valley bounded on the south by the Glacier Highway, on the west by the Mendenhall Loop Road and Montana Creek Road and Spur Road to Mendenhall Lake, on the north by Mendenhall Lake, and on the east by the Mendenhall Loop Road and Forest Service Glacier Spur Road to the Forest Service Visitor Center;

(C) That area within the U.S. Forest Service Mendenhall Glacier Recreation Area; and

(D) A strip within one-quarter mile of the following trails as designated on U.S. Geological Survey maps: Herbert Glacier Trail, Windfall Lake Trail, Peterson Lake Trail, Spaulding Meadows Trail (including the loop trail), Nugget Creek Trail, Outer Point Trail, Dan Moller Trail, Perseverance Trail, Granite Creek Trail, Mt. Roberts Trail and Nelson Water Supply Trail, Sheep Creek Trail, and Point Bishop Trail.

(vii) Unit-specific regulations:

(A) You may hunt black bear with bait in Units 1A, 1B, and 1D between April 15 and June 15.

(B) You may not shoot ungulates, bear, wolves, or wolverine from a boat, unless you are certified as disabled.

(C) Coyotes taken incidentally with a trap or snare during an open Federal trapping season for wolf, wolverine, or beaver may be legally retained.

(D) A firearm may be used to take beaver under a trapping license during an open beaver season, except on National Park Service lands.

Table 1 to Paragraph (n)(1)
Harvest limits | Open season
Hunting
Black Bear: 2 bears, no more than one may be a blue or glacier bear | Sep. 1-June 30.
Brown Bear: 1 bear every 4 regulatory years by State registration permit only | Sep. 15-Dec. 31. Mar. 15-May 31.
Deer: |
Unit 1A—4 antlered deer | Aug. 1-Dec. 31.
Unit 1B—2 antlered deer | Aug. 1-Dec. 31.
Unit 1C—4 deer; however, female deer may be taken only Sep. 15-Dec. 31 | Aug. 1-Dec. 31.
Elk: 1 elk by Federal registration permit | July 1-June 30.
Successful hunters must send a photo of their elk antlers to ADF&G and a 5-inch section of the lower jaw with front teeth |
Goat: |
Unit 1A, Revillagigedo Island only | No open season.
Unit 1B, that portion north of LeConte Bay—1 goat by State registration permit only; the taking of kids or nannies accompanied by kids is prohibited | Aug. 1-Dec. 31.
Unit 1A and Unit 1B, that portion on the Cleveland Peninsula south of the divide between Yes Bay and Santa Anna Inlet | No open season.
Unit 1A and Unit 1B, remainder—2 goats; a State registration permit will be required for the taking of the first goat and a Federal registration permit for the taking of a second goat. The taking of kids or nannies accompanied by kids is prohibited | Aug. 1-Dec. 31.
Unit 1C, that portion draining into Lynn Canal and Stephens Passage between Antler River and Eagle Glacier and River, and all drainages of the Chilkat Range south of the Endicott River—1 goat by State registration permit only | Oct. 1-Nov. 30.
Unit 1C, that portion draining into Stephens Passage and Taku Inlet between Eagle Glacier and River and Taku Glacier | No open season.
Unit 1C, remainder—1 goat by State registration permit only | Aug. 1-Nov. 30.
Unit 1D, that portion lying north of the Katzehin River and northeast of the Haines highway—1 goat by State registration permit only | Sep. 15-Nov. 30.
Unit 1D, that portion lying between Taiya Inlet and River and the White Pass and Yukon Railroad | No open season.
Unit 1D, remainder—1 goat by State registration permit only | Aug. 1-Dec. 31.
Moose: |
Unit 1A—1 antlered bull by Federal registration permit | Sep. 5-Oct. 15.
Unit 1B—1 antlered bull with spike-fork or 50-inch antlers or 3 or more brow tines on one side, or antlers with 2 brow tines on both sides, by State registration permit only | Sep. 15-Oct. 15.
Unit 1C, that portion south of Point Hobart including all Port Houghton drainages—1 antlered bull with spike-fork or 50-inch antlers or 3 or more brow tines on one side, or antlers with 2 brow tines on both sides, by State registration permit only | Sep. 15-Oct. 15.
Unit 1C, remainder, excluding drainages of Berners Bay—1 bull by State registration permit only | Sep. 15-Oct. 15.
Unit 1C, Berners Bay—1 bull by drawing permit | Sep.15-Oct. 15 (will be announced).
Only one moose permit may be issued per household. A household receiving a State permit for Berners Bay drainages moose may not receive a Federal permit. The annual harvest quota will be announced by the USDA Forest Service, Juneau office, in consultation with ADF&G. The Federal harvest allocation will be 25% (rounded up to the next whole number) of bull moose permits |
Unit 1D | No open season.
Coyote: 2 coyotes | Sep. 1-Apr. 30.
Fox, Red (including Cross, Black, and Silver Phases): 2 foxes | Nov. 1-Feb. 15.
Hare (Snowshoe): 5 hares per day | Sep. 1-Apr. 30.
Lynx: 2 lynx | Dec. 1-Feb. 15.
Wolf: |
Units 1A and 1B, south of Bradfield Canal and the east fork of the Bradfield River—5 wolves | Aug. 1-May 31.
Units 1B, remainder, 1C, and 1D—5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver: Unit 1—No limit | Nov. 10-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit
Muskrat: No limit | Dec. 1-Feb. 15.
Otter: No limit | Dec. 1-Feb. 15.
Wolf: No limit | Nov. 1-Apr. 30.
Wolverine: No limit | Nov. 10-Mar. 1.

(2) Unit 2. Unit 2 consists of Prince of Wales Island and all islands west of the center lines of Clarence Strait and Kashevarof Passage, south and east of the center lines of Sumner Strait, and east of the longitude of the westernmost point on Warren Island.

(i) Unit-specific regulations:

(A) You may use bait to hunt black bear between April 15 and June 15.

(B) You may not shoot ungulates, bear, wolves, or wolverine from a boat, unless you are certified as disabled.

(C) Coyotes taken incidentally with a trap or snare during an open Federal trapping season for wolf, wolverine, or beaver may be legally retained.

(D) A firearm may be used to take beaver under a trapping license during an open beaver season, except on National Park Service lands.

(ii) [Reserved]

Table 2 to Paragraph (n)(2)
Harvest limits | Open season
Hunting
Black Bear: 2 bears, no more than one may be a blue or glacier bear | Sep. 1-June 30.
Deer:
5 deer; however, no more than one may be a female deer. Female deer may be taken only during the period Oct. 15-Jan. 31. Harvest ticket number five must be used when recording the harvest of a female deer, but may be used for recording the harvest of a male deer. Harvest tickets must be used in order except when recording a female deer on tag number five | July 24-Jan. 31.
The Federal public lands on Prince of Wales Island, excluding the southeastern portion (lands south of the West Arm of Cholmondeley Sound draining into Cholmondeley Sound or draining eastward into Clarence Strait), are closed to hunting of deer Aug. 1-15, except by federally qualified subsistence users hunting under these regulations.
Non-federally qualified users may only harvest up to 2 male deer on Federal public lands in Unit 2.
Coyote: 2 coyotes | Sep. 1-Apr. 30.
Elk: 1 elk by Federal registration permit | Jul 1-Jun 30.
Successful hunters must send a photo of their elk antlers to ADF&G and a 5-inch section of the lower jaw with front teeth.
Fox, Red (including Cross, Black, and Silver Phases): 2 foxes | Nov. 1-Feb. 15.
Hare (Snowshoe): 5 hares per day | Sep. 1-Apr. 30.
Lynx: 2 lynx | Dec. 1-Feb. 15.
Wolf: No limit. All wolves taken will be sequentially numbered, marked with the date and location recorded by the hunter for each wolf, and all hides must be sealed within 15 days of take | Sep. 1-Mar. 31.
Wolverine: 1 wolverine | Nov. 10-Feb. 15.
Grouse (Spruce and Ruffed): 5 per day, 10 in possession | Aug. 1-May 15.
Ptarmigan (Rock, Willow, and White-tailed): 20 per day, 40 in possession | Aug. 1-May 15.
Trapping
Beaver: No limit | Nov. 10-May 15.
Coyote: No limit | Dec. 1-Feb. 15.
Fox, Red (including Cross, Black, and Silver Phases): No limit | Dec. 1-Feb. 15.
Lynx: No limit | Dec. 1-Feb. 15.
Marten: No l imit | Dec. 1-Feb. 15.
Mink and Weasel: No limit | Dec. 1-Feb. 15.
Muskrat: No limit | Dec. 1-Feb. 15.
Otter: No limit | Dec. 1-Feb. 15.
Wolf: No limit. All wolves taken will be sequentially numbered, marked with the date and location recorded by the trapper for each wolf, and all hides must be sealed within 15 days of take | Nov. 15-Mar. 31.
Wolverine: No limit | Nov. 10-Mar. 1.

(3) Unit 3. (i) Unit 3 consists of all islands west of Unit 1B, north of Unit 2, south of the center line of Frederick Sound, and east of the center line of Chatham Strait including Coronation, Kuiu, Kupreanof, Mitkof, Zarembo, Kashevaroff, Woronkofski, Etolin, Wrangell, and Deer Islands.

(ii) In the following areas, the taking of wildlife for subsistence uses is prohibited or restricted on public lands:

(A) In the Petersburg vicinity, you may not take ungulates, bear, wolves, and wolverine along a strip one-fourth mile wide on each side of the Mitkof Highway from Milepost 0 to Crystal Lake campground;

(B) You may not take black bears in the Petersburg Creek drainage on Kupreanof Island; and

(C) You may not hunt in the Blind Slough draining into Wrangell Narrows and a strip one-fourth-mile wide on each side of Blind Slough, from the hunting closure markers at the southernmost portion of Blind Island to the hunting closure markers 1 mile south of the Blind Slough bridge.

(iii) Unit-specific regulations:

(A) You may use bait to hunt black bear between April 15 and June 15.

(B) You may not shoot ungulates, bear, wolves, or wolverine from a boat, unless you are certified as disabled.

(C) Coyotes taken incidentally with a trap or snare during an open Federal trapping season for wolf, wolverine, or beaver may be legally retained.

(D) A firearm may be used to take beaver under a trapping license during an open beaver season, except on National Park Service lands.

Table 3 to Paragraph (n)(3)
Harvest limits | Open season
Hunting
Black Bear: 2 bears, no more than one may be a blue or glacier bear | Sep. 1-June 30.
Deer:
Unit 3, Mitkof, Woewodski, and Butterworth Islands and that portion of Kupreanof Island on the Lindenberg Peninsula east of the Portage Bay-Duncan Canal Portage—1 buck | Oct. 1-Nov. 7.
Unit 3, remainder—2 bucks | Aug. 1-Nov. 30. Dec. 1-31, season to be announced.
Elk:
Unit 3, Etolin, Zarembo, Bushy, Shrubby, and Kashevarof Islands | No open season.
Unit 3 remainder—1 elk by Federal registration permit | July 1-June 30.
Successful hunters must send a photo of their elk antlers to ADF&G and a 5-inch section of the lower jaw with front teeth.
Moose: 1 antlered bull with spike-fork or 50-inch antlers or 3 or more brow tines on either antler, or antlers with 2 brow tines on both sides by State registration permit only | Sep. 1-Oct. 15.
Coyote: 2 coyotes | Sep. 1-Apr. 30.
Fox, Red (including Cross, Black, and Silver Phases): 2 foxes | Nov. 1-Feb. 15.
Hare (Snowshoe): 5 hares per day | Sep. 1-Apr. 30.
Lynx: 2 lynx | Dec. 1-Feb. 15.
Wolf: 5 wolves | Aug. 1-May 31.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver:
Unit 3, Mitkof Island—No limit | Nov. 10-May 15.
Unit 3, except Mitkof Island—No limit | Nov. 10-May 15.
Coyote: No limit | Dec. 1-Feb. 15.
Fox, Red (including Cross, Black, and Silver Phases): No limit | Dec. 1-Feb. 15.
Lynx: No limit | Dec. 1-Feb. 15.
Marten:
No limit (except on Kuiu Island) | Dec. 1-Feb. 15.
Kuiu Island portion of Unit 3. No limit | Dec. 1-31.
Mink and Weasel: No limit | Dec. 1-Feb. 15.
Muskrat: No limit | Dec. 1-Feb. 15.
Otter: No limit | Dec. 1-Feb. 15.
Wolf: No limit | Nov. 1-Apr. 30.
Wolverine: No limit | Nov. 10-Mar. 1.

(4) Unit 4. (i) Unit 4 consists of all islands south and west of Unit 1C and north of Unit 3 including Admiralty, Baranof, Chichagof, Yakobi, Inian, Lemesurier, and Pleasant Islands.

(ii) In the following areas, the taking of wildlife for subsistence uses is prohibited or restricted on public lands:

(A) You may not take brown bears in the Seymour Canal Closed Area (Admiralty Island) including all drainages into northwestern Seymour Canal between Staunch Point and the southernmost tip of the unnamed peninsula separating Swan Cove and King Salmon Bay including Swan and Windfall Islands;

(B) You may not take brown bears in the Salt Lake Closed Area (Admiralty Island) including all lands within one-fourth mile of Salt Lake above Klutchman Rock at the head of Mitchell Bay;

(C) You may not take brown bears in the Port Althorp Closed Area (Chichagof Island), that area within the Port Althorp watershed south of a line from Point Lucan to Salt Chuck Point (Trap Rock); and

(D) You may not use any motorized land vehicle for brown bear hunting in the Northeast Chichagof Controlled Use Area (NECCUA) consisting of all portions of Unit 4 on Chichagof Island north of Tenakee Inlet and east of the drainage divide from the northwestern point of Gull Cove to Port Frederick Portage, including all drainages into Port Frederick and Mud Bay.

(iii) Unit-specific regulations:

(A) You may shoot ungulates from a boat. You may not shoot bear, wolves, or wolverine from a boat, unless you are certified as disabled.

(B) Five Federal registration permits will be issued by the Sitka or Hoonah District Ranger for the taking of brown bear for educational purposes associated with teaching customary and traditional subsistence harvest and use practices. Any bear taken under an educational permit does not count in an individual's one bear every 4 regulatory years limit.

(C) Coyotes taken incidentally with a trap or snare during an open Federal trapping season for wolf, wolverine, or beaver may be legally retained.

(D) A firearm may be used to take beaver under a trapping license during an open beaver season, except on National Park Service lands.

Table 4 to Paragraph (n)(4)
Harvest limits | Open season
Hunting
Brown Bear:
Unit 4, Chichagof Island south and west of a line that follows the crest of the island from Rock Point (58° N lat., 136°21′ W long.) to Rodgers Point (57°35′ N lat., 135°33′ W long.) including Yakobi and other adjacent islands; Baranof Island south and west of a line that follows the crest of the island from Nismeni Point (57°34′ N lat., 135°25′ W long.) to the entrance of Gut Bay (56°44′ N lat. 134°38′ W long.) including the drainages into Gut Bay and including Kruzof and other adjacent islands—1 bear every 4 regulatory years by State registration permit only | Sep. 15-Dec. 31. Mar. 15-May 31.
Unit 4, remainder—1 bear every 4 regulatory years by State registration permit only | Sep. 15-Dec. 31. Mar. 15-May 20.
Deer: 6 deer; however, female deer may be taken only Sep. 15-Jan. 31 | Aug. 1-Jan. 31.
Elk: 1 elk by Federal registration permit | July 1-June 30.
Successful hunters must send a photo of their elk antlers to ADF&G and a 5-inch section of the lower jaw with front teeth.
Goat: 1 goat by State registration permit only | Aug. 1-Dec. 31.
Coyote: 2 coyotes | Sep. 1-Apr. 30.
Fox, Red (including Cross, Black, and Silver Phases): 2 foxes | Nov. 1-Feb. 15.
Hare (Snowshoe): 5 hares per day | Sep. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver: No limit | Nov. 10-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10-Mar. 1.

(5) Unit 5. (i) Unit 5 consists of all Gulf of Alaska drainages and islands between Cape Fairweather and the center line of Icy Bay, including the Guyot Hills:

(A) Unit 5A consists of all drainages east of Yakutat Bay, Disenchantment Bay, and the eastern edge of Hubbard Glacier, and includes the islands of Yakutat and Disenchantment Bays; In Unit 5A, Nunatak Bench is defined as that area east of the Hubbard Glacier, north of Nunatak fiord, and north and east of the East Nunatak Glacier to the Canadian border.

(B) Unit 5B consists of the remainder of Unit 5.

(ii) You may not take wildlife for subsistence uses on public lands within Glacier Bay National Park.

(iii) Unit-specific regulations:

(A) You may use bait to hunt black bear between April 15 and June 15.

(B) You may not shoot ungulates, bear, wolves, or wolverine from a boat, unless you are certified as disabled.

(C) You may hunt brown bear in Unit 5 with a Federal registration permit in lieu of a State metal locking tag if you have obtained a Federal registration permit prior to hunting.

(D) Coyotes taken incidentally with a trap or snare during an open Federal trapping season for wolf, wolverine, or beaver may be legally retained.

(E) A firearm may be used to take beaver under a trapping license during an open beaver season, except on National Park Service lands.

Table 5 to Paragraph (n)(5)
Harvest limits | Open season
Hunting
Black Bear: 2 bears, no more than one may be a blue or glacier bear | Sep. 1-June 30.
Brown Bear: 1 bear by Federal registration permit only | Sep. 1-May 31.
Deer:
Unit 5A—1 buck | Nov. 1-30.
Unit 5B | No open season.
Goat:
Unit 5A—that area between the Hubbard Glacier and the West Nunatak Glacier on the north and east sides of Nunatak Fjord | No open season.
Unit 5A, remainder—1 goat by Federal registration permit only | Aug. 1-Jan. 31.
Unit 5B—1 goat by Federal registration permit only | Aug. 1-Jan. 31.
Moose:
Unit 5A, Nunatak Bench—1 moose by State registration permit only. The season will be closed when 5 moose have been taken from the Nunatak Bench | Nov. 15-Feb. 15.
Unit 5A, except Nunatak Bench, west of the Dangerous River—1 bull by joint State/Federal registration permit only. From Oct. 8-21, public lands will be closed to taking of moose, except by residents of Unit 5A hunting under these regulations | Oct. 8-Nov. 15.
Unit 5A, except Nunatak Bench, east of the Dangerous River—1 bull by joint State/Federal registration permit only. From Sep. 16-30, public lands will be closed to taking of moose, except by residents of Unit 5A hunting under these regulations | Sep. 16-Nov. 15.
Unit 5B—1 bull by State registration permit only. The season will be closed when 25 bulls have been taken from the entirety of Unit 5B | Sep. 1-Dec. 15.
Coyote: 2 coyotes | Sep. 1-Apr. 30.
Fox, Red (including Cross, Black and Silver Phases): 2 foxes | Nov. 1-Feb. 15.
Hare (Snowshoe): 5 hares per day | Sep. 1-Apr. 30.
Lynx: 2 lynx | Dec. 1-Feb. 15.
Wolf: 5 wolves | Aug. 1-Apr. 30.
Wolverine: 1 wolverine | Nov. 10-Feb. 15.
Grouse (Spruce and Ruffed): 5 per day, 10 in possession | Aug. 1-May 15.
Ptarmigan (Rock, Willow, and White-tailed): 20 per day, 40 in possession | Aug. 1-May 15.
Trapping
Beaver: No limit | Nov. 10-May 15.
Coyote: No limit | Nov. 10-Feb. 15.
Fox, Red (including Cross, Black and Silver Phases): No limit | Nov. 10-Feb. 15.
Lynx: No limit | Dec. 1-Feb. 15.
Marten: No limit | Nov. 10-Feb. 15.
Mink and Weasel: No limit | Nov. 10-Feb. 15.
Muskrat: No limit | Dec. 1-Feb. 15.
Otter: No limit | Nov. 10-Feb. 15.
Wolf: No limit | Nov. 10-Apr. 30.
Wolverine: No limit | Nov. 10-Mar. 1.

(6) Unit 6. (i) Unit 6 consists of all Gulf of Alaska and Prince William Sound drainages from the center line of Icy Bay (excluding the Guyot Hills) to Cape Fairfield including Kayak, Hinchinbrook, Montague, and adjacent islands, and Middleton Island, but excluding the Copper River drainage upstream from Miles Glacier, and excluding the Nellie Juan and Kings River drainages:

(A) Unit 6A consists of Gulf of Alaska drainages east of Palm Point near Katalla including Kanak, Wingham, and Kayak Islands;

(B) Unit 6B consists of Gulf of Alaska and Copper River Basin drainages west of Palm Point near Katalla, east of the west bank of the Copper River, and east of a line from Flag Point to Cottonwood Point;

(C) Unit 6C consists of drainages west of the west bank of the Copper River, and west of a line from Flag Point to Cottonwood Point, and drainages east of the east bank of Rude River and drainages into the eastern shore of Nelson Bay and Orca Inlet; and

(D) Unit 6D consists of the remainder of Unit 6.

(ii) Unit-specific regulations:

(A) You may use bait to hunt black bear between April 15 and June 15. In addition, you may use bait in Unit 6D between June 16 and June 30. The harvest quota in Unit 6D is 20 bears taken with bait between June 16 and June 30.

(B) You may take coyotes in Units 6B and 6C with the aid of artificial lights.

(C) One permit will be issued by the Cordova District Ranger to the Native Village of Eyak to take one moose from Federal lands in Unit 6B or 6C for their annual Memorial/Sobriety Day potlatch.

(D) A federally qualified subsistence user (recipient) who is either blind, 65 years of age or older, at least 70 percent disabled, or temporarily disabled may designate another federally qualified subsistence user to take any moose, deer, black bear, and beaver on his or her behalf in Unit 6 and goat in Unit 6D. The designated hunter must obtain a designated hunter permit and must return a completed harvest report. The designated hunter may hunt for any number of recipients but may have no more than one harvest limit in his or her possession at any one time.

(E) A hunter younger than 10 years old at the start of the hunt may not be issued a Federal subsistence permit to harvest black bear, deer, goat, moose, wolf, and wolverine.

(F) A hunter younger than 10 years old may harvest black bear, deer, goat, moose, wolf, and wolverine under the direct, immediate supervision of a licensed adult, at least 18 years old. The animal taken is counted against the adult's harvest limit. The adult is responsible for ensuring that all legal requirements are met.

(G) Up to five permits will be issued by the Cordova District Ranger to the Native Village of Chenega annually to harvest up to five deer total from Federal public lands in Unit 6D for their annual Old Chenega Memorial and other traditional memorial potlatch ceremonies. Permits will have effective dates of July 1-June 30.

(H) Up to five permits will be issued by the Cordova District Ranger to the Tatitlek IRA Council annually to harvest up to five deer total from Federal public lands in Unit 6D for their annual Cultural Heritage Week. Permits will have effective dates of July 1-June 30.

Table 6 to Paragraph (n)(6)
Harvest limits | Open season
Hunting
Black Bear: 1 bear. In Unit 6D, a State registration permit is required | Sep. 1-June 30.
Deer:
5 deer; however, antlerless deer may be taken only from Oct. 1-Jan. 31. Only 1 of the 5-deer harvest limit may be taken between Jan. 1-31 | Aug. 1-Jan. 31.
Goats:
Unit 6A and B—1 goat by State registration permit only | Aug. 20-Jan. 31.
Unit 6C | No open season.
Unit 6D (subareas RG242, RG243, RG244, RG245, RG249, RG266, and RG252 only)—1 goat by Federal registration permit only. In each of the Unit 6D subareas, goat seasons will be closed by the Cordova District Ranger when harvest limits for that subarea are reached. Harvest quotas are as follows: RG242—2 goats, RG243—4 goats, RG244 and RG245 combined—2 goats, RG249—4 goats, RG266—4 goats, RG252—1 goat | Aug. 20-Feb. 28.
Moose:
Unit 6C—1 antlerless moose by Federal drawing permit only | Sep. 1-Oct. 31.
Permits for the portion of the antlerless moose quota not harvested in the Sep. 1-Oct. 31 hunt may be available for redistribution for a Nov. 1-Dec. 31 hunt.
Unit 6C—1 bull by Federal drawing permit only | Sep. 1-Dec. 31.
In Unit 6C, only one moose permit may be issued per household. A household receiving a State permit for Unit 6C moose may not receive a Federal permit. The annual harvest quota will be announced by the U.S. Forest Service, Cordova Office, in consultation with ADF&G. The Federal harvest allocation will be 100% of the antlerless moose permits and 75% of the bull permits. Federal public lands are closed to the harvest of moose except by federally qualified users with a Federal permit for Unit 6C moose, Nov. 1-Dec. 31.
Unit 6, remainder | No open season.
Beaver: 1 beaver per day, 1 in possession | May 1-Oct. 31.
Coyote:
Unit 6A and D—2 coyotes | Sep. 1-Apr. 30.
Unit 6B and 6C—No limit | July 1-June 30.
Fox, Red (including Cross, Black and Silver Phases): | No open season.
Hare (Snowshoe): No limit | July 1-June 30.
Lynx: 2 lynx | Nov. 10-Jan. 31.
Wolf: 5 wolves | Aug. 10-Apr. 30.
Wolverine: 1 wolverine | Sep. 1-Mar. 31.
Grouse (Spruce): 5 per day, 10 in possession | Aug. 1-May 15.
Ptarmigan (Rock, Willow, and White-tailed): 20 per day, 40 in possession | Aug. 1-May 15.
Trapping
Beaver: No limit | Dec. 1-Apr. 30.
Coyote:
Unit 6C, south of the Copper River Highway and east of the Heney Range—No limit | Nov. 10-Apr. 30.
Units 6A, 6B, 6C, remainder, and 6D—No limit | Nov. 10-Mar. 31.
Fox, Red (including Cross, Black and Silver Phases): No limit | Nov. 10-Feb. 28.
Marten: No limit | Nov. 10-Feb. 28.
Mink and Weasel: No limit | Nov. 10-Jan. 31.
Muskrat: No limit | Nov. 10-June 10.
Otter: No limit | Nov. 10-Mar. 31
Wolf: No limit | Nov. 10-Mar. 31.
Wolverine: No limit | Nov. 10-Feb. 28.

(7) Unit 7. (i) Unit 7 consists of Gulf of Alaska drainages between Gore Point and Cape Fairfield including the Nellie Juan and Kings River drainages, and including the Kenai River drainage upstream from the Russian River, the drainages into the south side of Turnagain Arm west of and including the Portage Creek drainage, and east of 150° W long., and all Kenai Peninsula drainages east of 150° W long., from Turnagain Arm to the Kenai River.

(ii) In the following areas, the taking of wildlife for subsistence uses is prohibited or restricted on public lands:

(A) You may not take wildlife for subsistence uses in the Kenai Fjords National Park.

(B) You may not hunt in the Portage Glacier Closed Area in Unit 7, which consists of Portage Creek drainages between the Anchorage-Seward Railroad and Placer Creek in Bear Valley, Portage Lake, the mouth of Byron Creek, Glacier Creek, and Byron Glacier; however, you may hunt grouse, ptarmigan, hares, and squirrels with shotguns after September 1.

(iii) Unit-specific regulations:

(A) You may use bait to hunt black bear between April 15 and June 15, except in the drainages of Resurrection Creek and its tributaries.

(B) [Reserved]

Table 7 to Paragraph (n)(7)
Harvest limits | Open season
Hunting
Black Bear: 3 bears | July 1-June 30.
Caribou:
Unit 7, north of the Sterling Highway and west of the Seward Highway—1 caribou by Federal registration permit only. The Seward District Ranger will close the Federal season when 5 caribou are harvested by Federal registration permit | Aug. 10-Dec. 31.
Unit 7, remainder | No open season.
Goat: 1 goat by Federal Drawing permit. Nannies accompanied by kids may not be taken | Aug. 10-Nov 14.
Moose:
Unit 7, that portion draining into Kings Bay—Federal public lands are closed to the taking of moose except by residents of Chenega Bay and Tatitlek | No open season.
Unit 7, remainder—1 antlered bull with spike-fork or 50-inch antlers or with 3 or more brow tines on either antler, by Federal registration permit only | Aug. 20-Sep. 25.
Sheep: 1 ram with full curl horn or larger by Federal drawing permit | Aug. 10-Sep. 20.
Beaver: 1 beaver per day, 1 in possession | May 1-Oct. 10.
Coyote: No limit | Sep. 1-Apr. 30.
Fox, Red (including Cross, Black and Silver Phases): | No open season.
Hare (Snowshoe): No limit | July 1-June 30.
Lynx: 2 lynx | Nov. 10-Jan. 31.
Wolf:
Unit 7, that portion within the Kenai National Wildlife Refuge—2 wolves | Aug. 10-Apr. 30.
Unit 7, remainder—5 wolves | Aug. 10-Apr. 30.
Wolverine: 1 wolverine | Sep. 1-Mar. 31.
Grouse (Spruce): 10 per day, 20 in possession | Aug. 10-Mar. 31.
Grouse (Ruffed): | No open season.
Ptarmigan (Rock, Willow, and White-tailed): 20 per day, 40 in possession | Aug. 10-Mar. 31.
Trapping
Beaver: 20 beaver per season | Nov. 10-Mar. 31.
Coyote: No limit | Nov. 10-Mar. 31.
Fox, Red (including Cross, Black and Silver Phases): No limit | Nov. 10-Feb. 28.
Lynx: No limit | Jan. 1-31.
Marten: No limit | Nov. 10-Jan. 31.
Mink and Weasel: No limit | Nov. 10-Jan. 31.
Muskrat: No limit | Nov. 10-May 15.
Otter: No limit | Nov. 10-Feb. 28.
Wolf: No limit | Nov. 10-Mar. 31.
Wolverine: No limit | Nov. 10-Feb. 28.

(8) Unit 8. Unit 8 consists of all islands southeast of the centerline of Shelikof Strait including Kodiak, Afognak, Whale, Raspberry, Shuyak, Spruce, Marmot, Sitkalidak, Amook, Uganik, and Chirikof Islands, the Trinity Islands, the Semidi Islands, and other adjacent islands.

(i) Unit-specific regulations: If you have a trapping license, you may take beaver with a firearm in Unit 8 from Nov. 10 through Apr. 30.

(ii) [Reserved]

Table 8 to Paragraph (n)(8)
Harvest limits | Open season
Hunting
Brown Bear: 1 bear by Federal registration permit only. Up to 2 permits may be issued in Akhiok; up to 1 permit may be issued in Karluk; up to 3 permits may be issued in Larsen Bay; up to 3 permits may be issued in Old Harbor; up to 2 permits may be issued in Ouzinkie; and up to 2 permits may be issued in Port Lions. Permits will be issued by the Kodiak Refuge Manager | Dec. 1-Dec. 15. Apr. 1-May 15.
Deer: Unit 8, all lands within the Kodiak Archipelago within the Kodiak National Wildlife Refuge, including lands on Kodiak, Ban, Uganik, and Afognak Islands—3 deer; however, antlerless deer may be taken only Oct. 1-Jan. 31 | Aug. 1-Jan. 31.
Elk: Kodiak, Ban, Uganik, and Afognak Islands—1 elk per household by Federal registration permit only. The season will be closed by announcement of the Refuge Manager, Kodiak National Wildlife Refuge, when the combined Federal/State harvest reaches 15% of the herd | Sep. 15-Nov. 30.
Fox, Red (including Cross, Black and Silver Phases): 2 foxes | Sep. 1-Feb. 15.
Hare (Snowshoe): No limit | July 1-June 30.
Ptarmigan (Rock, Willow, and White-tailed): 20 per day, 40 in possession | Aug. 10-Apr. 30.
Trapping
Beaver: 30 beaver per season | Nov. 10-Apr. 30.
Fox, Red (including Cross, Black and Silver Phases): No limit | Nov. 10-Mar. 31.
Marten: No limit | Nov. 10-Jan. 31.
Mink and Weasel: No limit | Nov. 10-Jan. 31.
Muskrat: No limit | Nov. 10-June 10.
Otter: No limit | Nov. 10-Jan. 31.

(9) Unit 9. (i) Unit 9 consists of the Alaska Peninsula and adjacent islands, including drainages east of False Pass, Pacific Ocean drainages west of and excluding the Redoubt Creek drainage; drainages into the south side of Bristol Bay, drainages into the north side of Bristol Bay east of Etolin Point, and including the Sanak and Shumagin Islands:

(A) Unit 9A consists of that portion of Unit 9 draining into Shelikof Strait and Cook Inlet between the southern boundary of Unit 16 (Redoubt Creek) and the northern boundary of Katmai National Park and Preserve.

(B) Unit 9B consists of the Kvichak River drainage except those lands drained by the Kvichak River/Bay between the Alagnak River drainage and the Naknek River drainage.

(C) Unit 9C consists of the Alagnak (Branch) River drainage, the Naknek River drainage, lands drained by the Kvichak River/Bay between the Alagnak River drainage and the Naknek River drainage, and all land and water within Katmai National Park and Preserve.

(D) Unit 9D consists of all Alaska Peninsula drainages west of a line from the southernmost head of Port Moller to the head of American Bay, including the Shumagin Islands and other islands of Unit 9 west of the Shumagin Islands.

(E) Unit 9E consists of the remainder of Unit 9.

(ii) In the following areas, the taking of wildlife for subsistence uses is prohibited or restricted on public lands:

(A) You may not take wildlife for subsistence uses in Katmai National Park; and

(B) You may not use motorized vehicles, except aircraft, boats, or snowmobiles used for hunting and transporting a hunter or harvested animal parts from Aug. 1 through Nov. 30 in the Naknek Controlled Use Area, which includes all of Unit 9C within the Naknek River drainage upstream from and including the King Salmon Creek drainage; however, you may use a motorized vehicle on the Naknek-King Salmon, Lake Camp, and Rapids Camp roads and on the King Salmon Creek trail, and on frozen surfaces of the Naknek River and Big Creek.

(iii) Unit-specific regulations:

(A) If you have a trapping license, you may use a firearm to take beaver in Unit 9B from April 1 through May 31 and in the remainder of Unit 9 from April 1 through 30.

(B) You may hunt brown bear by State registration permit in lieu of a resident tag in Unit 9B, except that portion within the Lake Clark National Park and Preserve, if you have obtained a State registration permit prior to hunting.

(C) In Unit 9B, Lake Clark National Park and Preserve, residents of Iliamna, Newhalen, Nondalton, Pedro Bay, Port Alsworth, and that portion of the park resident zone in Unit 9B and 13.440 permit holders may hunt brown bear by Federal registration permit in lieu of a resident tag. The season will be closed when 4 females or 10 bears have been taken, whichever occurs first. The permits will be issued and closure announcements made by the Superintendent Lake Clark National Park and Preserve.

(D) Residents of Iliamna, Newhalen, Nondalton, Pedro Bay, and Port Alsworth may take up to a total of 10 bull moose in Unit 9B for ceremonial purposes, under the terms of a Federal registration permit from July 1 through June 30. Permits will be issued to individuals only at the request of a local organization. This 10-moose limit is not cumulative with that permitted for potlatches by the State.

(E) For Units 9C and 9E only, a federally qualified subsistence user (recipient) of Units 9C and 9E may designate another federally qualified subsistence user of Units 9C and 9E to take bull caribou on his or her behalf. The designated hunter must obtain a designated hunter permit and must return a completed harvest report and turn over all meat to the recipient. There is no restriction on the number of possession limits the designated hunter may have in his/her possession at any one time.

(F) For Unit 9D, a federally qualified subsistence user (recipient) may designate another federally qualified subsistence user to take caribou on his or her behalf. The designated hunter must obtain a designated hunter permit and must return a completed harvest report. The designated hunter may hunt for any number of recipients but may have no more than four harvest limits in his/her possession at any one time.

(G) The communities of False Pass, King Cove, Cold Bay, Sand Point, and Nelson Lagoon annually may each take, from October 1 through December 31 or May 10 through 25, one brown bear for ceremonial purposes, under the terms of a Federal registration permit. A permit will be issued to an individual only at the request of a local organization. The brown bear may be taken from either Unit 9D or Unit 10 (Unimak Island) only.

(H) You may hunt brown bear in Unit 9E with a Federal registration permit in lieu of a State locking tag if you have obtained a Federal registration permit prior to hunting.

Table 9 to Paragraph (n)(9)
Harvest limits | Open season
Hunting
Black Bear: 3 bears | July 1-June 30.
Brown Bear:
Unit 9B, Lake Clark National Park and Preserve—Rural residents of Iliamna, Newhalen, Nondalton, Pedro Bay, Port Alsworth, residents of that portion of the park resident zone in Unit 9B; and 13.440 permit holders—1 bear by Federal registration permit only | July 1-June 30.
The season will be closed by the Lake Clark National Park and Preserve Superintendent when 4 females or 10 bear have been taken, whichever occurs first. |
Unit 9B, remainder—1 bear by State registration permit only | Sep. 1-May 31.
Unit 9C—1 bear by Federal registration permit only | Oct. 1-May 31.
The season will be closed by the Katmai National Park and Preserve Superintendent in consultation with BLM and FWS land managers and ADF&G, when 6 females or 10 bear have been taken, whichever occurs first. |
Unit 9E—1 bear by Federal registration permit | Sep. 25-Dec. 31. Apr. 15-May 25.
Caribou: |
Unit 9A—up to 2 caribou by State registration permit | Season may be announced between Aug. 1-Mar. 15.
Unit 9B—up to 2 caribou by State registration permit | Season may be announced between Aug. 1-Mar. 31.
Unit 9C, that portion within the Alagnak River drainage—up to 2 caribou by State registration permit | Season may be announced between Aug. 1-Mar. 15.
Unit 9C, that portion draining into the Naknek River from the north, and Graveyard Creek and Coffee Creek—up to 2 caribou by State registration permit | Season may be announced between Aug. 1-Mar. 15.
Unit 9C, remainder—1 bull by Federal registration permit or State permit. Federal public lands are closed to the taking of caribou except by residents of Unit 9C and Egegik. | May be announced.
Unit 9D—1-4 caribou by Federal registration permit only | Aug. 1-Sep. 30. Nov. 15-Mar. 31.
Unit 9E—1 bull by Federal registration permit or State permit. Federal public lands are closed to the taking of caribou except by residents of Unit 9E, Nelson Lagoon, and Sand Point. | May be announced.
Sheep:
Unit 9B, that portion within Lake Clark National Park and Preserve—1 ram with ¾ curl or larger horn by Federal registration permit only. By announcement of the Lake Clark National Park and Preserve Superintendent, the summer/fall season will be closed when up to 5 sheep are taken and the winter season will be closed when up to 2 sheep are taken. | July 15-Oct. 15. Jan. 1-Apr. 1.
Unit 9B, remainder—1 ram with ⅞ curl or larger horn by Federal registration permit only | Aug. 10-Oct. 10.
Unit 9, remainder—1 ram with ⅞ curl or larger horn | Aug. 10-Sep. 20.
Moose:
Unit 9A—1 bull by State registration permit | Sep. 1-15.
Unit 9B—1 bull by State registration permit | Sep. 1-20. Dec. 1-Jan. 15.
Unit 9C, that portion draining into the Naknek River from the north—1 bull by State registration permit | Sep. 1-20. Dec. 1-31.
Unit 9C, that portion draining into the Naknek River from the south—1 bull by State registration permit. Public lands are closed during December for the hunting of moose, except by federally qualified subsistence users hunting under these regulations. | Aug. 20-Sep. 20. Dec. 1-31.
Unit 9C, remainder—1 bull by State registration permit | Sep. 1-20. Dec. 15-Jan. 15.
Unit 9D—1 bull by Federal registration permit. Federal public lands will be closed by announcement of the Izembek Refuge Manager to the harvest of moose when a total of 10 bulls have been harvested between State and Federal hunts. | Dec. 15-Jan. 20.
Unit 9E—1 bull by State registration permit; however, only antlered bulls may be taken Dec. 1-Jan. 31 | Sep. 1-25. Dec. 1-Jan. 31.
Beaver: Unit 9B and 9E—2 beaver per day | Apr. 15-May 31.
Coyote: 2 coyotes | Sep. 1-Apr. 30.
Fox, Arctic (Blue and White): No limit | Dec. 1-Mar. 15.
Fox, Red (including Cross, Black and Silver Phases): 2 foxes | Sep. 1-Feb. 15.
Hare: |
Snowshoe hare: No limit | July 1-June 30.
Alaska hare: 1 per day, 4 per season | Nov. 1-Mar. 31.
Lynx: 2 lynx | Nov. 10-Feb. 28.
Wolf: 10 wolves | Aug. 10-Apr. 30.
Wolverine: 1 wolverine | Sep. 1-Mar. 31.
Grouse (Spruce): 15 per day, 30 in possession | Aug. 10-Apr. 30.
Ptarmigan (Rock, Willow, and White-tailed): 10 per day, 20 in possession | Aug. 10-last day of Feb.
Trapping
Beaver: |
No limit | Oct. 10-Mar. 31.
2 beaver per day; only firearms may be used | Apr. 15-May 31.
Coyote: No limit | Nov. 10-Mar. 31.
Fox, Arctic (Blue and White): No limit | Nov. 10-Feb. 28.
Fox, Red (including Cross, Black and Silver Phases): No limit | Nov. 10-Feb. 28.
Lynx: No limit | Nov. 10-Feb. 28.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(10) Unit 10. (i) Unit 10 consists of the Aleutian Islands, Unimak Island, and the Pribilof Islands.

(ii) You may not take any wildlife species for subsistence uses on Otter Island in the Pribilof Islands.

(iii) In Unit 10—Unimak Island only, a federally qualified subsistence user (recipient) may designate another federally qualified subsistence user to take caribou on his or her behalf. The designated hunter must obtain a designated hunter permit and must return a completed harvest report. The designated hunter may hunt for any number of recipients but may have no more than four harvest limits in his/her possession at any one time.

(iv) The communities of False Pass, King Cove, Cold Bay, Sand Point, and Nelson Lagoon annually may each take, from October 1 through December 31 or May 10 through 25, one brown bear for ceremonial purposes, under the terms of a Federal registration permit. A permit will be issued to an individual only at the request of a local organization. The brown bear may be taken from either Unit 9D or Unit 10 (Unimak Island) only.

Table 10 to Paragraph (n)(10)
Harvest limits | Open season
Hunting
Caribou:
Unit 10, Unimak Island only—1 bull by Federal registration permit | Aug. 1-Sep. 30.
Unit 10, remainder—No limit | July 1-June 30.
Coyote: 2 coyotes | Sep. 1-Apr. 30.
Fox, Arctic (Blue and White Phase): No limit | July 1-June 30.
Fox, Red (including Cross, Black and Silver Phases): 2 foxes | Sep. 1-Feb. 15.
Wolf: 5 wolves | Aug. 10-Apr. 30.
Wolverine: 1 wolverine | Sep. 1-Mar. 31.
Ptarmigan (Rock and Willow): 20 per day, 40 in possession | Aug. 10-Apr. 30.
Trapping
Coyote: 2 coyotes | Sep. 1-Apr. 30.
Fox, Arctic (Blue and White Phase): No limit | July 1-June 30.
Fox, Red (including Cross, Black and Silver Phases): 2 foxes | Sep. 1-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(11) Unit 11. Unit 11 consists of that area draining into the headwaters of the Copper River south of Suslota Creek and the area drained by all tributaries into the east bank of the Copper River between the confluence of Suslota Creek with the Slana River and Miles Glacier.

(i) Unit-specific regulations:

(A) You may use bait to hunt black and brown bear between April 15 and June 15.

(B) One moose without calf may be taken from June 20 through July 31 in the Wrangell-St. Elias National Park and Preserve in Unit 11 or Unit 12 for the Batzulnetas Culture Camp. Two hunters from either Chistochina or Mentasta Village may be designated by the Mt. Sanford Tribal Consortium to receive the Federal subsistence harvest permit. The permit may be obtained from a Wrangell-St. Elias National Park and Preserve office.

(C) For federally qualified subsistence users living within the Ahtna traditional communities of Chistochina, Chitina, Copper Center, Gakona, Gulkana, Mentasta Lake, and Tazlina, a community harvest system for moose is authorized on Federal public lands within Unit 11, subject to the framework established by the Federal Subsistence Board.

(1) The boundaries of the communities are the most recent Census Designated Places as defined by the U.S. Census Bureau.

(2) Participants in the community harvest system may not designate another individual to harvest on their behalf any species for which they register within the community harvest system but may serve as a designated hunter, pursuant to 50 CFR 100.25(e).

(3) Community harvest limit for the species authorized in the community harvest system is the sum of individual harvest limits of the participants in the system.

(4) Harvest reporting will take the form of reports collected from hunters by the Ahtna Intertribal Resource Commission and submitted directly to land managers and the Office of Subsistence Management, rather than through Federal registration permits, joint State/Federal registration permits, or State harvest tickets.

(ii) A joint permit may be issued to a pair of a minor and an elder to hunt sheep during the Aug. 1-Oct. 20 hunt. The following conditions apply:

(A) The permittees must be a minor aged 8 to 15 years old and an accompanying adult 60 years of age or older.

(B) Both the elder and the minor must be federally qualified subsistence users with a positive customary and traditional use determination for the area they want to hunt.

(C) The minor must hunt under the direct immediate supervision of the accompanying adult, who is responsible for ensuring that all legal requirements are met.

(D) Only one animal may be harvested with this permit. The sheep harvested will count against the harvest limits of both the minor and accompanying adult.

Table 11 to Paragraph (n)(11)
Harvest limits | Open season
Hunting
Black Bear: 3 bears | July 1-June 30.
Brown Bear: 1 bear | Aug. 10-June 15.
Caribou: 1 bull by Federal registration permit | May be announced.
Sheep:
1 ram | Aug. 10-Sep. 20.
1 sheep by Federal registration permit only by persons 60 years of age or older. Ewes accompanied by lambs or lambs may not be taken | Aug. 1-Oct. 20.
Goat:
Unit 11, that portion within the Wrangell-St. Elias National Park and Preserve that is bounded by the Chitina and Nizina rivers on the south, the Kennicott River and glacier on the southeast, and the Root Glacier on the east—1 goat by Federal registration permit only | Aug. 25-Dec. 31.
Unit 11, the remainder of the Wrangell-St. Elias National Park and Preserve—1 goat by Federal registration permit only | Aug. 10-Dec. 31.
Unit 11, that portion outside of the Wrangell-St. Elias National Park and Preserve | No open season.
Federal public lands will be closed by announcement of the Superintendent, Wrangell-St. Elias National Park and Preserve, to the harvest of goats when a total of 45 goats has been harvested between Federal and State hunts.
Moose:
Unit 11, that portion draining into the east bank of the Copper River upstream from and including the Slana River drainage—1 antlered bull by joint Federal/State registration permit | Aug. 20-Sep. 20.
Unit 11, that portion south and east of a line running along the north bank of the Chitina River, the north and west banks of the Nazina River, and the west bank of West Fork of the Nazina River, continuing along the western edge of the West Fork Glacier to the summit of Regal Mountain—1 bull by Federal registration permit. However, during the period Aug. 20-Sep. 20, only an antlered bull may be taken | Aug. 20-Sep. 20. Nov. 20-Jan. 20.
Unit 11, remainder—1 antlered bull by Federal registration permit only | Aug. 20-Sep. 20.
Muskrat: No limit | Sep. 20-June 10.
Beaver: 1 beaver per day, 1 in possession | June 1-Oct. 10.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: 2 lynx | Nov. 10-Feb. 28.
Wolf: 10 wolves | Aug. 10-Apr. 30.
Wolverine: 1 wolverine | Sep. 1-Feb. 28.
Grouse (Spruce, Ruffed, and Sharp-tailed): 15 per day, 30 in possession | Aug. 10-Mar. 31.
Ptarmigan (Rock, Willow, and White-tailed): 20 per day, 40 in possession | Aug. 10-Mar. 31.
Trapping
Beaver: No limit | Sep. 25-May 31.
Coyote: No limit | Nov. 10-Mar. 31.
Fox, Red (including Cross, Black and Silver Phases): No limit | Nov. 10-Feb. 28.
Lynx: No limit | Nov. 10-Feb. 28.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(12) Unit 12. Unit 12 consists of the Tanana River drainage upstream from the Robertson River, including all drainages into the east bank of the Robertson River, and the White River drainage in Alaska, but excluding the Ladue River drainage.

(i) Unit-specific regulations:

(A) You may use bait to hunt black and brown bear between April 15 and June 30; you may use bait to hunt wolves on FWS and BLM lands.

(B) You may not use a steel trap, or a snare using cable smaller than 3/32-inch diameter to trap coyotes or wolves in Unit 12 during April and October.

(C) One moose without calf may be taken from June 20 through July 31 in the Wrangell-St. Elias National Park and Preserve in Unit 11 or 12 for the Batzulnetas Culture Camp. Two hunters from either Chistochina or Mentasta Village may be designated by the Mt. Sanford Tribal Consortium to receive the Federal subsistence harvest permit. The permit may be obtained from a Wrangell-St. Elias National Park and Preserve office.

(D) A community harvest system for caribou and moose is authorized on Federal public lands in Unit 12 within the Tok and Little Tok River drainages south of the Tok River bridge and east of the Tok Cutoff Road, and within the Nabesna River drainage west of the east bank of the Nabesna River upstream from the southern boundary of Tetlin National Wildlife Refuge and that portion of Unit 12 that is east of the Nabesna River and south of the Pickerel Lake Winter Trail running southeast from Pickerel Lake to the Canadian border. This community harvest system is for federally qualified subsistence users living within the Ahtna traditional communities of Chistochina, Chitina, Copper Center, Gakona, Gulkana, Mentasta Lake, and Tazlina and is subject to the framework established by the Federal Subsistence Board.

(1) The boundaries of the communities are the most recent Census Designated Places as defined by the U.S. Census Bureau.

(2) Participants in the community harvest system may not designate another individual to harvest on their behalf any species for which they register within the community harvest system but may serve as a designated hunter, pursuant to 50 CFR 100.25(e).

(3) The community harvest limit for the species authorized in the community harvest system is the sum of individual harvest limits of the participants in the system.

(4) Harvest reporting will take the form of reports collected from hunters by the Ahtna Intertribal Resource Commission and submitted directly to the land managers and the Office of Subsistence Management, rather than through Federal registration permits, joint State/Federal registration permits, or State harvest tickets.

(5) Participants must abide by customary and traditional use determinations.

(ii) A joint permit may be issued to a pair of a minor and an elder to hunt sheep during the Aug. 1-Oct. 20 hunt. The following conditions apply:

(A) The permittees must be a minor aged 8 to 15 years old and an accompanying adult 60 years of age or older.

(B) Both the elder and the minor must be federally qualified subsistence users with a positive customary and traditional use determination for the area they want to hunt.

(C) The minor must hunt under the direct immediate supervision of the accompanying adult, who is responsible for ensuring that all legal requirements are met.

(D) Only one animal may be harvested with this permit. The sheep harvested will count against the harvest limits of both the minor and accompanying adult.

Table 12 to Paragraph (n)(12)
Harvest limits | Open season
Hunting
Black Bear: 3 bears | July 1-June 30.
Brown Bear: 1 bear | Aug. 10-June 30.
Caribou:
Unit 12, that portion within the Wrangell-St. Elias National Park that lies west of the Nabesna River and the Nabesna Glacier. All hunting of caribou is prohibited on Federal public lands. | No open season.
Unit 12, that portion east of the Nabesna River and the Nabesna Glacier and south of the Winter Trail running southeast from Pickerel Lake to the Canadian border—1 bull by Federal registration permit only | Aug. 10-Sep. 30.
Federal public lands are closed to the harvest of caribou except by federally qualified subsistence users hunting under these regulations.
Unit 12, remainder—1 bull | Sep. 1-20.
Unit 12, remainder—1 caribou may be taken by a Federal registration permit during a winter season to be announced. Dates for a winter season to occur between Oct. 1 and Apr. 30, and sex of the animals to be taken will be announced by the Tetlin National Wildlife Refuge Manager in consultation with the Wrangell-St. Elias National Park and Preserve Superintendent, Alaska Department of Fish and Game area biologists, and Chairs of the Eastern Interior Regional Advisory Council and Upper Tanana/Fortymile Fish and Game Advisory Committee | Winter season to be announced.
Sheep:
Unit 12—1 ram with full curl or larger horn | Aug. 10-Sep. 20.
Unit 12, that portion within Wrangell-St. Elias National Park and Preserve—1 ram with full curl horn or larger by Federal registration permit only by persons 60 years of age or older | Aug. 1-Oct. 20.
Moose:
Unit 12, that portion within the Tetlin National Wildlife Refuge and those lands within the Wrangell-St. Elias National Preserve north and east of a line formed by the Pickerel Lake Winter Trail from the Canadian border to Pickerel Lake—1 antlered bull by Federal registration permit | Aug. 24-Sep. 20. Nov. 1-Feb. 28.
Unit 12, that portion east of the Nabesna River and Nabesna Glacier, and south of the Winter Trail running southeast from Pickerel Lake to the Canadian border—1 antlered bull | Aug. 24-Sep. 30.
Unit 12, that portion within the Nabesna River drainage west of the east bank of the Nabesna River upstream from the southern boundary of Tetlin National Wildlife Refuge—1 antlered bull by joint Federal/State registration permit only | Aug. 20-Sep. 20.
Unit 12, remainder—1 bull | Aug. 24-28. Sep. 8-20.
Beaver: Unit 12, Wrangell-St. Elias National Park and Preserve—6 beaver per season. Meat from harvested beaver must be salvaged for human consumption | Sep. 20-May 15.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: 2 lynx | Nov. 1-Mar. 15.
Wolf: 10 wolves | Aug. 10-Apr. 30.
Wolverine: 1 wolverine | Sep. 1-Mar. 31
Grouse (Spruce, Ruffed, and Sharp-tailed): 15 per day, 30 in possession | Aug. 10-Mar. 31.
Ptarmigan (Rock, Willow, and White-tailed): 20 per day, 40 in possession | Aug. 10-Apr. 30.
Trapping
Beaver: No limit. Hide or meat must be salvaged. Traps, snares, bow and arrow, or firearms may be used | Sep. 15-Jun 10.
Coyote: No limit | Oct. 15-Apr. 30.
Fox, Red (including Cross, Black and Silver Phases): No limit | Nov. 1-Feb. 28.
Lynx: No limit | Nov. 1-Mar. 15.
Marten: No limit | Nov. 1-Feb. 28.
Mink and Weasel: No limit | Nov. 1-Feb. 28.
Muskrat: No limit | Sep. 20-June 10.
Otter: No limit | Nov. 1-Apr. 15.
Wolf: No limit | Oct. 1-Apr. 30.
Wolverine: No limit | Nov. 1-Feb. 28.

(13) Unit 13. (i) Unit 13 consists of that area westerly of the east bank of the Copper River and drained by all tributaries into the west bank of the Copper River from Miles Glacier and including the Slana River drainages north of Suslota Creek; the drainages into the Delta River upstream from Falls Creek and Black Rapids Glacier; the drainages into the Nenana River upstream from the southeastern corner of Denali National Park at Windy; the drainage into the Susitna River upstream from its junction with the Chulitna River; the drainage into the east bank of the Chulitna River upstream to its confluence with Tokositna River; the drainages of the Chulitna River (south of Denali National Park) upstream from its confluence with the Tokositna River; the drainages into the north bank of the Tokositna River upstream to the base of the Tokositna Glacier; the drainages into the Tokositna Glacier; the drainages into the east bank of the Susitna River between its confluences with the Talkeetna and Chulitna Rivers; the drainages into the north and east bank of the Talkeetna River including the Talkeetna River to its confluence with Clear Creek, the eastside drainages of a line going up the south bank of Clear Creek to the first unnamed creek on the south, then up that creek to lake 4408, along the northeastern shore of lake 4408, then southeast in a straight line to the northernmost fork of the Chickaloon River; the drainages into the east bank of the Chickaloon River below the line from lake 4408; the drainages of the Matanuska River above its confluence with the Chickaloon River:

(A) Unit 13A consists of that portion of Unit 13 bounded by a line beginning at the Chickaloon River bridge at Mile 77.7 on the Glenn Highway, then along the Glenn Highway to its junction with the Richardson Highway, then south along the Richardson Highway to the foot of Simpson Hill at Mile 111.5, then east to the east bank of the Copper River, then northerly along the east bank of the Copper River to its junction with the Gulkana River, then northerly along the west bank of the Gulkana River to its junction with the West Fork of the Gulkana River, then westerly along the west bank of the West Fork of the Gulkana River to its source, an unnamed lake, then across the divide into the Tyone River drainage, down an unnamed stream into the Tyone River, then down the Tyone River to the Susitna River, then down the south bank of the Susitna River to the mouth of Kosina Creek, then up Kosina Creek to its headwaters, then across the divide and down Aspen Creek to the Talkeetna River, then southerly along the boundary of Unit 13 to the Chickaloon River bridge, the point of beginning.

(B) Unit 13B consists of that portion of Unit 13 bounded by a line beginning at the confluence of the Copper River and the Gulkana River, then up the east bank of the Copper River to the Gakona River, then up the Gakona River and Gakona Glacier to the boundary of Unit 13, then westerly along the boundary of Unit 13 to the Susitna Glacier, then southerly along the west bank of the Susitna Glacier and the Susitna River to the Tyone River, then up the Tyone River and across the divide to the headwaters of the West Fork of the Gulkana River, then down the West Fork of the Gulkana River to the confluence of the Gulkana River and the Copper River, the point of beginning.

(C) Unit 13C consists of that portion of Unit 13 east of the Gakona River and Gakona Glacier.

(D) Unit 13D consists of that portion of Unit 13 south of Unit 13A.

(E) Unit 13E consists of the remainder of Unit 13.

(ii) Within the following areas, the taking of wildlife for subsistence uses is prohibited or restricted on public lands:

(A) You may not take wildlife for subsistence uses on lands within Mount McKinley National Park as it existed prior to December 2, 1980. Subsistence uses as authorized by this paragraph (n)(13) are permitted in Denali National Preserve and lands added to Denali National Park on December 2, 1980.

(B) You may not use motorized vehicles or pack animals for hunting Aug. 5-25 in the Delta Controlled Use Area, the boundary of which is defined as: a line beginning at the confluence of Miller Creek and the Delta River, then west to vertical angle benchmark Miller, then west to include all drainages of Augustana Creek and Black Rapids Glacier, then north and east to include all drainages of McGinnis Creek to its confluence with the Delta River, then east in a straight line across the Delta River to Mile 236.7 Richardson Highway, then north along the Richardson Highway to its junction with the Alaska Highway, then east along the Alaska Highway to the west bank of the Johnson River, then south along the west bank of the Johnson River and Johnson Glacier to the head of the Cantwell Glacier, then west along the north bank of the Cantwell Glacier and Miller Creek to the Delta River.

(C) Except for access and transportation of harvested wildlife on Sourdough and Haggard Creeks, Middle Fork trails, or other trails designated by the Board, you may not use motorized vehicles for subsistence hunting in the Sourdough Controlled Use Area. The Sourdough Controlled Use Area consists of that portion of Unit 13B bounded by a line beginning at the confluence of Sourdough Creek and the Gulkana River, then northerly along Sourdough Creek to the Richardson Highway at approximately Mile 148, then northerly along the Richardson Highway to the Middle Fork Trail at approximately Mile 170, then westerly along the trail to the Gulkana River, then southerly along the east bank of the Gulkana River to its confluence with Sourdough Creek, the point of beginning.

(D) You may not use any motorized vehicle or pack animal for hunting, including the transportation of hunters, their hunting gear, and/or parts of game from July 26 through September 30 in the Tonsina Controlled Use Area. The Tonsina Controlled Use Area consists of that portion of Unit 13D bounded on the west by the Richardson Highway from the Tiekel River to the Tonsina River at Tonsina, on the north along the south bank of the Tonsina River to where the Edgerton Highway crosses the Tonsina River, then along the Edgerton Highway to Chitina, on the east by the Copper River from Chitina to the Tiekel River, and on the south by the north bank of the Tiekel River.

(iii) Unit-specific regulations:

(A) You may use bait to hunt black bear between April 15 and June 15.

(B) Upon written request by the Camp Director to the Glennallen Field Office, 2 caribou, sex to be determined by the Glennallen Field Office Manager of the BLM, may be taken from Aug. 10 through Sep. 30 or Oct. 21 through Mar. 31 by Federal registration permit for the Hudson Lake Residential Treatment Camp. Additionally, 1 bull moose may be taken Aug. 1 through Sep. 20. The animals may be taken by any federally qualified hunter designated by the Camp Director. The hunter must have in his/her possession the permit and a designated hunter permit during all periods that are being hunted.

(C) A community harvest system for caribou and moose is authorized on Federal public lands within Unit 13, subject to the framework established by the Federal Subsistence Board, for federally qualified subsistence users living within the Ahtna traditional communities of Cantwell, Chistochina, Chitina, Copper Center, Gakona, Gulkana, Mentasta Lake, and Tazlina.

(1) The boundaries of the communities are the most recent Census Designated Places as defined by the U.S. Census Bureau.

(2) Participants in the community harvest system may not designate another individual to harvest on their behalf any species for which they register within the community harvest system but may serve as a designated hunter, pursuant to 50 CFR 100.25(e).

(3) The community harvest limit for the species authorized in the community harvest system is the sum of individual harvest limits of the participants in the system.

(4) Harvest reporting will take the form of reports collected from hunters by the Ahtna Intertribal Resource Commission and submitted directly to the land managers and the Office of Subsistence Management, rather than through Federal registration permits, joint State/Federal registration permits, or State harvest tickets.

Table 13 to Paragraph (n)(13)
Harvest limits | Open season
Hunting
Black Bear: 3 bears | July 1-June 30.
Brown Bear: 1 bear. Bears taken within Denali National Park must be sealed within 5 days of harvest. That portion within Denali National Park will be closed by announcement of the Superintendent after 4 bears have been harvested | Aug. 10-May 31.
Caribou:
Units 13A and 13B—2 caribou by Federal registration permit only. The sex of animals that may be taken will be announced by the Glennallen Field Office Manager of the Bureau of Land Management in consultation with the Alaska Department of Fish and Game area biologist and Chairs of the Eastern Interior Regional Advisory Council and the Southcentral Regional Advisory Council | Aug. 1-Sep. 30. Oct. 21-Mar. 31.
Unit 13, remainder—2 bulls by Federal registration permit only | Aug. 1-Sep. 30. Oct. 21-Mar. 31.
Sheep: Unit 13, excluding Unit 13D and the Tok Management Area and Delta Controlled Use Area—1 ram with ⅞ curl or larger horn | Aug. 10-Sep. 20.
Moose:
Unit 13E—1 antlered bull moose by Federal registration permit only; only 1 permit will be issued per household | Aug. 1-Sep. 20.
Unit 13, remainder—1 antlered bull moose by Federal registration permit only | Aug. 1-Sep. 20.
Beaver: 1 beaver per day, 1 in possession | June 15-Sep. 10.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: 2 lynx | Nov. 10-Feb. 28.
Wolf: 10 wolves | Aug. 10-Apr. 30.
Wolverine: 1 wolverine | Sep. 1-Feb. 28.
Grouse (Spruce, Ruffed, and Sharp-tailed): 15 per day, 30 in possession | Aug. 10-Mar. 31.
Ptarmigan (Rock, Willow, and White-tailed): 20 per day, 40 in possession | Aug. 10-Mar. 31.
Trapping
Beaver: No limit | Sep. 25-May 31.
Coyote: No limit | Nov. 10-Mar. 31.
Fox, Red (including Cross, Black and Silver Phases): No limit | Nov. 10-Feb. 28.
Lynx: No limit | Nov. 10-Feb. 28.
Marten: Unit 13—No limit | Nov. 10-Feb. 28.
Mink and Weasel: No limit | Nov. 10-Feb. 28.
Muskrat: No limit | Sep. 25-June 10.
Otter: No limit | Nov. 10-Mar. 31.
Wolf: No limit | Oct. 15-Apr. 30.
Wolverine: No limit | Nov. 10-Feb. 28.

(14) Unit 14. (i) Unit 14 consists of drainages into the northern side of Turnagain Arm west of and excluding the Portage Creek drainage, drainages into Knik Arm excluding drainages of the Chickaloon and Matanuska Rivers in Unit 13, drainages into the northern side of Cook Inlet east of the Susitna River, drainages into the east bank of the Susitna River downstream from the Talkeetna River, and drainages into the south and west bank of the Talkeetna River to its confluence with Clear Creek, the western side drainages of a line going up the south bank of Clear Creek to the first unnamed creek on the south, then up that creek to lake 4408, along the northeastern shore of lake 4408, then southeast in a straight line to the northernmost fork of the Chickaloon River:

(A) Unit 14A consists of drainages in Unit 14 bounded on the west by the east bank of the Susitna River, on the north by the north bank of Willow Creek and Peters Creek to its headwaters, then east along the hydrologic divide separating the Susitna River and Knik Arm drainages to the outlet creek at lake 4408, on the east by the eastern boundary of Unit 14, and on the south by Cook Inlet, Knik Arm, the south bank of the Knik River from its mouth to its junction with Knik Glacier, across the face of Knik Glacier and along the northern side of Knik Glacier to the Unit 6 boundary;

(B) Unit 14B consists of that portion of Unit 14 north of Unit 14A; and

(C) Unit 14C consists of that portion of Unit 14 south of Unit 14A.

(ii) In the following areas, the taking of wildlife for subsistence uses is prohibited or restricted on public lands:

(A) You may not take wildlife for subsistence uses in the Fort Richardson and Elmendorf Air Force Base Management Areas, consisting of the Fort Richardson and Elmendorf Military Reservations; and

(B) You may not take wildlife for subsistence uses in the Anchorage Management Area, consisting of all drainages south of Elmendorf and Fort Richardson military reservations and north of and including Rainbow Creek.

(iii) Unit-specific regulations:

Table 14 to Paragraph (n)(14)
Harvest limits | Open season
Hunting
Black Bear: Unit 14C—1 bear | July 1-June 30.
Beaver: Unit 14C—1 beaver per day, 1 in possession | May 15-Oct. 31.
Coyote: Unit 14C—2 coyotes | Sep. 1-Apr. 30.
Fox, Red (including Cross, Black and Silver Phases): Unit 14C—2 foxes | Nov. 1-Feb. 15.
Hare (Snowshoe): Unit 14C—5 hares per day | Sep. 8-Apr. 30.
Lynx: Unit 14C—2 lynx | Dec. 1-Jan. 31.
Wolf: Unit 14C—5 wolves | Aug. 10-Apr. 30.
Wolverine: Unit 14C—1 wolverine | Sep. 1-Mar. 31.
Grouse (Spruce and Ruffed): Unit 14C—5 per day, 10 in possession | Sep. 8-Mar. 31.
Ptarmigan (Rock, Willow, and White-tailed): Unit 14C—10 per day, 20 in possession | Sep. 8-Mar. 31.
Trapping
Beaver: Unit 14C, that portion within the drainages of Glacier Creek, Kern Creek, Peterson Creek, the Twentymile River and the drainages of Knik River outside Chugach State Park—20 beaver per season | Dec. 1-Apr. 15.
Coyote: Unit 14C—No limit | Nov. 10-Feb. 28.
Fox, Red (including Cross, Black and Silver Phases): Unit 14C—1 fox | Nov. 10-Feb. 28.
Lynx: Unit 14C—No limit | Dec. 15-Jan. 31.
Marten: Unit 14C—No limit | Nov. 10-Jan. 31.
Mink and Weasel: Unit 14C—No limit | Nov. 10-Jan. 31.
Muskrat: Unit 14C—No limit | Nov. 10-May 15.
Otter: Unit 14C—No limit | Nov. 10-Feb. 28.
Wolf: Unit 14C—No limit | Nov. 10-Feb. 28.
Wolverine: Unit 14C—2 wolverines | Nov. 10-Jan. 31.

(15) Unit 15. (i) Unit 15 consists of that portion of the Kenai Peninsula and adjacent islands draining into the Gulf of Alaska, Cook Inlet, and Turnagain Arm from Gore Point to the point where longitude line 150°00′ W crosses the coastline of Chickaloon Bay in Turnagain Arm, including that area lying west of longitude line 150°00′ W to the mouth of the Russian River, then southerly along the Chugach National Forest boundary to the upper end of Upper Russian Lake; and including the drainages into Upper Russian Lake west of the Chugach National Forest boundary:

(A) Unit 15A consists of that portion of Unit 15 north of the north bank of the Kenai River and the northern shore of Skilak Lake;

(B) Unit 15B consists of that portion of Unit 15 south of the north bank of the Kenai River and the northern shore of Skilak Lake, and north of the north bank of the Kasilof River, the northern shore of Tustumena Lake, Glacier Creek, and Tustumena Glacier; and

(C) Unit 15C consists of the remainder of Unit 15.

(ii) You may not take wildlife, except for grouse, ptarmigan, and hares that may be taken only from October 1 through March 1 by bow and arrow only, in the Skilak Loop Management Area, which consists of that portion of Unit 15A bounded by a line beginning at the easternmost junction of the Sterling Highway and the Skilak Loop (milepost 76.3), then due south to the south bank of the Kenai River, then southerly along the south bank of the Kenai River to its confluence with Skilak Lake, then westerly along the northern shore of Skilak Lake to Lower Skilak Lake Campground, then northerly along the Lower Skilak Lake Campground Road and the Skilak Loop Road to its westernmost junction with the Sterling Highway, then easterly along the Sterling Highway to the point of beginning.

(iii) Unit-specific regulations:

(A) You may use bait to hunt black bear between April 15 and June 15;

(B) You may not trap furbearers for subsistence in the Skilak Loop Wildlife Management Area;

(C) You may not trap marten in that portion of Unit 15B east of the Kenai River, Skilak Lake, Skilak River, and Skilak Glacier; and

(D) You may not take red fox in Unit 15 by any means other than a steel trap or snare.

Table 15 to Paragraph (n)(15)
Harvest limits | Open season
Hunting
Black Bear:
Units 15A and 15B—2 bears by Federal registration permit | July 1-June 30.
Unit 15C—3 bears | July 1-June 30.
Brown Bear: Unit 15—1 bear every 4 regulatory years by Federal registration permit. The season may be opened or closed by announcement from the Kenai National Wildlife Refuge Manager after consultation with ADF&G and the Chair of the Southcentral Alaska Subsistence Regional Advisory Council | Sep. 1-Nov. 30, to be announced and Apr. 1-June 15, to be announced.
Caribou:
Unit 15B, within the Kenai National Wildlife Refuge Wilderness Area—1 caribou by Federal drawing permit | Aug. 10-Sep. 20.
Unit 15C, north of the Fox River and east of Windy Lake—1 caribou by Federal drawing permit | Aug. 10-Sep. 20.
Unit 15, remainder | No open season.
Goat: 1 goat by Federal drawing permit. Kids or nannies accompanied by kids may not be taken | Aug. 10-Nov. 14.
Moose:
Unit 15A—Skilak Loop Wildlife Management Area | No open season.
Units 15A remainder, 15B, and 15C—1 antlered bull with spike-fork or 50-inch antlers or with 3 or more brow tines on either antler, by Federal registration permit only | Aug. 20-Sep. 25.
Units 15B and 15C—1 antlered bull with spike-fork or 50-inch antlers or with 3 or more brow tines on either antler, by Federal registration permit only. The Kenai NWR Refuge Manager is authorized to close the October-November season based on conservation concerns, in consultation with ADF&G and the Chair of the Southcentral Alaska Subsistence Regional Advisory Council | Oct. 20-Nov. 10.
Unit 15C—1 cow by Federal registration permit only | Aug. 20-Sep. 25.
Sheep: 1 ram with ¾ curl horn or larger by Federal drawing permit | Aug 10-Sep. 20.
Coyote: No limit | Sep. 1-Apr. 30.
Hare (Snowshoe): No limit | July 1-June 30.
Lynx: 2 lynx | Nov. 10-Jan. 31.
Wolf:
Unit 15, that portion within the Kenai National Wildlife Refuge—2 wolves | Aug. 10-Apr. 30.
Unit 15, remainder—5 wolves | Aug. 10-Apr. 30.
Wolverine: 1 wolverine | Sep. 1-Mar. 31.
Grouse (Spruce): 15 per day, 30 in possession | Aug. 10-Mar. 31.
Grouse (Ruffed) | No open season.
Ptarmigan (Rock, Willow, and White-tailed):
Unit 15A and 15B—20 per day, 40 in possession | Aug. 10-Mar. 31.
Unit 15C—20 per day, 40 in possession | Aug. 10-Dec. 31.
Unit 15C—5 per day, 10 in possession | Jan. 1-Mar. 31.
Trapping
Beaver: 20 beaver per season | Nov. 10-Mar. 31.
Coyote: No limit | Nov. 10-Mar. 31.
Fox, Red (including Cross, Black and Silver Phases): 1 Fox | Nov. 10-Feb. 28.
Lynx: No limit | Jan. 1-31.
Marten:
Unit 15B, that portion east of the Kenai River, Skilak Lake, Skilak River, and Skilak Glacier | No open season.
Remainder of Unit 15—No limit | Nov. 10-Jan. 31.
Mink and Weasel: No limit | Nov. 10-Jan. 31.
Muskrat: No limit | Nov. 10-May 15.
Otter: Unit 15—No limit | Nov. 10-Feb. 28.
Wolf: No limit | Nov. 10-Mar. 31.
Wolverine: Unit 15B and C—No limit | Nov. 10-Feb. 28.

(16) Unit 16. (i) Unit 16 consists of the drainages into Cook Inlet between Redoubt Creek and the Susitna River, including Redoubt Creek drainage, Kalgin Island, and the drainages on the western side of the Susitna River (including the Susitna River) upstream to its confluence with the Chulitna River; the drainages into the western side of the Chulitna River (including the Chulitna River) upstream to the Tokositna River, and drainages into the southern side of the Tokositna River upstream to the base of the Tokositna Glacier, including the drainage of the Kahiltna Glacier:

(A) Unit 16A consists of that portion of Unit 16 east of the east bank of the Yentna River from its mouth upstream to the Kahiltna River, east of the east bank of the Kahiltna River, and east of the Kahiltna Glacier; and

(B) Unit 16B consists of the remainder of Unit 16.

(ii) You may not take wildlife for subsistence uses in the Mount McKinley National Park, as it existed prior to December 2, 1980. Subsistence uses as authorized by this paragraph (n)(16) are permitted in Denali National Preserve and lands added to Denali National Park on December 2, 1980.

(iii) Unit-specific regulations:

(A) You may use bait to hunt black bear between April 15 and June 15.

(B) [Reserved]

Table 16 to Paragraph (n)(16)
Harvest limits | Open season
Hunting
Black Bear: 3 bears | July 1-June 30.
Caribou: 1 caribou | Aug. 10-Oct. 31.
Moose:
Unit 16B, Redoubt Bay Drainages south and west of, and including the Kustatan River drainage—1 bull | Sep. 1-15.
Unit 16B, Denali National Preserve only—1 bull by Federal registration permit. One Federal registration permit for moose issued per household | Sep. 1-30. Dec. 1-Feb. 28.
Unit 16B, remainder—1 bull | Sep. 1-30. Dec. 1-Feb. 28.
Coyote: 2 coyotes | Sep. 1-Apr. 30.
Fox, Red (including Cross, Black and Silver Phases): 2 foxes | Sep. 1-Feb. 15.
Hare (Snowshoe): No limit | July 1-June 30.
Lynx: 2 lynx | Dec. 1-Jan. 31.
Wolf: 5 wolves | Aug. 10-Apr. 30.
Wolverine: 1 wolverine | Sep. 1-Mar. 31.
Grouse (Spruce and Ruffed): 15 per day, 30 in possession | Aug. 10-Mar. 31.
Ptarmigan (Rock, Willow, and White-tailed): 20 per day, 40 in possession | Aug. 10-Mar. 31.
Trapping
Beaver: No limit | Oct. 10-May 15.
Coyote: No limit | Nov. 10-Mar. 31.
Fox, Red (including Cross, Black and Silver Phases): No limit | Nov. 10-Feb. 28.
Lynx: No limit | Dec. 15-Jan. 31.
Marten: No limit | Nov. 10-Feb. 28.
Mink and Weasel: No limit | Nov. 10-Jan. 31.
Muskrat: No limit | Nov. 10-June 10.
Otter: No limit | Nov. 10-Mar. 31.
Wolf: No limit | Nov. 10-Mar. 31.
Wolverine: No limit | Nov. 10-Feb. 28.

(17) Unit 17. (i) Unit 17 consists of drainages into Bristol Bay and the Bering Sea between Etolin Point and Cape Newenham, and all islands between these points including Hagemeister Island and the Walrus Islands:

(A) Unit 17A consists of the drainages between Cape Newenham and Cape Constantine, and Hagemeister Island and the Walrus Islands;

(B) Unit 17B consists of the Nushagak River drainage upstream from, and including the Mulchatna River drainage and the Wood River drainage upstream from the outlet of Lake Beverley; and

(C) Unit 17C consists of the remainder of Unit 17.

(ii) In the following areas, the taking of wildlife for subsistence uses is prohibited or restricted on public lands:

(A) Except for aircraft and boats and in legal hunting camps, you may not use any motorized vehicle for hunting ungulates, bear, wolves, and wolverine, including transportation of hunters and parts of ungulates, bear, wolves, or wolverine in the Upper Mulchatna Controlled Use Area consisting of Unit 17B, from Aug. 1 through Nov. 1.

(B) [Reserved]

(iii) Unit-specific regulations:

(A) You may use bait to hunt black bear between April 15 and June 15.

(B) You may hunt brown bear by State registration permit in lieu of a resident tag if you have obtained a State registration permit prior to hunting.

(C) If you have a trapping license, you may use a firearm to take beaver in Unit 17 from April 15 through May 31. You may not take beaver with a firearm under a trapping license on National Park Service lands.

(D) In Unit 17, a snowmachine may be used to assist in the taking of a caribou, and caribou may be shot from a stationary snowmachine. “Assist in the taking of a caribou” means a snowmachine may be used to approach within 300 yards of a caribou at speeds under 15 miles per hour, in a manner that does not involve repeated approaches or that causes a caribou to run. A snowmachine may not be used to contact an animal or to pursue a fleeing caribou.

Table 17 to Paragraph (n)(17)
Harvest limits | Open season
Hunting
Black Bear: 2 bears | Aug. 1-May 31.
Brown Bear: Unit 17—1 bear by State registration permit only | Sep. 1-May 31.
Caribou: Unit 17A, all drainages west of Right Hand Point—up to 2 caribou by State registration permit | Season may be announced between Aug. 1-Mar. 31.
Units 17A and 17C, that portion of 17A and 17C consisting of the Nushagak Peninsula south of the Igushik River, Tuklung River and Tuklung Hills, west to Tvativak Bay—up to 5 caribou by Federal registration permit | Aug. 1-Mar. 31.
Public lands are closed to the taking of caribou except by federally qualified users unless the population estimate exceeds 900 caribou.
Units 17A, remainder and 17C, remainder—selected drainages; a harvest limit of up to 2 caribou by State registration permit will be determined at the time the season is announced | Season may be announced between Aug. 1 and Mar. 31.
Units 17B and 17C, that portion of 17C east of the Wood River and Wood River Lakes—up to 2 caribou by State registration permit | Season may be announced between Aug. 1-Mar. 31.
Sheep: 1 ram with full curl or larger horn | Aug. 10-Sep. 20.
Moose: Unit 17A—1 bull by State registration permit; or | Aug. 25-Sep. 25.
1 antlerless moose by State registration permit; or | Aug. 25-Sep. 25.
Unit 17A—up to 2 moose; one antlered bull by State registration permit, one antlerless moose by State registration permit | Up to a 31-day season may be announced between Dec. 1 and the last day of Feb.
Units 17B and 17C—one bull | Aug. 20-Sep. 15. Dec. 1-31.
During the period Aug. 20-Sep. 15—one bull by State registration permit; or
During the period Sep. 1-15—one bull with spike-fork or 50-inch antlers or antlers with three or more brow tines on at least one side with a State harvest ticket; or
During the period Dec. 1-31—one antlered bull by State registration permit.
Coyote: 2 coyotes | Sep. 1-Apr. 30.
Fox, Arctic (Blue and White Phase): No limit | Dec. 1-Mar. 15.
Fox, Red (including Cross, Black and Silver Phases): 2 foxes | Sep. 1-Feb. 15.
Hare:
Snowshoe hare: No limit | July 1-June 30.
Alaska hare: 1 per day, 4 per season | Nov. 1-Mar. 31.
Lynx: 2 lynx | Nov. 10-Feb. 28.
Wolf: 10 wolves | Aug. 10-Apr. 30.
Wolverine: 1 wolverine | Sep. 1-Mar. 31.
Grouse (Spruce and Ruffed): 15 per day, 30 in possession | Aug. 10-Apr. 30.
Ptarmigan (Rock and Willow): 20 per day, 40 in possession | Aug. 10-Apr. 30.
Trapping
Beaver: Unit 17—No limit | Oct. 10-Mar. 31.
Unit 17—2 beaver per day. Only firearms may be used | Apr. 15-May 31.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Feb. 28.
Mink and Weasel: No limit | Nov. 10-Feb. 28.
Muskrat: 2 muskrats | Nov. 10-Feb. 28.
Otter: No limit | Nov. 10-Mar. 31.
Wolf: No limit | Nov. 10-Mar. 31.
Wolverine: No limit | Nov. 10-Feb. 28.

(18) Unit 18. (i) Unit 18 consists of that area draining into the Yukon and Kuskokwim Rivers westerly and downstream from a line starting at the downriver boundary of Paimiut on the north bank of the Yukon River then south across the Yukon River to the northern terminus of the Paimiut Portage, then south along the Paimiut Portage to its intersection with Arhymot Lake, then south along the northern and western bank of Arhymot Lake to the outlet at Crooked Creek (locally known as Johnson River), then along the south bank of Crooked Creek downstream to the northern terminus of Crooked Creek to the Yukon-Kuskokwim Portage (locally known as the Mud Creek Tramway), then along the west side of the tramway to Mud Creek, then along the westerly bank of Mud Creek downstream to an unnamed slough of the Kuskokwim River (locally known as First Slough or Kalskag Slough), then along the west bank of this unnamed slough downstream to its confluence with the Kuskokwim River, then southeast across the Kuskokwim River to its southerly bank, then along the south bank of the Kuskokwim River upriver to the confluence of a Kuskokwim River slough locally known as Old River, then across Old River to the downriver terminus of the island formed by Old River and the Kuskokwim River, then along the north bank of the main channel of Old River to Igyalleq Creek (Whitefish Creek), then along the south and west bank of Igyalleq Creek to Whitefish Lake, then directly across Whitefish Lake to Ophir Creek, then along the west bank of Ophir Creek to its headwaters at 61°10.22′ N lat., 159° 46.05″ W long., and the drainages flowing into the Bering Sea from Cape Newenham on the south to and including the Pastolik River drainage on the north; Nunivak, St. Matthews, and adjacent islands between Cape Newenham and the Pastolik River, and all seaward waters and lands within 3 miles of these coastlines.

(ii) In the Kalskag Controlled Use Area, which consists of that portion of Unit 18 bounded by a line from Lower Kalskag on the Kuskokwim River, northwesterly to Russian Mission on the Yukon River, then east along the north bank of the Yukon River to the old site of Paimiut, then back to Lower Kalskag, you are not allowed to use aircraft for hunting any ungulate, bear, wolf, or wolverine, including the transportation of any hunter and ungulate, bear, wolf, or wolverine part; however, this does not apply to transportation of a hunter or ungulate, bear, wolf, or wolverine part by aircraft between publicly owned airports in the Controlled Use Area or between a publicly owned airport within the Area and points outside the Area.

(iii) Unit-specific regulations:

(A) If you have a trapping license, you may use a firearm to take beaver in Unit 18 from April 1 through June 10.

(B) You may hunt brown bear by State registration permit in lieu of a resident tag if you have obtained a State registration permit prior to hunting.

(C) You may take caribou from a boat moving under power in Unit 18.

(D) You may take moose from a boat moving under power in that portion of Unit 18 west of a line running from the mouth of the Ishkowik River to the closest point of Dall Lake, then to the east bank of the Johnson River at its entrance into Nunavakanukakslak Lake (N 60°59.41′ Latitude; W 162°22.14′ Longitude), continuing upriver along a line ½ mile south and east of, and paralleling a line along the southerly bank of the Johnson River to the confluence of the east bank of Crooked Creek, then continuing upriver to the outlet at Arhymot Lake, then following the south bank west to the Unit 18 border.

(E) Taking of wildlife in Unit 18 while in possession of lead shot size T, .20 caliber or less in diameter, is prohibited.

(F) You may not pursue with a motorized vehicle an ungulate that is at or near a full gallop.

(G) You may use artificial light when taking a bear at a den site.

Table 18 to Paragraph (n)(18)
Harvest limits | Open season
Hunting
Black Bear: 3 bears | July 1-June 30.
Brown Bear: 1 bear by State registration permit only | Sep. 1-May 31.
Caribou:
Unit 18, that portion to the east and south of the Kuskokwim River—up to 2 caribou by State registration permit | Season may be announced between Aug. 1-Mar. 15.
Unit 18, remainder—up to 2 caribou by State registration permit | Season may be announced between Aug. 1-Mar. 15.
Moose: Unit 18, that portion east of a line running from the mouth of the Ishkowik River to the closest point of Dall Lake, then to the east bank of the Johnson River at its entrance into Nunavakanukakslak Lake (N 60°59.41′ Latitude; W162°22.14″ Longitude), continuing upriver along a line ½ mile south and east of, and paralleling a line along the southerly bank of the Johnson River to the confluence of the east bank of Crooked Creek, then continuing upriver to the outlet at Arhymot Lake, then following the south bank east of the Unit 18 border and then north of and including the Eek River drainage—1 antlered bull by State registration permit during the fall season | Sep. 1-Oct. 15.
Or
1 antlered bull by Federal registration permit during a may-be-announced winter season | May be announced between Dec. 1-Jan. 31.
Federal public lands are closed to the taking of moose except by residents of Tuntutuliak, Eek, Napakiak, Napaskiak, Kasigluk, Nunapitchuk, Atmautlauk, Oscarville, Bethel, Kwethluk, Akiachak, Akiak, Tuluksak, Lower Kalskag, and Kalskag.
Unit 18, south of the Eek River drainage and north of the Goodnews River drainage—1 antlered bull by State registration permit | Sep. 1-30.
Unit 18, Goodnews River drainage and south to the Unit 18 boundary—1 antlered bull by State registration permit | Sep. 1-30.
or
1 moose by State registration permit | A season may be announced between Dec. 1 and the last day of Feb.
Unit 18, remainder—3 moose, only one of which may be antlered. Antlered bulls may not be harvested from Oct. 1 through Nov. 30 | Aug. 1-Apr. 30.
Beaver: No limit | July 1-June 30.
Coyote: 2 coyotes | Sep. 1-Apr. 30.
Fox, Arctic (Blue and White Phase): 2 foxes | Sep. 1-Apr. 30.
Fox, Red (including Cross, Black and Silver Phases): 10 foxes; however, no more than 2 foxes may be taken prior to Oct. 1 | Sep. 1-Mar. 15.
Hare:
Snowshoe hare: No limit | July 1-June 30.
Alaska hare: 2 per day, 6 per season | Aug. 1-May 31.
Lynx: 5 lynx | Aug. 10-Apr. 30.
Wolf: 10 wolves | Aug. 10-Apr. 30.
Wolverine: 2 wolverine | Sep. 1-Mar. 31.
Grouse (Spruce and Ruffed): 15 per day, 30 in possession | Aug. 10-Apr. 30.
Ptarmigan (Rock and Willow): 15 per day, 30 in possession | Aug. 10-May 30.
Trapping
Beaver: No limit | July 1-June 30.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Mar. 31.
Mink and Weasel: No limit | Nov. 10-Mar. 31.
Muskrat: No limit | Nov. 10-June 10.
Otter: No limit | Nov. 10-Mar. 31.
Wolf: No limit | Nov. 10-Mar. 31.
Wolverine: No limit | Nov. 10-Mar. 31.

(19) Unit 19. (i) Unit 19 consists of the Kuskokwim River drainage upstream, excluding the drainages of Arhymot Lake, from a line starting at the outlet of Arhymot Lake at Crooked Creek (locally known as Johnson River), then along the south bank of Crooked Creek downstream to the northern terminus of Crooked Creek to the Yukon- Kuskokwim Portage (locally known as the Mud Creek Tramway), then along the west side of the tramway to Mud Creek, then along the westerly bank of Mud Creek downstream to an unnamed slough of the Kuskokwim River (locally known as First Slough or Kalskag Slough), then along the west bank of this unnamed slough downstream to its confluence with the Kuskokwim River, then southeast across the Kuskokwim River to its southerly bank, then along the south bank of the Kuskokwim River upriver to the confluence of a Kuskokwim River slough locally known as Old River, then across Old River to the downriver terminus of the island formed by Old River and the Kuskokwim River, then along the north bank of the main channel of Old River to Igyalleq Creek (Whitefish Creek), then along the south and west bank of Igyalleq Creek to Whitefish Lake, then directly across Whitefish Lake to Ophir Creek then along the west bank of Ophir Creek to its headwaters at 61°10.22′ N lat., 159°46.05″ W long.:

(A) Unit 19A consists of the Kuskokwim River drainage downstream from and including the Moose Creek drainage on the north bank and downstream from and including the Stony River drainage on the south bank, excluding Unit 19B;

(B) Unit 19B consists of the Aniak River drainage upstream from and including the Salmon River drainage, the Holitna River drainage upstream from and including the Bakbuk Creek drainage, that area south of a line from the mouth of Bakbuk Creek to the radar dome at Sparrevohn Air Force Base, including the Hoholitna River drainage upstream from that line, and the Stony River drainage upstream from and including the Can Creek drainage;

(C) Unit 19C consists of that portion of Unit 19 south and east of a line from Benchmark M#1.26 (approximately 1.26 miles south of the northwestern corner of the original Mt. McKinley National Park boundary) to the peak of Lone Mountain, then due west to Big River, including the Big River drainage upstream from that line, and including the Swift River drainage upstream from and including the North Fork drainage; and

(D) Unit 19D consists of the remainder of Unit 19.

(ii) In the following areas, the taking of wildlife for subsistence uses is prohibited or restricted on public land:

(A) You may not take wildlife for subsistence uses on lands within Mount McKinley National Park as it existed prior to December 2, 1980. Subsistence uses as authorized by this paragraph (n)(19) are permitted in Denali National Preserve and lands added to Denali National Park on December 2, 1980.

(B) In the Upper Kuskokwim Controlled Use Area, which consists of that portion of Unit 19D upstream from the mouth of the Selatna River, but excluding the Selatna and Black River drainages, to a line extending from Dyckman Mountain on the northern Unit 19D boundary southeast to the 1,610-foot crest of Munsatli Ridge, then south along Munsatli Ridge to the 2,981-foot peak of Telida Mountain, then northeast to the intersection of the western boundary of Denali National Preserve with the Minchumina-Telida winter trail, then south along the western boundary of Denali National Preserve to the southern boundary of Unit 19D, you may not use aircraft for hunting moose, including transportation of any moose hunter or moose part; however, this does not apply to transportation of a moose hunter or moose part by aircraft between publicly owned airports in the Controlled Use Area, or between a publicly owned airport within the area and points outside the area.

(iii) Unit-specific regulations:

(A) You may use bait to hunt black bear between April 15 and June 30.

(B) You may hunt brown bear by State registration permit in lieu of a resident tag in those portions of Units 19A and 19B downstream of and including the Aniak River drainage if you have obtained a State registration permit prior to hunting.

(C) In Unit 19C, individual residents of Nikolai may harvest sheep during the Aug. 10 to Sep. 20 season and not have that animal count against the community harvest limit (during the Oct. 1 to Mar. 30 season). Individual residents of Nikolai that harvest a sheep under State regulations may not participate in the Oct. 1 to Mar. 30 community harvest.

Table 19 to Paragraph (n)(19)
Harvest limits | Open season
Hunting
Black Bear: 3 bears | July 1-June 30.
Brown Bear: Units 19A and 19B, those portions which are downstream of and including the Aniak River drainage—1 bear by State registration permit | Aug. 10-June 30.
Units 19A, remainder, 19B, remainder, and Unit 19D—1 bear | Aug. 10-June 30.
Caribou: Units 19A and 19B (excluding rural Alaska residents of Lime Village)—up to 2 caribou by State registration permit | Season may be announced between Aug. 1-Mar. 15.
Unit 19C—1 caribou | Aug. 10-Oct. 10.
Unit 19D, south and east of the Kuskokwim River and North Fork of the Kuskokwim River—1 caribou | Aug. 10-Sep. 30. Nov. 1-Jan. 31.
Unit 19D, remainder—1 caribou | Aug. 10-Sep. 30.
Unit 19, residents domiciled in Lime Village only—no individual harvest limit but a village harvest quota of 200 caribou; cows and calves may not be taken from Apr. 1 through Aug. 9. Reporting will be by a community reporting system. | July 1-June 30.
Sheep: 1 ram with 7 8 curl horn or larger | Aug. 10-Sep. 20.
Unit 19C, that portion within the Denali National Park and Preserve-residents of Nikolai only—no individual harvest limit, but a community harvest quota will be set annually by the Denali National Park and Preserve Superintendent; rams or ewes without lambs only. Reporting will be by a community reporting system. | Oct. 1-Mar. 30.
Moose: Unit 19, residents of Lime Village only—no individual harvest limit, but a village harvest quota of 28 bulls (including those taken under the State permits). Reporting will be by a community reporting system. | July 1-June 30.
Unit 19A, Lime Village Management Area—2 bulls by State or Federal registration permit | Aug. 10-Sep. 25. Nov. 20-Mar 31.
Unit 19A, north of the Kuskokwim River, upstream from but excluding the George River drainage, and south of the Kuskokwim River upstream from and including the Downey Creek drainage, not including the Lime Village Management Area—1 antlered bull by State registration permit available in Sleetmute and Stoney River on July 24. Permits issued on a first come, first served basis (number of permits to be announced annually). | Sep. 1-5.
Unit 19A, remainder—1 antlered bull by Federal drawing permit or a State permit. Federal public lands are closed to the taking of moose except by residents of Tuluksak, Lower Kalskag, Upper Kalskag, Aniak, Chuathbaluk, and Crooked Creek hunting under these regulations | Sep. 1-20.
Unit 19B—1 bull with spike-fork or 50-inch antlers or antlers with 4 or more brow tines on one side | Sep. 1-20.
Unit 19C—1 antlered bull | Sep. 1-20.
Unit 19C—1 bull by State registration permit | Jan. 15-Feb. 15.
Unit 19D, that portion of the Upper Kuskokwim Controlled Use Area within the North Fork drainage upstream from the confluence of the South Fork to the mouth of the Swift Fork—1 antlered bull | Sep. 1-30.
Unit 19D, remainder of the Upper Kuskokwim Controlled Use Area—1 bull | Sep. 1-30. Dec. 1-Feb. 28.
Unit 19D, remainder—1 antlered bull | Sep. 1-30. Dec. 1-15.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: 2 lynx | Nov. 1-Feb. 28.
Wolf: Unit 19D—10 wolves per day | Aug. 10-Apr. 30.
Unit 19, remainder—5 wolves | Aug. 10-Apr. 30.
Wolverine: 1 wolverine | Sep. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No limit | Nov. 1-June 10.
Coyote: No limit | Nov. 1-Mar. 31.
Fox, Red (including Cross, Black and Silver Phases): No limit | Nov. 1-Mar. 31.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(20) Unit 20. (i) Unit 20 consists of the Yukon River drainage upstream from and including the Tozitna River drainage to and including the Hamlin Creek drainage, drainages into the south bank of the Yukon River upstream from and including the Charley River drainage, the Ladue River and Fortymile River drainages, and the Tanana River drainage north of Unit 13 and downstream from the east bank of the Robertson River:

(A) Unit 20A consists of that portion of Unit 20 bounded on the south by the Unit 13 boundary, bounded on the east by the west bank of the Delta River, bounded on the north by the north bank of the Tanana River from its confluence with the Delta River downstream to its confluence with the Nenana River, and bounded on the west by the east bank of the Nenana River.

(B) Unit 20B consists of drainages into the northern bank of the Tanana River from and including Hot Springs Slough upstream to and including the Banner Creek drainage.

(C) Unit 20C consists of that portion of Unit 20 bounded on the east by the east bank of the Nenana River and on the north by the north bank of the Tanana River downstream from the Nenana River.

(D) Unit 20D consists of that portion of Unit 20 bounded on the east by the east bank of the Robertson River and on the west by the west bank of the Delta River, and drainages into the north bank of the Tanana River from its confluence with the Robertson River downstream to, but excluding, the Banner Creek drainage.

(E) Unit 20E consists of drainages into the south bank of the Yukon River upstream from and including the Charley River drainage, and the Ladue River drainage.

(F) Unit 20F consists of the remainder of Unit 20.

(ii) In the following areas, the taking of wildlife for subsistence uses is prohibited or restricted on public land:

(A) You may not take wildlife for subsistence uses on lands within Mount McKinley National Park as it existed prior to December 2, 1980. Subsistence uses as authorized by this paragraph (n)(20) are permitted in Denali National Preserve and lands added to Denali National Park on December 2, 1980.

(B) You may not use motorized vehicles or pack animals for hunting Aug. 5-25 in the Delta Controlled Use Area, the boundary of which is defined as: a line beginning at the confluence of Miller Creek and the Delta River, then west to vertical angle benchmark Miller, then west to include all drainages of Augustana Creek and Black Rapids Glacier, then north and east to include all drainages of McGinnis Creek to its confluence with the Delta River, then east in a straight line across the Delta River to Mile 236.7 of the Richardson Highway, then north along the Richardson Highway to its junction with the Alaska Highway, then east along the Alaska Highway to the west bank of the Johnson River, then south along the west bank of the Johnson River and Johnson Glacier to the head of the Canwell Glacier, then west along the north bank of the Canwell Glacier and Miller Creek to the Delta River.

(C) You may not use firearms, snowmobiles, licensed highway vehicles or motorized vehicles, except aircraft and boats, in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife.

(D) You may not use any motorized vehicle for hunting August 5-September 20 in the Glacier Mountain Controlled Use Area, which consists of that portion of Unit 20E bounded by a line beginning at Mile 140 of the Taylor Highway, then north along the highway to Eagle, then west along the cat trail from Eagle to Crooked Creek, then from Crooked Creek southwest along the west bank of Mogul Creek to its headwaters on North Peak, then west across North Peak to the headwaters of Independence Creek, then southwest along the west bank of Independence Creek to its confluence with the North Fork of the Fortymile River, then easterly along the south bank of the North Fork of the Fortymile River to its confluence with Champion Creek, then across the North Fork of the Fortymile River to the south bank of Champion Creek and easterly along the south bank of Champion Creek to its confluence with Little Champion Creek, then northeast along the east bank of Little Champion Creek to its headwaters, then northeasterly in a direct line to Mile 140 on the Taylor Highway; however, this does not prohibit motorized access via, or transportation of harvested wildlife on, the Taylor Highway or any airport.

(E) You may by permit hunt moose on the Minto Flats Management Area, which consists of that portion of Unit 20 bounded by the Elliot Highway beginning at Mile 118, then northeasterly to Mile 96, then east to the Tolovana Hotsprings Dome, then east to the Winter Cat Trail, then along the Cat Trail south to the Old Telegraph Trail at Dunbar, then westerly along the trail to a point where it joins the Tanana River 3 miles above Old Minto, then along the north bank of the Tanana River (including all channels and sloughs except Swan Neck Slough), to the confluence of the Tanana and Tolovana Rivers and then northerly to the point of beginning.

(F) You may hunt moose only by bow and arrow in the Fairbanks Management Area. The Area consists of that portion of Unit 20B bounded by a line from the confluence of Rosie Creek and the Tanana River, northerly along Rosie Creek to Isberg Road, then northeasterly on Isberg Road to Cripple Creek Road, then northeasterly on Cripple Creek Road to the Parks Highway, then north on the Parks Highway to Alder Creek, then westerly to the middle fork of Rosie Creek through section 26 to the Parks Highway, then east along the Parks Highway to Alder Creek, then upstream along Alder Creek to its confluence with Emma Creek, then upstream along Emma Creek to its headwaters, then northerly along the hydrographic divide between Goldstream Creek drainages and Cripple Creek drainages to the summit of Ester Dome, then down Sheep Creek to its confluence with Goldstream Creek, then easterly along Goldstream Creek to Sheep Creek Road, then north on Sheep Creek Road to Murphy Dome Road, then west on Murphy Dome Road to Old Murphy Dome Road, then east on Old Murphy Dome Road to the Elliot Highway, then south on the Elliot Highway to Goldstream Creek, then easterly along Goldstream Creek to its confluence with First Chance Creek, Davidson Ditch, then southeasterly along the Davidson Ditch to its confluence with the tributary to Goldstream Creek in Section 29, then downstream along the tributary to its confluence with Goldstream Creek, then in a straight line to First Chance Creek, then up First Chance Creek to Tungsten Hill, then southerly along Steele Creek to its confluence with Ruby Creek, then upstream along Ruby Creek to Esro Road, then south on Esro Road to Chena Hot Springs Road, then east on Chena Hot Springs Road to Nordale Road, then south on Nordale Road to the Chena River, to its intersection with the Trans-Alaska Pipeline right of way, then southeasterly along the easterly edge of the Trans-Alaska Pipeline right of way to the Chena River, then along the north bank of the Chena River to the Moose Creek dike, then southerly along the Moose Creek dike to its intersection with the Tanana River, and then westerly along the north bank of the Tanana River to the point of beginning.

(iii) Unit-specific regulations:

(A) You may use bait to hunt black bear April 15-June 30; you may use bait to hunt wolves on FWS and BLM lands.

(B) You may not use a steel trap or a snare using cable smaller than 3/32-inch diameter to trap coyotes or wolves in Unit 20E during April and October.

(C) Residents of Units 20 and 21 may take up to three moose per regulatory year for the celebration known as the Nuchalawoyya Potlatch, under the terms of a Federal registration permit. Permits will be issued to individuals at the request of the Native Village of Tanana only. This three-moose limit is not cumulative with that permitted by the State.

Table 20 to Paragraph (n)(20)
Harvest limits | Open season
Hunting
Black Bear: 3 bears | July 1-June 30.
Brown Bear: Unit 20A—1 bear | Sep. 1-May 31.
Unit 20E—1 bear | Aug. 10-June 30.
Unit 20, remainder—1 bear | Sep. 1-May 31.
Caribou: Unit 20E—up to 3 caribou, to be announced, by a joint State/Federal registration permit | Fall season between Aug. 1 and Sep. 30, to be announced. Winter season between Oct. 21 and Mar. 31, to be announced.
Unit 20F, north of the Yukon River—1 caribou | Aug. 10-Mar. 31.
Unit 20F, east of the Dalton Highway and south of the Yukon River—up to 3 caribou, to be announced, by a joint State/Federal registration permit | Fall season between Aug. 1 and Sep. 30, to be announced. Winter season between Oct. 21 and Mar. 31, to be announced.
Moose: Unit 20A—1 antlered bull | Sep. 1-20.
Unit 20B—1 antlered bull | Sep. 1-20.
Unit 20C, that portion within Denali National Park and Preserve west of the Toklat River, excluding lands within Mount McKinley National Park as it existed prior to December 2, 1980—1 antlered bull; however, white-phased or partial albino (more than 50 percent white) moose may not be taken | Sep. 1-30. Nov. 15-Dec. 15.
Unit 20C, remainder—1 antlered bull; however, white-phased or partial albino (more than 50 percent white) moose may not be taken | Sep. 1-30.
Unit 20E, that portion within Yukon-Charley Rivers National Preserve—1 bull | Aug. 20-Sep. 30.
Unit 20E, that portion drained by the Middle Fork of the Fortymile River upstream from and including the Joseph Creek drainage—1 bull | Aug. 20-Sep. 30.
Unit 20E, remainder—1 bull by joint Federal/State registration permit | Aug. 20-Sep. 30.
Unit 20F, that portion within the Dalton Highway Corridor Management Area—1 antlered bull by Federal registration permit only | Sep. 1-25.
Unit 20F, remainder—1 antlered bull | Sep. 1-30. Dec. 1-10.
Sheep: Unit 20E—1 ram with full-curl horn or larger | Aug. 10-Sep. 20.
Unit 20, remainder | No open season.
Beaver: Unit 20E—Yukon-Charley Rivers National Preserve—6 beaver per season. Meat from harvested beaver must be salvaged for human consumption | Sep. 20-May 15.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: Units 20A, 20B, and that portion of 20C east of the Teklanika River—2 lynx | Dec. 1-Jan. 31.
Unit 20E—2 lynx | Nov. 1-Jan. 31.
Unit 20, remainder—2 lynx | Dec. 1-Jan. 31.
Muskrat: Unit 20E, that portion within Yukon-Charley Rivers National Preserve—No limit | Sep. 20-June 10.
Unit 20C, that portion within Denali National Park and Preserve—25 muskrat | Nov. 1-June 10.
Unit 20, remainder | No open season.
Wolf: Unit 20—10 wolves | Aug. 10-Apr. 30.
Unit 20C, that portion within Denali National Park and Preserve—1 wolf during the Aug. 10-Oct. 31 period; 5 wolves during the Nov. 1-Apr. 30 period, for a total of 6 wolves for the season | Aug. 10-Oct. 31. Nov. 1-Apr. 30.
Unit 20C, remainder—10 wolves | Aug. 10-Apr. 30.
Wolverine: 1 wolverine | Sep. 1-Mar. 31.
Grouse (Spruce, Ruffed, and Sharp-tailed): Units 20A, 20B, 20C, 20E, and 20F—15 per day, 30 in possession | Aug. 10-Mar. 31.
Ptarmigan (Rock and Willow): Unit 20, those portions within 5 miles of Alaska Route 5 (Taylor Highway, both to Eagle and the Alaska-Canada boundary) and that portion of Alaska Route 4 (Richardson Highway) south of Delta Junction—20 per day, 40 in possession | Aug. 10-Mar. 31.
Unit 20, remainder—20 per day, 40 in possession | Aug. 10-Apr. 30.
Trapping
Beaver: Units 20A, 20B, 20C, and 20F—No limit | Nov. 1-Apr. 15.
Unit 20E—No limit. Hide or meat must be salvaged. Traps, snares, bow and arrow, or firearms may be used | Sep. 15-June 10.
Coyote: Unit 20E—No limit | Oct. 15-Apr. 30.
Unit 20, remainder—No limit | Nov. 1-Mar. 31.
Fox, Red (including Cross, Black and Silver Phases): No limit | Nov. 1-Feb. 28.
Lynx: Unit 20A, 20B, and 20C east of the Teklanika River—No limit | Dec. 15-Feb. 15.
Unit 20E—No limit | Nov. 1-Mar. 15.
Unit 20F and 20C, remainder—No limit | Nov. 1-Feb. 28.
Marten: No limit | Nov. 1-Feb. 28.
Mink and Weasel: No limit | Nov. 1-Feb. 28.
Muskrat: Unit 20E—No limit | Sep. 20-June 10.
Unit 20, remainder—No limit | Nov. 1-June 10.
Otter: No limit | Nov. 1-Apr. 15.
Wolf: Units 20A, 20B, 20C, and 20F—No limit | Nov. 1-Apr. 30.
Unit 20E—No limit | Oct. 1-Apr. 30.
Wolverine: No limit | Nov. 1-Feb. 28.

(21) Unit 21. (i) Unit 21 consists of drainages into the Yukon River and Arhymot Lake upstream from a line starting at the downriver boundary of Paimiut on the north bank of the Yukon River then south across the Yukon River to the northern terminus of the Paimiut Portage, then south along the Portage to its intersection with Arhymot Lake, then south along the northern and western bank of Arhymot Lake to the outlet at Crooked Creek (locally known as Johnson River) drainage then to, but not including, the Tozitna River drainage on the north bank, and to but not including the Tanana River drainage on the south bank, and excluding the Koyukuk River drainage upstream from the Dulbi River drainage:

(A) Unit 21A consists of the Innoko River drainage upstream from and including the Iditarod River drainage.

(B) Unit 21B consists of the Yukon River drainage upstream from Ruby and east of the Ruby-Poorman Road, downstream from and excluding the Tozitna River and Tanana River drainages, and excluding the Melozitna River drainage upstream from Grayling Creek.

(C) Unit 21C consists of the Melozitna River drainage upstream from Grayling Creek, and the Dulbi River drainage upstream from and including the Cottonwood Creek drainage.

(D) Unit 21D consists of the Yukon River drainage from and including the Blackburn Creek drainage upstream to Ruby, including the area west of the Ruby-Poorman Road, excluding the Koyukuk River drainage upstream from the Dulbi River drainage, and excluding the Dulbi River drainage upstream from Cottonwood Creek.

(E) Unit 21E consists of that portion of Unit 21 in the Yukon River and Arhymot Lake drainages upstream from a line starting at the downriver boundary of Paimiut on the north bank of the Yukon River, then south across the Yukon River to the northern terminus of the Paimiut Portage, then south along the Portage to its intersection with Arhymot Lake, then along the northern and western bank of Arhymot Lake to the outlet at Crooked Creek (locally known as Johnson River) drainage, then to, but not including, the Blackburn Creek drainage, and the Innoko River drainage downstream from the Iditarod River drainage.

(ii) In the following areas, the taking of wildlife for subsistence uses is prohibited or restricted on public land:

(A) The Koyukuk Controlled Use Area, which consists of those portions of Units 21 and 24 bounded by a line from the north bank of the Yukon River at Koyukuk at 64°52.58′ N lat., 157°43.10″ W long., then northerly to the confluences of the Honhosa and Kateel Rivers at 65°28.42′ N lat., 157°44.89″ W long., then northeasterly to the confluences of Billy Hawk Creek and the Huslia River (65°57′ N lat., 156°41″ W long.) at 65°56.66′ N lat., 156°40.81″ W long., then easterly to the confluence of the forks of the Dakli River at 66°02.56′ N lat., 156° 12.71″ W long., then easterly to the confluence of McLanes Creek and the Hogatza River at 66°00.31′ N lat., 155°18.57″ W long., then southwesterly to the crest of Hochandochtla Mountain at 65°31.87′ N lat., 154°52.18″ W long., then southwest to the mouth of Cottonwood Creek at 65°3.00′ N lat., 156°06.43″ W long., then southwest to Bishop Rock (Yistletaw) at 64°49.35′ N lat., 157°21.73″ W long., then westerly along the north bank of the Yukon River (including Koyukuk Island) to the point of beginning, is closed during moose hunting seasons to the use of aircraft for hunting moose, including transportation of any moose hunter or moose part; however, this does not apply to transportation of a moose hunter or moose part by aircraft between publicly owned airports in the controlled use area or between a publicly owned airport within the area and points outside the area; all hunters on the Koyukuk River passing the ADF&G-operated check station at Ella's Cabin (15 miles upstream from the Yukon on the Koyukuk River) are required to stop and report to ADF&G personnel at the check station.

(B) The Paradise Controlled Use Area, which consists of that portion of Unit 21 bounded by a line beginning at the old village of Paimiut, then north along the west bank of the Yukon River to Paradise, then northwest to the mouth of Stanstrom Creek on the Bonasila River, then northeast to the mouth of the Anvik River, then along the west bank of the Yukon River to the lower end of Eagle Island (approximately 45 miles north of Grayling), then to the mouth of the Iditarod River, then extending 2 miles easterly down the east bank of the Innoko River to its confluence with Paimiut Slough, then south along the east bank of Paimiut Slough to its mouth, and then to the old village of Paimiut, is closed during moose hunting seasons to the use of aircraft for hunting moose, including transportation of any moose hunter or part of moose; however, this does not apply to transportation of a moose hunter or part of moose by aircraft between publicly owned airports in the Controlled Use Area or between a publicly owned airport within the area and points outside the area.

(iii) In Unit 21D, you may hunt brown bear by State registration permit in lieu of a resident tag if you have obtained a State registration permit prior to hunting. Aircraft may not be used in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iv) Unit-specific regulations:

(A) You may use bait to hunt black bear between April 15 and June 30; and in the Koyukuk Controlled Use Area, you may also use bait to hunt black bear between September 1 and September 25.

(B) If you have a trapping license, you may use a firearm to take beaver in Unit 21(E) from Nov. 1 through June 10.

(C) The residents of Units 20 and 21 may take up to three moose per regulatory year for the celebration known as the Nuchalawoyya Potlatch, under the terms of a Federal registration permit. Permits will be issued to individuals only at the request of the Native Village of Tanana. This three-moose limit is not cumulative with that permitted by the State.

(D) The residents of Unit 21 may take up to three moose per regulatory year for the celebration known as the Kaltag/Nulato Stickdance, under the terms of a Federal registration permit. Permits will be issued to individuals only at the request of the Native Village of Kaltag or Nulato. This three-moose limit is not cumulative with that permitted by the State.

Table 21 to Paragraph (n)(21)
Harvest limits | Open season
Hunting
Black Bear: 3 bears | July 1-June 30.
Brown Bear: |
Unit 21D—1 bear by State registration permit only | Aug. 10-June 30.
Unit 21, remainder—1 bear | Aug. 10-June 30.
Caribou: |
Unit 21A—1 caribou | Aug. 10-Sep. 30. Dec. 10-20.
Unit 21B, that portion north of the Yukon River and downstream from Ukawutni Creek | No open season.
Unit 21C, the Dulbi and Melozitna River drainages downstream from Big Creek | No open season.
Unit 21B, remainder, Unit 21C, remainder, and Unit 21E—1 caribou | Aug. 10-Sep. 30.
Unit 21D, north of the Yukon River and east of the Koyukuk River—caribou may be taken during a winter season to be announced | Winter season to be announced.
Unit 21D, remainder—5 caribou per day, as follows: Calves may not be taken |
Bulls may be harvested | July 1-Oct. 14. Feb. 1-June 30.
Cows may be harvested | Sep. 1-Mar. 31.
Moose: |
Unit 21B, that portion within the Nowitna National Wildlife Refuge downstream from and including the Little Mud River drainage—1 bull. A State registration permit is required Sep. 5-25. A Federal registration permit is required Sep. 26-Oct. 1 | Sep. 5-Oct. 1.
Unit 21B, that portion within the Nowitna National Wildlife Refuge downstream from and including the Little Mud River drainage—1 antlered bull. A Federal registration permit is required during the 5-day season and will be limited to one per household | Five-day season to be announced between Dec. 1 and Mar. 31.
Units 21A and 21B, remainder—1 bull | Aug. 20-Sep. 25. Nov. 1-30.
Unit 21C—1 antlered bull | Sep. 5-25.
Unit 21D, Koyukuk Controlled Use Area—1 bull by State registration permit; 1 antlerless moose by Federal permit if authorized by announcement by the Koyukuk/Nowitna/Innoko NWR manager. Harvest of cow moose accompanied by calves is prohibited. A harvestable surplus of cows will be determined for a quota | Sep. 1-25. Mar. 1-5 season to be announced.
or
1 antlered bull by Federal permit, if there is no Mar. 1-5 season and if authorized by announcement by the Koyukuk/Nowitna/Innoko NWR manager and BLM Central Yukon field office manager | Apr. 10-15 season to be announced.
Unit 21D, that portion south of the south bank of the Yukon River, downstream of the up-river entrance of Kala Slough and west of Kala Creek—1 moose by State registration permit | Aug. 22-31. Sep. 5-25.
Antlerless moose may be taken only during Sep. 21-25 season if authorized jointly by the Koyukuk/Nowitna/Innoko NWR Manager and the BLM Central Yukon Field Office Manager. Antlerless moose may be harvested during any of the winter seasons. Harvest of cow moose accompanied by calves is prohibited | Mar. 1-31 season may be announced.
Unit 21D, remainder—1 moose by State registration permit. Antlerless moose may be taken only during Sep. 21-25 and the Mar. 1-5 season if authorized jointly by the Koyukuk/Nowitna/Innoko NWR Manager and the BLM Central Yukon Field Office Manager. Harvest of cow moose accompanied by calves is prohibited. During the Aug. 22-31 and Sep. 5-25 seasons, a State registration permit is required. During the Mar. 1-5 season, a Federal registration permit is required | Aug. 22-31. Sep. 5-25. Mar. 1-5 season to be announced.
Unit 21E—1 moose; however, only bulls may be taken Aug. 25-Sep. 30 | Aug. 25-Sep. 30.
During the Feb. 15-Mar. 15 season, a Federal registration permit is required. The permit conditions and any needed closures for the winter season will be announced by the Innoko NWR manager after consultation with the ADF&G area biologist and the Chairs of the Western Interior Regional Advisory Council and the Middle Yukon Fish and Game Advisory Committee as stipulated in a letter of delegation. Moose may not be taken within one-half mile of the Innoko or Yukon Rivers during the winter season | Feb. 15-Mar. 15.
Beaver: |
Unit 21E—No limit | Nov. 1-June 10.
Unit 21, remainder | No open season.
Coyote: 10 coyotes | Aug. 10-Apr. 30.
Fox, Red (including Cross, Black and Silver Phases): 10 foxes; however, no more than 2 foxes may be taken prior to Oct. 1 | Sep. 1-Mar. 15.
Hare (Snowshoe and Tundra): No limit | July 1-June 30.
Lynx: 2 lynx | Nov. 1-Feb. 28.
Wolf: 5 wolves | Aug. 10-Apr. 30.
Wolverine: 1 wolverine | Sep. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No Limit | Nov. 1-June 10.
Coyote: No limit | Nov. 1-Mar. 31.
Fox, Red (including Cross, Black and Silver Phases): No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(22) Unit 22. (i) Unit 22 consists of Bering Sea, Norton Sound, Bering Strait, Chukchi Sea, and Kotzebue Sound drainages from, but excluding, the Pastolik River drainage in southern Norton Sound to, but not including, the Goodhope River drainage in Southern Kotzebue Sound, and all adjacent islands in the Bering Sea between the mouths of the Goodhope and Pastolik Rivers:

(A) Unit 22A consists of Norton Sound drainages from, but excluding, the Pastolik River drainage to, and including, the Ungalik River drainage, and Stuart and Besboro Islands.

(B) Unit 22B consists of Norton Sound drainages from, but excluding, the Ungalik River drainage to, and including, the Topkok Creek drainage.

(C) Unit 22C consists of Norton Sound and Bering Sea drainages from, but excluding, the Topkok Creek drainage to, and including, the Tisuk River drainage, and King and Sledge Islands.

(D) Unit 22D consists of that portion of Unit 22 draining into the Bering Sea north of, but not including, the Tisuk River to and including Cape York and St. Lawrence Island.

(E) Unit 22E consists of Bering Sea, Bering Strait, Chukchi Sea, and Kotzebue Sound drainages from Cape York to, but excluding, the Goodhope River drainage, and including Little Diomede Island and Fairway Rock.

(ii) You may hunt brown bear by State registration permit in lieu of a resident tag if you have obtained a State registration permit prior to hunting. Aircraft may not be used in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iii) Unit-specific regulations:

(A) If you have a trapping license, you may use a firearm to take beaver in Unit 22 during the established seasons.

(B) Coyote, incidentally taken with a trap or snare, may be used for subsistence purposes.

(C) A snowmachine may be used to position a hunter to select individual caribou for harvest provided that the animals are not shot from a moving snowmachine.

(D) The taking of one bull moose and up to three musk oxen by the community of Wales is allowed for the celebration of the Kingikmuit Dance Festival under the terms of a Federal registration permit. Permits will be issued to individuals only at the request of the Native Village of Wales. The harvest may occur only within regularly established seasons in Unit 22E. The harvest will count against any established quota for the area.

(E) A federally qualified subsistence user (recipient) may designate another federally qualified subsistence user to take musk oxen on his or her behalf. The designated hunter must get a designated hunter permit and must return a completed harvest report. The designated hunter may hunt for any number of recipients in the course of a season, but have no more than two harvest limits in his/her possession at any one time, except in Unit 22E where a resident of Wales or Shishmaref acting as a designated hunter may hunt for any number of recipients, but have no more than four harvest limits in his/her possession at any one time.

Table 22 to Paragraph (n)(22)
Harvest limits | Open season
Hunting
Black Bear:
Units 22A and 22B—3 bears | July 1-June 30.
Unit 22, remainder | No open season.
Brown Bear:
Units 22A, 22D remainder, and 22E—1 bear by State registration permit only | Aug. 1-May 31.
Unit 22B—2 bears by State registration permit | Aug. 1-May 31.
Unit 22C—1 bear by State registration permit only | Aug. 1-Oct. 31. Apr. 1-May 31.
Unit 22D, that portion west of the Tisuk River drainage, west of the west bank of the unnamed creek originating at the Unit boundary opposite the headwaters of McAdam's Creek and west of the west bank of Canyon Creek to its confluence with Tuksuk Channel—2 bears by Federal registration permit | July 1-June 30.
Caribou:
Unit 22B, that portion west of Golovnin Bay and west of a line along the west bank of the Fish and Niukluk Rivers to the mouth of the Libby River, and excluding all portions of the Niukluk River drainage upstream from and including the Libby River drainage—5 caribou per day by State registration permit. Calves may not be taken | Oct. 1-Apr. 30. May 1-Sep. 30, a season may be announced.
Units 22A, that portion north of the Golsovia River drainage, 22B remainder, that portion of Unit 22D in the Kuzitrin River drainage (excluding the Pilgrim River drainage), and the Agiapuk River drainages, including the tributaries, and Unit 22E, that portion east of and including the Tin Creek drainage—5 caribou per day by State registration permit. Calves may not be taken | July 1-June 30.
Unit 22A, remainder—5 caribou per day by State registration permit. Calves may not be taken | July 1-June 30, season may be announced.
Unit 22D, that portion in the Pilgrim River drainage—5 caribou per day by State registration permit. Calves may not be taken | Oct. 1-Apr. 30. May 1-Sep. 30, season may be announced.
Units 22C, 22D remainder, 22E remainder—5 caribou per day by State registration permit. Calves may not be taken | July 1-June 30, season may be announced.
Moose:
Unit 22A, that portion north of the Egavik Creek drainage—1 bull. Federal public lands are closed to hunting Sep. 21-Aug. 31 except by federally qualified users hunting under these regulations | Aug. 1-Sep. 30.
Unit 22A, that portion in the Unalakleet drainage and all drainages flowing into Norton Sound north of the Golsovia River drainage and south of and including the Egavik Creek drainage—1 bull by Federal registration permit. Federal public lands are closed to the taking of moose except by federally qualified users hunting under these regulations. The BLM Anchorage Field Office is delegated authority to close the season in consultation with ADF&G | Aug. 15-Sep. 14.
Unit 22A, remainder—1 bull. However, during the period Jan.1-Feb. 15, only an antlered bull may be taken. Federal public lands are closed to the taking of moose, Oct. 1-Aug. 31, except by federally qualified subsistence users | Aug. 1-Sep. 30. Jan. 1-Feb. 15.
Unit 22B, west of the Darby Mountains—1 bull by State registration permit. Quotas and any needed closures will be announced by the Anchorage Field Office Manager of the BLM, in consultation with NPS and ADF&G. Federal public lands are closed to the taking of moose except by federally qualified subsistence users hunting under these regulations | Sep. 1-14.
Unit 22B, west of the Darby Mountains—1 bull by either Federal or State registration permit. Quotas and any needed season closures will be announced by the Anchorage Field Office Manager of the BLM, in consultation with NPS and ADF&G. Federal public lands are closed to the taking of moose except by residents of White Mountain and Golovin hunting under these regulations | Jan. 1-31.
Unit 22B, remainder—1 bull | Aug. 1-Jan. 31.
Unit 22C—1 antlered bull | Sep. 1-14.
Unit 22D, that portion within the Kougarok, Kuzitrin, and Pilgrim River drainages—1 bull by State registration permit. Quotas and any needed closures will be announced by the Anchorage Field Office Manager of the BLM, in consultation with NPS and ADF&G. Federal public lands are closed to the taking of moose except by residents of Units 22D and 22C hunting under these regulations | Sep. 1-14.
Unit 22D, that portion west of the Tisuk River drainage and Canyon Creek—1 bull by State registration permit. Quotas and any needed closures will be announced by the Anchorage Field Office Manager of the BLM, in consultation with NPS and ADF&G. | Sep. 1-14.
Unit 22D, that portion west of the Tisuk River drainage and Canyon Creek—1 bull by Federal registration permit. Quotas and any needed closures will be announced by the Anchorage Field Office Manager of the BLM, in consultation with NPS and ADF&G. Federal public lands are closed to the taking of moose except by residents of Units 22D and 22C hunting under these regulations | Dec. 1-31.
Unit 22D, remainder—1 bull by State registration permit. Federal public lands are closed to the harvest of moose except by federally qualified subsistence users | Aug. 10-Sep. 14.
Unit 22D, remainder—1 antlered bull by State registration permit. Federal public lands are closed to the harvest of moose except by federally qualified subsistence users | Season may be announced, Dec. 1-Jan. 31.
Unit 22E—1 antlered bull. Federal public lands are closed to the taking of moose except by federally qualified subsistence users hunting under these regulations | Aug. 1-Mar. 15.
Musk ox:
Unit 22B—1 bull by Federal permit or State permit. Federal public lands are closed to the taking of musk ox except by federally qualified subsistence users hunting under these regulations | Aug. 1-Mar. 15.
Unit 22D, that portion west of the Tisuk River drainage and Canyon Creek—1 bull by Federal permit or State permit. Federal public lands are closed to the harvest of musk ox except by residents of Nome and Teller hunting under these regulations | Sep. 1-Mar. 15.
Unit 22D, that portion within the Kuzitrin River drainages—1 bull by Federal permit or State permit. Federal public lands are closed to the taking of musk ox except for residents of Council, Golovin, White Mountain, Nome, Teller, and Brevig Mission hunting under these regulations | Aug. 1-Mar. 15.
Unit 22D, remainder—1 bull by Federal permit or State permit. Federal public lands are closed to the taking of musk ox except by residents of Elim, White Mountain, Nome, Teller, and Brevig Mission hunting under these regulations | Aug. 1-Mar. 15.
Unit 22E—1 bull by Federal permit or State permit. Federal public lands are closed to the harvest of musk ox except by federally qualified subsistence users hunting under these regulations | Aug. 1-Mar. 15.
Unit 22, remainder | No open season.
Beaver:
Units 22A, 22B, 22D, and 22E—50 beaver | Nov. 1-June 10.
Unit 22, remainder | No open season.
Coyote | No open season.
Fox, Arctic (Blue and White Phase): 2 foxes | Sep. 1-Apr. 30.
Fox, Red (including Cross, Black and Silver Phases): 10 foxes | Nov. 1-Apr. 15.
Hare:
Snowshoe hare: No limit | Sep. 1-Apr. 15.
Alaska hare: 2 per day, 6 per season | Aug. 1-May 31.
Lynx: 2 lynx | Nov. 1-Apr. 15.
Marten:
Units 22A and 22B—No limit | Nov. 1-Apr. 15.
Unit 22, remainder | No open season.
Mink and Weasel: No limit | Nov. 1-Jan. 31.
Otter: No limit | Nov. 1-Apr. 15.
Wolf: No limit | Nov. 1-Apr. 15.
Wolverine: 3 wolverines | Sep. 1-Mar. 31.
Grouse (Spruce): 15 per day, 30 in possession | Aug. 10-Apr. 30.
Ptarmigan (Rock and Willow):
Units 22A and 22B east of and including the Niukluk River drainage—40 per day, 80 in possession | Aug. 10-Apr. 30.
Unit 22E—20 per day, 40 in possession | July 15-May 15.
Unit 22, remainder—20 per day, 40 in possession | Aug. 10-Apr. 30.
Trapping
Beaver:
Units 22A, 22B, 22D, and 22E—50 beaver | Nov. 1-June 10.
Unit 22C | No open season.
Coyote | No open season.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

(23) Unit 23. (i) Unit 23 consists of Kotzebue Sound, Chukchi Sea, and Arctic Ocean drainages from and including the Goodhope River drainage to Cape Lisburne.

(ii) In the following areas, the taking of wildlife for subsistence uses is prohibited or restricted on public land:

(A) You may not use aircraft in any manner either for hunting of ungulates, bear, wolves, or wolverine, or for transportation of hunters or harvested species in the Noatak Controlled Use Area for the period August 15-September 30. The Area consists of that portion of Unit 23 in a corridor extending 5 miles on either side of the Noatak River beginning at the mouth of the Noatak River, and extending upstream to the mouth of Sapun Creek. This closure does not apply to the transportation of hunters or parts of ungulates, bear, wolves, or wolverine by regularly scheduled flights to communities by carriers that normally provide scheduled air service.

(B) [Reserved]

(iii) You may not use aircraft in any manner for brown bear hunting, including transportation of hunters, bears, or parts of bears; however, this does not apply to transportation of bear hunters or bear parts by regularly scheduled flights to and between communities by carriers that normally provide scheduled service to this area, nor does it apply to transportation of aircraft to or between publicly owned airports.

(iv) Unit-specific regulations:

(A) You may take caribou while hunting from a boat moving under power in Unit 23.

(B) In addition to other restrictions on method of take found in this section, you may also take swimming caribou with a firearm using rimfire cartridges.

(C) If you have a trapping license, you may take beaver with a firearm in all of Unit 23 from Nov. 1 through June 10.

(D) For the Baird and DeLong Mountain sheep hunts—a federally qualified subsistence user (recipient) may designate another federally qualified subsistence user to take sheep on his or her behalf. The designated hunter must obtain a designated hunter permit and must return a completed harvest report. The designated hunter may hunt for only one recipient in the course of a season and may have both his and the recipients' harvest limits in his/her possession at the same time.

(E) A snowmachine may be used to position a hunter to select individual caribou for harvest provided that the animals are not shot from a moving snowmachine. On BLM-managed lands only, a snowmachine may be used to position a caribou, wolf, or wolverine for harvest provided that the animals are not shot from a moving snowmachine.

(F) A federally qualified subsistence user (recipient) may designate another federally qualified subsistence user to take musk oxen on his or her behalf. The designated hunter must get a designated hunter permit and must return a completed harvest report. The designated hunter may hunt for any number of recipients but have no more than two harvest limits in his/her possession at any one time.

Table 23 to Paragraph (n)(23)
Harvest limits | Open season
Hunting
Black Bear: 3 bears | July 1-June 30.
Brown Bear: Unit 23—2 bears by State subsistence registration permit | July 1-June 30.
Caribou:
Unit 23, that portion which includes all drainages north and west of, and including, the Singoalik River drainage—5 caribou per day by State registration permit as follows:
Bulls may be harvested | July 1-June 30.
Cows may be harvested. However, cows accompanied by calves may not be taken July 15-Oct. 14 | July 15-Apr. 30.
Unit 23, remainder—5 caribou per day by State registration permit, as follows:
Bulls may be harvested | July 1-June 30.
Cows may be harvested. However, cows accompanied by calves may not be taken July 31-Oct. 14 | July 31-Mar. 31.
Federal public lands within a 10-mile-wide corridor (5 miles either side) along the Noatak River from the western boundary of Noatak National Preserve upstream to the confluence with the Cutler River; within the northern and southern boundaries of the Eli and Agashashok River drainages, respectively; and within the Squirrel River drainage are closed to caribou hunting except by federally qualified subsistence users hunting under these regulations.
Sheep:
Unit 23, south of Rabbit Creek, Kiyak Creek, and the Noatak River, and west of the Cutler and Redstone Rivers (Baird Mountains)—1 sheep by Federal registration permit. Federal public lands are closed to the taking of sheep except by federally qualified subsistence users hunting under these regulations | May be announced.
Unit 23, north of Rabbit Creek, Kiyak Creek, and the Noatak River, and west of the Aniuk River (DeLong Mountains)—1 sheep by Federal registration permit | May be announced.
Unit 23, remainder (Schwatka Mountains) except for that portion within Gates of the Arctic National Park and Preserve—1 sheep by Federal registration permit | May be announced.
Unit 23, remainder (Schwatka Mountains), that portion within Gates of the Arctic National Park and Preserve—1 ram with ⅞ curl or larger horn | Aug. 10-Sep. 20.
Unit 23, remainder (Schwatka Mountains), that portion within Gates of the Arctic National Park and Preserve—1 sheep | Oct. 1-Apr. 30.
Moose:
Unit 23, that portion north and west of and including the Singoalik River drainage, and all lands draining into the Kukpuk and Ipewik Rivers—1 antlered bull | July 1-Dec. 31.
No person may take a calf
Unit 23, remainder—1 antlered bull | Aug. 1-Dec. 31.
No person may take a calf
Musk ox:
Unit 23, south of Kotzebue Sound and west of and including the Buckland River drainage—1 bull by Federal permit or State permit | Aug. 1-Mar. 15.
Federal public lands are closed to the taking of musk oxen except by federally qualified subsistence users hunting under these regulations
Unit 23, Cape Krusenstern National Monument—1 bull by Federal permit | Aug. 1-Mar. 15.
Unit 23, that portion north and west of the Kobuk River drainage—1 bull by State or Federal registration permit | Aug. 1-Mar. 15
Unit 23, remainder | No open season.
Beaver: No limit | July 1-June 30.
Coyote: 2 coyotes | Sep. 1-Apr. 30.
Fox, Arctic (Blue and White Phase): No limit | Sep. 1-Apr. 30.
Fox, Red (including Cross, Black and Silver Phases): No limit | Sep. 1-Mar. 15.
Hare:
Snowshoe hare: No limit | July 1-June 30.
Alaska hare: 2 per day, 6 per season | Aug. 1-May 31.
Lynx: 2 lynx | Nov. 1-Apr. 15.
Wolf: 15 wolves | Oct. 1-Apr. 30.
Wolverine: 1 wolverine | Sep. 1-Mar. 31.
Muskrat: No limit | July 1-June 30.
Grouse (Spruce and Ruffed): 15 per day, 30 in possession | Aug. 10-Apr. 30.
Ptarmigan (Rock, Willow, and White-tailed): 20 per day, 40 in possession | Aug. 10-Apr. 30.
Trapping
Beaver: No limit | July 1-June 30.
Coyote: No limit | Nov. 1-Apr. 15.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

(24) Unit 24. (i) Unit 24 consists of the Koyukuk River drainage upstream from but not including the Dulbi River drainage:

(A) Unit 24A consists of the Middle Fork of the Koyukuk River drainage upstream from but not including the Harriet Creek and North Fork Koyukuk River drainages, to the South Fork of the Koyukuk River drainage upstream from Squaw Creek, the Jim River Drainage, the Fish Creek drainage upstream from and including the Bonanza Creek drainage, to the 1,410 ft. peak of the hydrologic divide with the northern fork of the Kanuti Chalatna River at N lat. 66°33.303′ W long. 151°03.637′ and following the unnamed northern fork of the Kanuti Chalatna Creek to the confluence of the southern fork of the Kanuti Chalatna River at N lat. 66°27.090′ W long. 151°23.841′, 4.2 miles SSW (194 degrees true) of Clawanmenka Lake and following the unnamed southern fork of the Kanuti Chalatna Creek to the hydrologic divide with the Kanuti River drainage at N lat. 66°19.789′ W long. 151°10.102′, 3.0 miles ENE (79 degrees true) from the 2,055 ft. peak on that divide, and the Kanuti River drainage upstream from the confluence of an unnamed creek at N lat. 66°13.050′ W long. 151°05.864′, 0.9 miles SSE (155 degrees true) of a 1,980 ft. peak on that divide, and following that unnamed creek to the Unit 24 boundary on the hydrologic divide to the Ray River drainage at N lat. 66°03.827′ W long. 150°49.988′ at the 2,920 ft. peak of that divide.

(B) Unit 24B consists of the Koyukuk River Drainage upstream from Dog Island to the Subunit 24A boundary.

(C) Unit 24C consists of the Hogatza River Drainage, the Koyukuk River Drainage upstream from Batza River on the north side of the Koyukuk River and upstream from and including the Indian River Drainage on the south side of the Koyukuk River to the Subunit 24B boundary.

(D) Unit 24D consists of the remainder of Unit 24.

(ii) In the following areas, the taking of wildlife for subsistence uses is prohibited or restricted on public land:

(A) You may not use firearms, snowmobiles, licensed highway vehicles, or motorized vehicles, except aircraft and boats, in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, and Stevens Village, and residents living within the Corridor may use firearms within the Corridor only for subsistence taking of wildlife.

(B) You may not use aircraft for hunting moose, including transportation of any moose hunter or moose part in the Kanuti Controlled Use Area, which consists of that portion of Unit 24 bounded by a line from the Bettles Field VOR to the east side of Fish Creek Lake, to Old Dummy Lake, to the south end of Lake Todatonten (including all waters of these lakes), to the northernmost headwaters of Siruk Creek, to the highest peak of Double Point Mountain, then back to the Bettles Field VOR; however, this does not apply to transportation of a moose hunter or moose part by aircraft between publicly owned airports in the controlled use area or between a publicly owned airport within the area and points outside the area.

(C) You may not use aircraft for hunting moose, including transportation of any moose hunter or moose part in the Koyukuk Controlled Use Area, which consists of those portions of Units 21 and 24 bounded by a line from the north bank of the Yukon River at Koyukuk at 64°52.58′ N lat., 157°43.10′ W long., then northerly to the confluences of the Honhosa and Kateel Rivers at 65°28.42′ N lat., 157°44.89′ W long., then northeasterly to the confluences of Billy Hawk Creek and the Huslia River (65°57 N lat., 156°41 W long.) at 65°56.66′ N lat., 156°40.81′ W long., then easterly to the confluence of the forks of the Dakli River at 66°02.56′ N lat., 156°12.71′ W long., then easterly to the confluence of McLanes Creek and the Hogatza River at 66°00.31′ N lat., 155°18.57′ W long., then southwesterly to the crest of Hochandochtla Mountain at 65°31.87′ N lat., 154°52.18′ W long., then southwest to the mouth of Cottonwood Creek at 65°13.00′ N lat., 156° 06.43′ W long., then southwest to Bishop Rock (Yistletaw) at 64° 49.35′ N. lat., 157°21.73′ W long., then westerly along the north bank of the Yukon River (including Koyukuk Island) to the point of beginning. However, this does not apply to transportation of a moose hunter or moose part by aircraft between publicly owned airports in the controlled use area or between a publicly owned airport within the area and points outside the area. All hunters on the Koyukuk River passing the ADF&G-operated check station at Ella's Cabin (15 miles upstream from the Yukon on the Koyukuk River) are required to stop and report to ADF&G personnel at the check station.

(iii) You may hunt brown bear by State registration permit in lieu of a resident tag if you have obtained a State registration permit prior to hunting. You may not use aircraft in any manner for brown bear hunting under the authority of a brown bear State registration permit, including transportation of hunters, bears, or parts of bears. However, this prohibition does not apply to transportation of bear hunters or bear parts by regularly scheduled flights to and between communities by carriers that normally provide scheduled service to this area, nor does it apply to transportation of aircraft to or between publicly owned airports.

(iv) Unit-specific regulations:

(A) You may use bait to hunt black bear between April 15 and June 30; and in the Koyukuk Controlled Use Area, you may also use bait to hunt black bear Sep. 1-25.

(B) Arctic fox, incidentally taken with a trap or snare intended for red fox, may be used for subsistence purposes.

(C) If you are a resident of Units 24A, 24B, or 24C, during the dates of Oct. 15-Apr. 30, you may use an artificial light when taking a black bear, including a sow accompanied by cub(s), at a den site within the portions of Gates of the Arctic National Park and Preserve that are within Units 24A, 24B, or 24C.

Table 24 to Paragraph (n)(24)
Harvest limits | Open season
Hunting
Black Bear: 3 bears | July 1-June 30.
Brown Bear:
Unit 24B, that portion within Gates of the Arctic National Park—2 bears by State registration permit | Aug. 10-June 30
Unit 24 remainder—1 bear by State registration permit | Aug. 10-June 30
Caribou:
Unit 24A, that portion south of the south bank of the Kanuti River—1 caribou | Aug. 10-Mar. 31.
Unit 24B, that portion south of the south bank of the Kanuti River, upstream from and including that portion of the Kanuti-Kilolitna River drainage, bounded by the southeast bank of the Kodosin-Nolitna Creek, then downstream along the east bank of the Kanuti-Kilolitna River to its confluence with the Kanuti River—1 caribou | Aug. 10-Mar. 31.
Units 24A remainder, 24B remainder—5 caribou per day as follows:
Calves may not be taken.
Bulls may be harvested | July 1-Oct. 14. Feb. 1-June 30.
Cows may be harvested | July 15-Apr. 30.
Units 24C, 24D—5 caribou per day as follows:
Calves may not be taken.
Bulls may be harvested | July 1-Oct. 14. Feb. 1-June 30.
Cows may be harvested | Sep. 1-Mar. 31.
Sheep:
Units 24A and 24B (Anaktuvuk Pass residents only), that portion within the Gates of the Arctic National Park—community harvest quota of 60 sheep, no more than 10 of which may be ewes, and a daily possession limit of 3 sheep per person, no more than 1 of which may be a ewe | July 15-Dec. 31.
Units 24A and 24B (excluding Anaktuvuk Pass residents), that portion within the Gates of the Arctic National Park—3 sheep, no more than one of which may be a ewe, by Federal registration permit only, with exception for residents of Alatna and Allakaket who will report by a National Park Service community harvest system | Aug. 1-Apr. 30.
Unit 24A, except that portion within the Gates of the Arctic National Park—1 ram by Federal registration permit only | Aug. 20-Sep. 30.
Unit 24, remainder—1 ram with ⅞ curl or larger horn | Aug. 10-Sep. 20.
Moose:
Unit 24A—1 antlered bull by Federal registration permit | Aug. 25-Oct. 1.
Unit 24B, that portion within the John River Drainage—1 moose by State harvest ticket | Aug. 1-Dec. 14.
| or
1 antlered bull by State registration permit | Dec. 15-Apr. 15.
Unit 24B, remainder—1 antlered bull by State harvest ticket | Aug. 25-Oct. 1.
or | or
1 antlered bull by State registration permit | Dec. 15-Apr. 15.
Federal public lands in the Kanuti Controlled Use Area, as described in Federal regulations, are closed to taking of moose, except by federally qualified subsistence users of Unit 24, Koyukuk, and Galena.
Units 24C and 24D, that portion within the Koyukuk Controlled Use Area and Koyukuk National Wildlife Refuge—1 bull | Sep. 1-25.
1 antlerless moose by Federal permit if authorized by announcement by the Koyukuk/Nowitna National Wildlife Refuge Manager and BLM Field Office Manager Central Yukon Field Office. Harvest of cow moose accompanied by calves is prohibited. A harvestable surplus of cows will be determined for a quota. | Mar. 1-5 to be announced.
or | or
1 antlered bull by Federal permit, if there is no Mar. 1-5 season and if authorized by announcement by the Koyukuk/Nowitna National Wildlife Refuge Manager and BLM Field Office Manager Central Yukon Field Office. Harvest of cow moose accompanied by calves is prohibited. Announcement for the March and April seasons and harvest quotas will be made after consultation with the ADF&G Area Biologist and the Chairs of the Western Interior Alaska Subsistence Regional Advisory Council, and the Middle Yukon and Koyukuk River Fish and Game Advisory Committees. | Apr. 10-15 to be announced.
Unit 24C, remainder and Unit 24D, remainder—1 antlered bull. During the Sep. 5-25 season, a State registration permit is required. | Aug. 25-Oct. 1.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx: 2 lynx | Nov. 1-Feb. 28.
Wolf: 15 wolves; however, no more than 5 wolves may be taken prior to Nov. 1 | Aug. 10-Apr. 30.
Wolverine: 5 wolverine; however, no more than 1 wolverine may be taken prior to Nov. 1 | Sep. 1-Mar. 31.
Grouse (Spruce, Ruffed, and Sharp-tailed): 15 per day, 30 in possession | Aug. 10-Apr. 30.
Ptarmigan (Rock and Willow): 20 per day, 40 in possession | Aug. 10-Apr. 30.
Trapping
Beaver: No limit | Nov. 1-June 10.
Coyote: No limit | Nov. 1-Mar. 31.
Fox, Red (including Cross, Black and Silver Phases): No limit | Nov. 1-Feb. 28.
Lynx:
Unit 24A—no limit | Nov. 1-Mar 31.
Units 24B, 24C, and 24D—no limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(25) Unit 25. (i) Unit 25 consists of the Yukon River drainage upstream from but not including the Hamlin Creek drainage, and excluding drainages into the south bank of the Yukon River upstream from the Charley River:

(A) Unit 25A consists of the Hodzana River drainage upstream from the Narrows, the Chandalar River drainage upstream from and including the East Fork drainage, the Christian River drainage upstream from Christian, the Sheenjek River drainage upstream from and including the Thluichohnjik Creek, the Coleen River drainage, and the Old Crow River drainage.

(B) Unit 25B consists of the Little Black River drainage upstream from but not including the Big Creek drainage, the Black River drainage upstream from and including the Salmon Fork drainage, the Porcupine River drainage upstream from the confluence of the Coleen and Porcupine Rivers, and drainages into the north bank of the Yukon River upstream from Circle, including the islands in the Yukon River.

(C) Unit 25C consists of drainages into the south bank of the Yukon River upstream from Circle to the Subunit 20E boundary, the Birch Creek drainage upstream from the Steese Highway bridge (milepost 147), the Preacher Creek drainage upstream from and including the Rock Creek drainage, and the Beaver Creek drainage upstream from and including the Moose Creek drainage.

(D) Unit 25D consists of the remainder of Unit 25.

(ii) In the following areas, the taking of wildlife for subsistence uses is prohibited or restricted on public land:

(A) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, and Stevens Village, and residents living within the Corridor may use firearms within the Corridor only for subsistence taking of wildlife.

(B) The Arctic Village Sheep Management Area consists of that portion of Unit 25A north and west of Arctic Village, which is bounded on the east by the East Fork Chandalar River beginning at the confluence of Red Sheep Creek and proceeding southwesterly downstream past Arctic Village to the confluence with Crow Nest Creek, continuing up Crow Nest Creek, through Portage Lake, to its confluence with the Junjik River; then down the Junjik River past Timber Lake and a larger tributary, to a major, unnamed tributary, northwesterly, for approximately 6 miles where the stream forks into two roughly equal drainages; the boundary follows the easternmost fork, proceeding almost due north to the headwaters and intersects the Continental Divide; the boundary then follows the Continental Divide easterly, through Carter Pass, then easterly and northeasterly approximately 62 miles along the divide to the headwaters of the most northerly tributary of Red Sheep Creek then follows southerly along the divide designating the eastern extreme of the Red Sheep Creek drainage then to the confluence of Red Sheep Creek and the East Fork Chandalar River.

(iii) Unit-specific regulations:

(A) You may use bait to hunt black bear between April 15 and June 30 and between August 1 and September 25; in Unit 25D you may use bait to hunt brown bear between April 15 and June 30 and between August 1 and September 25; you may use bait to hunt wolves on FWS and BLM lands.

(B) You may take caribou and moose from a boat moving under power in Unit 25.

(C) The taking of bull moose outside the seasons provided in this part for food in memorial potlatches and traditional cultural events is authorized in Unit 25D west provided that:

(1) The person organizing the religious ceremony or cultural event contacts the Refuge Manager, Yukon Flats National Wildlife Refuge, prior to taking or attempting to take bull moose and provides to the Refuge Manager the name of the decedent, the nature of the ceremony or cultural event, number to be taken, and the general area in which the taking will occur.

(2) Each person who takes a bull moose under this section must submit a written report to the Refuge Manager, Yukon Flats National Wildlife Refuge, not more than 15 days after the harvest specifying the harvester's name and address, and the date(s) and location(s) of the taking(s).

(3) No permit or harvest ticket is required for taking under this section; however, the harvester must be an Alaska rural resident with customary and traditional use in Unit 25D west.

(4) Any moose taken under this provision counts against the annual quota of 60 bulls.

Table 25 to Paragraph (n)(25)
Harvest limits | Open season
Hunting
Black Bear:
Units 25A, 25B, and 25C—3 bears or 3 bears by State community harvest permit | July 1-June 30. July 1-June 30.
Unit 25D—5 bears | July 1-June 30.
Brown Bear:
Units 25A and 25B—1 bear | Aug. 10-June 30.
Unit 25C—1 bear | Sep. 1-May 31.
Unit 25D—2 bears every regulatory year | July 1-June 30.
Caribou:
Unit 25A—in those portions west of the east bank of the East Fork of the Chandalar River extending from its confluence with the Chandalar River upstream to Guilbeau Pass and north of the south bank of the mainstem of the Chandalar River at its confluence with the East Fork Chandalar River west (and north of the south bank) along the West Fork Chandalar River—10 caribou. However, only bulls may be taken May 16-June 30 | July 1-June 30.
Unit 25C—up to 3 caribou, to be announced, by a joint Federal/State registration permit | Fall season between Aug. 1 and Sep. 30, to be announced. Winter season between Oct. 21 and Mar. 31, to be announced
Unit 25D, that portion of Unit 25D drained by the west fork of the Dall River west of 150 °W long.-1 bull | Aug. 10-Sep. 30. Dec. 1-31.
Units 25A remainder, 25B, and Unit 25D, remainder—10 caribou | July 1-Apr. 30.
Sheep:
Unit 25A, that portion within the Dalton Highway Corridor Management Area | No open season.
Units 25A, Arctic Village Sheep Management Area—2 rams by Federal registration permit only | Aug. 10-Apr. 30.
Federal public lands are closed to the taking of sheep except by rural Alaska residents of Arctic Village, Venetie, Fort Yukon, Kaktovik, and Chalkyitsik hunting under these regulations.
Unit 25A remainder—3 sheep by Federal registration permit only | Aug. 10-Apr. 30.
Units 25B, 25C, and 25D—1 ram with full-curl horn or larger | Aug. 10-Sep. 20.
Moose:
Unit 25A, that portion within the Coleen, Firth, and Old Crow River drainages—1 antlered bull | Aug. 25-Sep. 25. Dec. 1-20.
Unit 25A remainder-1 antlered bull | Aug. 25-Sep. 25. Dec. 1-10.
Unit 25B, that portion within Yukon-Charley National Preserve—1 bull | Aug. 20-Oct. 7.
Unit 25B, that portion within the Porcupine River drainage upstream from, but excluding the Coleen River drainage—1 antlered bull | Aug. 25-Oct. 7. Dec. 1-10.
Unit 25B, that portion, other than Yukon-Charley Rivers National Preserve, draining into the north bank of the Yukon River upstream from and including the Kandik River drainage, including the islands in the Yukon River—1 antlered bull | Sep. 5-Oct. 7. Dec. 1-15.
Unit 25B remainder—1 antlered bull | Aug. 25-Oct. 7. Dec. 1-15.
Unit 25C—1 antlered bull | Aug. 20-Sep. 30.
Unit 25D (west), that portion lying west of a line extending from the Unit 25D boundary on Preacher Creek, then downstream along Preacher Creek, Birch Creek, and Lower Mouth of Birch Creek to the Yukon River, then downstream along the north bank of the Yukon River (including islands) to the confluence of the Hadweenzic River, then upstream along the west bank of the Hadweenzic River to the confluence of Forty and One-Half Mile Creek, then upstream along Forty and One-Half Mile Creek to Nelson Mountain on the Unit 25D boundary—1 bull by a Federal registration permit. Permits will be available in the following villages: Beaver (25 permits), Birch Creek (10 permits), and Stevens Village (25 permits). Permits for residents of 25D (west) who do not live in one of the three villages will be available by contacting the Yukon Flats National Wildlife Refuge Office in Fairbanks or a local Refuge Information Technician. Moose hunting on public land in Unit 25D (west) is closed at all times except for residents of Unit 25D (west) hunting under these regulations. The moose season will be closed by announcement of the Refuge Manager Yukon Flats NWR when 60 moose have been harvested in the entirety (from Federal and non-Federal lands) of Unit 25D (west) | Aug. 25-Feb. 28.
Unit 25D, remainder—1 antlered moose | Aug. 25-Oct. 1. Dec. 1-20.
Beaver:
Unit 25A, 25B, and 25D—1 beaver per day; 1 in possession | June 11-Aug. 31.
Unit 25A, 25B, and 25D—no limit | Sep. 1-June 10.
Unit 25C | No open season.
Coyote: 10 coyotes | Aug. 10-Apr. 30.
Fox, Red (including Cross, Black and Silver Phases): 10 foxes; however, no more than 2 foxes may be taken prior to Oct. 1 | Sep. 1-Mar. 15.
Hare (Snowshoe): No limit | July 1-June 30.
Lynx:
Unit 25C—2 lynx | Dec. 1-Jan. 31.
Unit 25, remainder—2 lynx | Nov. 1-Feb. 28.
Muskrat:
Units 25B and 25C, that portion within Yukon-Charley Rivers National Preserve—No limit | Nov. 1-June 10.
Unit 25, remainder | No open season.
Wolf:
Unit 25A—No limit | Aug. 10-Apr. 30.
Unit 25, remainder—10 wolves | Aug. 10-Apr. 30.
Wolverine: 1 wolverine | Sep. 1-Mar. 31.
Grouse (Spruce, Ruffed, and Sharp-tailed):
Unit 25C—15 per day, 30 in possession | Aug. 10-Mar. 31.
Unit 25, remainder—15 per day, 30 in possession | Aug. 10-Apr. 30.
Ptarmigan (Rock and Willow):
Unit 25C, those portions within 5 miles of Route 6 (Steese Highway)—20 per day, 40 in possession | Aug. 10-Mar. 31.
Unit 25, remainder—20 per day, 40 in possession | Aug. 10-Apr. 30.
Trapping
Beaver:
Unit 25C—No limit | Nov. 1-Apr. 15.
Unit 25, remainder—50 beaver | Nov. 1-Apr. 15.
Coyote: No limit | Oct. 1-Apr. 30.
Fox:
Red fox (including Cross, Black and Silver Phases): No limit | Nov. 1-Feb. 28.
Arctic fox: No limit | Nov. 1-last day of Feb.
Lynx: No limit | Nov. 1-Mar. 31.
Marten: No limit | Nov. 1-Feb. 28.
Mink and Weasel: No limit | Nov. 1-Feb. 28.
Muskrat: No limit | Nov. 1-June 10.
Otter: No limit | Nov. 1-Apr. 15.
Wolf: No limit | Oct. 1-Apr. 30.
Wolverine:
Unit 25C—No limit | Nov. 1-Mar. 31.
Unit 25, remainder—No limit | Nov. 1-Mar. 31.

(26) Unit 26. (i) Unit 26 consists of Arctic Ocean drainages between Cape Lisburne and the Alaska—Canada border, including the Firth River drainage within Alaska:

(A) Unit 26A consists of that portion of Unit 26 lying west of the Itkillik River drainage and west of the east bank of the Colville River between the mouth of the Itkillik River and the Arctic Ocean;

(B) Unit 26B consists of that portion of Unit 26 east of Unit 26A, west of the west bank of the Canning River and west of the west bank of the Marsh Fork of the Canning River; and

(C) Unit 26C consists of the remainder of Unit 26.

(ii) In the following areas, the taking of wildlife for subsistence uses is prohibited or restricted on public land:

(A) You may not use aircraft in any manner for moose hunting, including transportation of moose hunters or parts of moose during the periods July. 1-Sep. 14 and Jan. 1-Mar. 31 in Unit 26A; however, this does not apply to transportation of moose hunters, their gear, or moose parts by aircraft between publicly owned airports.

(B) You may not use firearms, snowmobiles, licensed highway vehicles or motorized vehicles, except aircraft and boats, in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife.

(iii) You may not use aircraft in any manner for brown bear hunting, including transportation of hunters, bears or parts of bears. However, this does not apply to transportation of bear hunters or bear parts by regularly scheduled flights to and between communities by carriers that normally provide scheduled service to this area, nor does it apply to transportation of aircraft to or between publicly owned airports.

(iv) Unit-specific regulations:

(A) You may take caribou from a boat moving under power in Unit 26.

(B) In addition to other restrictions on method of take found in this section, you may also take swimming caribou with a firearm using rimfire cartridges.

(C) In Kaktovik, a federally qualified subsistence user (recipient) may designate another federally qualified subsistence user to take sheep or musk ox on his or her behalf. The designated hunter must obtain a designated hunter permit and must return a completed harvest report. The designated hunter may hunt for any number of recipients but may have no more than two harvest limits in his/her possession at any one time.

(D) For the DeLong Mountain sheep hunts, a federally qualified subsistence user (recipient) may designate another federally qualified subsistence user to take sheep on his or her behalf. The designated hunter must obtain a designated hunter permit and must return a completed harvest report. The designated hunter may hunt for only one recipient in the course of a season and may have both his and the recipient's harvest limits in his/her possession at the same time.

Table 26 to Paragraph (n)(26)
Harvest limits | Open season
Hunting
Black Bear: 3 bears | July 1-June 30.
Brown Bear:
Unit 26A, that portion within Gates of the Arctic National Park—2 bear by State subsistence registration permit | July 1-June 30.
Unit 26A remainder—1 bear by State subsistence registration permit | July 1-June 30.
Unit 26B—1 bear | Jan. 1-Dec. 31.
Unit 26C—1 bear | Aug. 10-June 30.
Caribou:
Unit 26A—that portion of the Colville River drainage upstream from the Anaktuvuk River, and drainages of the Chukchi Sea south and west of, and including the Utukok River drainage—5 caribou per day by State registration permit as follows:
Calves may not be taken.
Bulls may be harvested | July 1-Oct. 14. Dec. 6-June 30.
Cows may be harvested; however, cows accompanied by calves may not be taken July 16-Oct. 15 | July 16-Mar. 15.
Unit 26A remainder—5 caribou per day by State registration permit as follows:
Calves may not be taken
Bulls may be harvested | July 1-Oct. 15. Dec. 6-June 30.
Up to 3 cows per day may be harvested; however, cows accompanied by calves may not be taken July 16-Oct. 15 | July 16-Mar. 15
Unit 26B, that portion south of 69°30′ N lat. and west of the Dalton Highway—5 caribou per day as follows:
Bulls may be harvested | July 1-Oct. 14. Dec. 10-June 30.
Cows may be harvested | July 1-Apr. 30.
Unit 26B remainder—5 caribou per day as follows:
Bulls may be harvested | July 1-June 30.
Cows may be harvested | July 1-May 15.
Unit 26C—10 caribou per day | July 1-Apr. 30.
You may not transport more than 5 caribou per regulatory year from Unit 26 except to the community of Anaktuvuk Pass
Sheep:
Units 26A and 26B (Anaktuvuk Pass residents only), that portion within the Gates of the Arctic National Park—community harvest quota of 60 sheep, no more than 10 of which may be ewes and a daily possession limit of 3 sheep per person, no more than 1 of which may be a ewe | July 15-Dec. 31.
Unit 26A (excluding Anaktuvuk Pass residents), those portions within the Gates of the Arctic National Park—3 sheep | Aug. 1-Apr. 30.
Unit 26A, that portion west of Howard Pass and the Etivluk River (DeLong Mountains)—1 sheep by Federal registration permit | Season may be announced.
Unit 26B, that portion within the Dalton Highway Corridor Management Area—1 ram with ⅞ curl or larger horn by Federal registration permit only | Aug. 10-Sep. 20.
Unit 26A, remainder and 26B, remainder, including the Gates of the Arctic National Preserve—1 ram with ⅞ curl or larger horn | Aug. 10-Sep. 20.
Unit 26C—3 sheep per regulatory year; the Aug. 10-Sep. 20 season is restricted to 1 ram with ⅞ curl or larger horn. A Federal registration permit is required for the Oct. 1-Apr. 30 season | Aug. 10-Sep. 20. Oct. 1-Apr. 30.
Moose:
Unit 26A, that portion of the Colville River drainage upstream from and including the Anaktuvuk River drainage—1 bull | Aug. 1-Sep. 14.
Unit 26A, that portion of the Colville River drainage upstream from and including the Anaktuvuk River drainage—1 moose; however, you may not take a calf or a cow accompanied by a calf | Feb. 15-Apr. 15.
Unit 26A, that portion west of the eastern shore of Admiralty Bay where the Alaktak River enters, following the Alaktak River to 155°00′ W longitude excluding the Colville River drainage—1 moose; however, you may not take a calf or a cow accompanied by a calf | July 1-Sep. 14.
Unit 26A, remainder—1 bull | Aug. 1-Sep. 14.
Unit 26B, excluding the Canning River drainage—1 bull | Sep. 1-14.
Units 26B, remainder and 26C—1 moose by Federal registration permit by residents of Kaktovik only. Federal public lands are closed to the taking of moose except by a Kaktovik resident holding a Federal registration permit and hunting under these regulations | May be announced.
Musk ox:
Unit 26A, that portion west of the eastern shore of Admiralty Bay where the Alaktak River enters, following the Alaktak River to 155°00′ W longitude south to the Unit 26A border—1 musk ox by Federal drawing permit | Aug.1-Mar. 15.
Units 26A remainder and 26B | No open Federal season.
Unit 26C—1 bull by Federal registration permit only. The number of permits that may be issued only to the residents of the village of Kaktovik will not exceed three percent (3%) of the number of musk oxen counted in Unit 26C during a pre-calving census. Public lands are closed to the taking of musk ox, except by rural Alaska residents of the village of Kaktovik hunting under these regulations | July 15-Mar. 31.
Coyote: 2 coyotes | Sep. 1-Apr. 30.
Fox, Arctic (Blue and White Phase): 2 foxes | Sep. 1-Apr. 30.
Fox, Red (including Cross, Black and Silver Phases):
Units 26A and 26B—10 foxes; however, no more than 2 foxes may be taken prior to Oct. 1 | Sep. 1-Mar. 15.
Unit 26C—10 foxes | Nov. 1-Apr. 15.
Hare (Snowshoe and Tundra): No limit | July 1-June 30.
Lynx: 2 lynx | Nov. 1-Apr. 15.
Wolf: 15 wolves | Aug. 10-Apr. 30.
Wolverine: 5 wolverine | Sep. 1-Mar. 31.
Ptarmigan (Rock and Willow): 20 per day, 40 in possession | Aug. 10-Apr. 30.
Trapping
Coyote: No limit | Nov. 1-Apr. 15.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

5. Amend § __.27 by revising the introductory text of paragraph (e)(11) and paragraphs (e)(11)(iv), (v), and (xvii) to read as follows:

§ __.27 Subsistence taking of fish.

* * * * *

(e) * * *

(11) Prince William Sound Area. The Prince William Sound Area includes all waters and drainages of Alaska between the longitude of Cape Fairfield and the longitude of Cape Suckling. The Lower Copper River Area includes that portion of the Copper River, from a boundary one-half mile upstream of the Copper River Highway to a boundary extending one-half mile downstream of the Copper River Highway, from the west bank of the river near highway mile 27 to the east bank of the river near highway mile 38.

* * * * *

(iv) In the Copper River drainage, you may take salmon only in the waters of the Upper Copper River District or in the vicinity of the Native Village of Batzulnetas and in the Lower Copper River Area.

(v) In the Upper Copper River District, you may take salmon only by fish wheels, rod and reel, or dip nets. In the Lower Copper River Area, you may take salmon only by dip nets and rod and reel. All salmon retained from the Lower Copper River Area must be reported to area managers within 48 hours of harvest.

(A) In the Lower Copper River Area, you may not dip net from a boat.

(B) In the Lower Copper River Area, the salmon fishery opens on June 1 and closes on September 30.

* * * * *

(xvii) In the Chugach National Forest portion of the Prince William Sound Area, and the Lower Copper River Area, you must possess a Federal subsistence fishing permit to take salmon, trout, whitefish, grayling, Dolly Varden, or char. Permits are available from the Cordova Ranger District.

(A) Salmon harvest is not allowed in Eyak Lake and its tributaries, the remainder of the Copper River and its tributaries outside of the Lower Copper River Area, and Eyak River upstream from the Copper River Highway Bridge.

(B) You must record on your subsistence permit the number of subsistence fish taken. You must record all harvested fish prior to leaving the fishing site and return the permit by the due date marked on the permit.

(C) You must remove both lobes of the caudal (tail) fin from subsistence-caught salmon before leaving the fishing site.

(D) Excluding the areas described in paragraph (e)(11)(xvii)(A) of this section, you may take salmon by rod and reel, dip net, spear, and gaff year-round.

(E) For a household with 1 person, 15 salmon (other than pink) may be taken, and 5 cutthroat trout, with only 2 over 20 inches, may be taken; no more than 5 Chinook salmon per household; for pink salmon, see the conditions of the permit.

(F) For a household with 2 persons, 30 salmon (other than pink) may be taken, plus an additional 10 salmon for each additional person in a household over 2 persons, and 5 cutthroat trout, with only 2 over 20 inches per each household member with a maximum household limit of 30 cutthroat trout may be taken; no more than 5 Chinook salmon per household; for pink salmon, see the conditions of the permit.

(G) You may take Dolly Varden, Arctic char, whitefish, and grayling with rod and reel and spear year-round and with a gillnet from January 1 to April 1. The maximum incidental gillnet harvest of trout is 10.

(H) You may take cutthroat trout with rod and reel and spear from June 15 to April 14 and with a gillnet from January 1 to April 1.

(I) You may not retain rainbow/steelhead trout for subsistence unless taken incidentally in a subsistence gillnet fishery. Rainbow/steelhead trout must be immediately released from a dip net without harm.

* * * * *

Sue Detwiler
Assistant Regional Director, U.S. Fish and Wildlife Service.
Bridget Darr
Director of Natural Resources, USDA-Forest Service.

[FR Doc. 2022-15409 Filed 7-25-22; 8:45 am]

BILLING CODE 3411-15-4333-15-P